OFFICE OF PERSONNEL MANAGEMENT

SES Positions That Were Career Reserved During 2002

AGENCY: Office of Personnel Management.

ACTION: Notice

SUMMARY: As required by section 3132(b)(4) of title 5, United States Code, this gives notice of all positions in the Senior Executive Service (SES) that were career reserved during 2002.

FOR FURTHER INFORMATION CONTACT: Delores Everett, Office of Executive Resources Management, (202 606-1610.

SUPPLEMENTARY INFORMATION: Below is a list of titles of SES positions that were career reserved at any time during calendar year 2002, regardless of whether those positions were career reserved on December 31, 2002. Section 3132(b)(4) of title 5, united States Code, requires that the head of each agency publish such lists by March 1 of the following year. The Office of Personnel Management is publishing a consolidated list for all agencies.

U.S. Office of Personnel Management.
Kay Coles James,
Director.

Positions That Were Career Reserved During Calendar Year 2002
Agency organization | Career reserved positions
Advisory Council on Historic Preservation:
Office of the Executive Director | Executive Director.
| Special Assistant.
Department of Agriculture:
Office of the Chief Information Officer | Deputy Chief Information Officer.
| Associate Deputy Director, NTIC.
Office of the Chief Financial Officer | Deputy Chief Financial Officer.
| Project Manager.
National Finance Center | Director, Applications Systems Division.
| Director, Information Resources Management Division.
| Director, Financial Services Division.
| Director, Thrift Savings Plan Division.
| Deputy Director.
Office of the Inspector General | Assistant Inspector General for Investigations.
| Deputy Assistant Inspector General for Investigation.
| Asst Inspector General for Audit.
| Deputy Assistant Inspector General for Audit.
| Deputy Assistant Inspector General for Audit.
| Assistant Inspector General for Policy Development and Research Management.
| Deputy Assistant Inspector General for Investment Immediate Office.
| Deputy Inspector General.
Office of the Chief Econommist | Dir Ofc of Risk Assessment and Cost-Benefit Anl Chairperson.
| Director Global Change Program Office.
| Director, Office of Energy Policy and New Uses.
Office of Operations | Director Office of Operations.
Procurement and Property Management | Director, Procurement and Property Management.
| Deputy Director, Office of Property and Procurement Management.
Office of Outreach | Director, USDA Program Outreach Division.
Rural Housing Service | Controller.
| Director Centralized Servicing Center.
Rural Business Service | Deputy Administrator for Business Programs.
Agricultural Marketing Service | Deputy Administrator, Fruit and Vegetable Programs.
| Deputy Administrator, Dairy Programs.
| Deputy Administrator, Livestock and Seed Programs.
| Deputy Administrator, Tobacco Programs.
| Deputy Administrator, Compliance and Analysis.
| Deputy Administrator, Cotton Programs.
| Deputy Administrator, Science and Technology Programs.
| Deputy Administrator, Transportation and Marketing Programs.
| Deputy Administrator, Poultry Programs.
Grain Inspection, Packers and Stockyards Administration | Director Field Management Division.
Animal and Plant Health Inspection Service | Deputy Administrator for Marketing and Regulatory Programs—Business Services.
| Associate Deputy Administrator for Management and Budget.
| Deputy Administrator, Animal Care.
| Director, Center for Plant Health Science and Technology.
| Assistant Deputy Administrator for Emergency Programs, Plant Protection and Quarantine.
| Associate Deputy Administrator, Wildlife Services.
| Assistant Deputy Administrator for Agricultural Quarantine Inspection.
| Director, Eastern Region, Wildlife Services.
| APHIS International Organization Coordinator.
Veterinary Services | Director, South Eastern Region, Veterinary Services.
| Director, Western Region.
| Director, Central Region.
| Deputy Administrator, Wildlife Services.
| Director, Animal Health Programs, Veterinary Services.
| Director, Center for Epidemiology and Animal Health.
Plant Protection and Quarantine Service | Deputy Administrator, International Services.
| Director, Western Region.
| Director, Plant Health Programs, PPQ.
| Director, Eastern Region.
Food Safety and Inspection Service | Deputy Administrator, Office of Management.
| United States Coordinator for Codex Alimentarius.
| Assistant Deputy Administrator, Office of Management.
| Associate Deputy Administrator, Office of Policy, Program Development and Evaluation.
| Assistant Deputy Administrator, Office of Management.
| Deputy Administrator.
| Assistant Deputy Administrator.
| Deputy Administrator.
| Associate Deputy Administrator.
| Assistant Deputy Administrator.
| Assistant Deputy Administrator, District Enforcement Operations.
| Director, Technical Service Center, Office of Field Operations.
| Deputy Administrator.
| Assistant Deputy Administrator.
| Assistant Deputy Administrator, OPPDE.
| Assistant Deputy Administrator.
| Assistant Deputy Administrator.
| Associate Deputy Administrator.
| Deputy Administrator.
| Associate Administrator.
| Assistant Deputy Administrator, Office of Public Health and Science.
| Assistant Deputy Administrator, District Inspection Operations.
| Assistant Administrator, Staff Services.
| Director, Enforcement Operations.
Food and Nutrition Service | Deputy Administrator for Financial Management.
| Deputy Admr for Management.
| Deputy Administrator for Operations and Mgmt.
| Associate Administrator.
| Director, Office of Analysis and Evaluation.
Farm Service Agency | Controller.
| Director Management Services Division.
| Director, Budget Division.
| Deputy Administrator for Farm Loan Programs.
| Director, Financial Management Division.
Foreign Agricultural Service | Director, Grain and Feed Division.
| Assistant Deputy Administrator Management.
| Director, Cotton, Oilseeds, Tobacco and Seeds Division.
Risk Management Agency | Deputy Administrator for Research and Development.
| Deputy Administrator for Insurance Services Division.
Agricultural Research Service | Assistant Administrator for Technology Transfer.
| Assistant Administrator for Genetic Resources.
| Deputy Administrator for Administration and Financial Management.
| Director, Office of Pest Management Policy.
| Director, National Animal Disease Center.
| Associate Administrator, Special Interagency Programs.
| Issues Manager.
| Chief Budget Officer.
| Associate Deputy Administrator.
National Program Staff Office | Deputy Administrator National Program Staff.
| Associate Deputy Administrator for Animal PPVANDS.
| Assoicate Deputy Admin. for Natural Resources and SAS.
| Associate Deputy Administrator for Crop Production, Product Value, and Safety.
Beltsville Area Office | Director Beltsville Area Office.
| Assoicate Director Beltsville Area.
| Director United States National Arboretum.
| Director Beltsville Human Nutrition Research Center.
| Director Plant Sciences Institute.
| Director Livestock and Poultry Sciences Institute.
| Director Natural Resources Institute.
North Atlantic Area Office | Director, Eastern Regional Research Center.
| Assoc Dir, North Atlantic area.
| Director, Plum Island Animal Disease Center.
| Director, North Atlantic Area.
South Atlantic Area Office | Associate Director South Atlantic Area.
| Director, South Atlantic Area.
| Director, Center for Medical A and V Entomology.
Midwest Area Office | Dir Midwest Area.
| Assoicate Director, Midwest Area.
| Supervisory Veterinary Medical Officer.
| Director National Center for Agri Utilization.
Midsouth Area Office | Director, Southern Regional Research Center, New Orleans.
| Director, Mid-South Area.
| Associate Director, Mid South Area.
Southern Plains Area Office | Director Southern Plains Area.
| Assoicate Director, Southern Plains Area.
Northern Plains Area Office | Director, Northern Plains Area.
| Associate Director, Northern Plains Area Office.
| Director, United States Meat Animal Research Center.
Pacific West Area Office | Director, Western Regional Research Center.
| Director, Western Human Nutrition Research Center.
| Director, Pacific West Area Office.
| Associate Director, Pacific West Area Office.
| Director, Western Cotton Research Laboratory.
Cooperative State Research, Education and Extension Service | Deputy Administrator Partnerships.
| Special Asst to the Administrator, CSREES.
| Deputy Administrator, Economic and Community Systems.
| Deputy Administrator, Office of Extramural Programs.
| Deputy Administrator, Information Systems and Technology Management.
Economic Research Service | Administrator, Economic Research Service.
| Associate Administrator-Economic RSCH SVC.
| Director, Natural Resources and Environment Division.
| Director, Information Services Division.
| Budget Coordinator and Strategic Planner.
| Dir Food and Consumer Economics Division.
| Director, Market and Trade Economics Division.
National Agricultural Statistics Service | Administrator, National Agricultural Statistics Service.
| Deputy Administrator for Field Operations.
| Associate Administrator.
| Deputy Administrator for Programs and Products.
| Director, Statistics Division.
| Director, Research and Development Division.
| Director, Census and Survey Division.
| Director, Information Technology Division.
| Associate Deputy Administrator (Western United States).
| Associate Deputy Administrator (Eastern United States).
Natural Resources Conservation Service | Director Engineering Division.
| Director Ecological Sciences and Technology Division.
| Director, Soils (Soil Scientist).
| Director, Strategic Planning Division.
| Director, Operations Management and Oversight.
| Regional Conservationist—South Central.
| Regional Conservationist—Midwest Region.
| Director Conservation Operations Division.
| Deputy Chief for Management and Strategic Planning.
| Assistant Deputy Administrator.
| Senior Soil Scientist.
| Natural Resources Manager.
| Special Assistant to the Chief (Program Manager).
| Deputy Chief for Strategic Planning and Accountability.
| Director, Resource Conservation and Community Development Division.
| Director, Resource Inventory Division.
| Director, Animal Husbandry and Clean Water Programs Division.
| Associate Deputy Chief for Programs, Air, Water and Soil.
| Director, Resource Assessment Division.
| Associate Deputy Chief for Programs (Animal Husbandry).
| Director, Resource Economics and Social Sciences Division.
| Regional Conservationist—Northern Plains.
| Special Assistant to the Chief.
Forest Service | Associate Deputy Chief—Business Operations.
| Director, Fire and Aviation Staff.
| Deputy Chief, Office of Finance (CFO).
| Deputy Chief, Business Operations.
| Chief Operating Officer.
| Director, Financial Management Staff.
Research | Director, Vegetation Management and Protection Research Staff.
| Director, Resource Valuation and Use Research Staff
| Director, Wildlife, Fish and Watershed Research Staff.
| Director, Science Policy, Planning, and Information Staff.
National Forest System | Dir, Range Management Staff.
. | Director, Forest Management Staff.
| Director, Engineering Staff.
| Director, Lands Staff.
| Director, Ecosystem Management Coordination.
| Director, Wildlife, Fish, and Rare Plants.
| Director, Minerals and Geology Management Staff.
| Director, Watershed and Air Management Staff.
| Director, Recreation, Heritage, and Wilderness Research Staff.
State and Private Forestry | Director Cooperative Forestry.
| Director, Forest Health Protection.
Field Units | Northeast Area Director, State and Private Forestry.
| Station Director, North Eastern Forest Experiment Station (Newtown Square).
| Director, North Central Forest Experiment Station (Saint Paul).
| Dir, Pacific Northwest Forest and Range Experiment Station (Portland).
| Director, Pacific Southwest Forest and Range Experiment Sta (Vallejo).
| Director Rocky Mtn Forest and Range Experiment State (Ft. Collins).
| Director, Southern Research Station (Asheville).
| Director, Forest Products Laboratory (Madison).
| Dep Regional Forester, Pacific Northwest Region (Portland).
International Forest System | Director International Institute of Tropical Forest (Rio Piedras).
American Battle Monuments Commission:
Office of Executive Director | Executive Director.
Broadcasting Board of Governors:
International Broadcasting Bureau | Dir Engineering and Technical Operations.
| Deputy for Engineering Resource Control.
| Deputy for Network Operations.
| Associate Director for Management.
Department of Commerce:
Department of Commerce | Deputy Assistant Inspector General for Auditing.
| Deputy Director for Financial Services/Deputy Chief Financial Officer.
| Chief Financial Officer and Chief Administrative Officer.
| Deputy Chief Financial Officer/Direct of Budget.
| Deputy Chief Administrative Officer.
| Deputy Chief Financial Officer/Deputy Chief Administrative Officer.
| Chief Information Officer.
| Deputy Director for Financial Policy.
| Chief Information Officer and Director for High Performance Computing and Communications.
| Ch Standard Reference Materials Program.
Office of the Secretary | Director, Office of Information Policy, Planning and Review.
Office of the Chief Financial Officer and Assistant Secretary for Administration | Director for Y2K Outreach.
| Deputy Director, Office of Budget.
| Deputy Chief Information Officer.
| Director for Administrative Services.
Office of the General Counsel | Asst General Counsel for Finance and Litigation.
| Director, Office of Executive Support.
Office of the Assistant Secretary for Administration | Director for Security
Director for Human Resources Management | Director for Human Resources Management.
| Deputy Director of Human Resources Management.
Director for Financial Management | Dir for Financial Management and Deputy Chief Financial Officer.
Office of Budget Management and Information and Chief Information Officer | Director, Office of Budget.
Director for Executive Budgeting and Assistance Management | Dir for Federal Ass and Management Support.
Office of Security and Administrative Services | Director, Office of Security.
| Director, Office of Acquisition Management.
Office of the Assistant Secretary for Administration | Director for Technology Management.
| Deputy Assistant Secretary and Director for Security.
Office of Inspector General | Assistant Inspector General for Administration.
| Assistant Inspector General for Systems Evaluation.
Office of Counsel to the Inspector General | Counsel to the Inspector General.
Office of Inspections and Program Evaluation | Assistant Inspector General for Inspections and Program Evaluation.
Office of Audits | Assistant Inspector General for Auditing.
Office of Investigations | Assistant Inspector General for Investigations.
Economics and Statistics Administration | Director, Stat—USA.
| Deputy Director, Office of Policy Development.
Office of Policy Development | Senior Executive for Research.
Bureau of the Census | Assistant Director for Marketing and Customer Liaison.
| Chief, Human Resource Division.
Office of the Director | Assoc Dir for Field Operations.
| Chief Decennial Sys and Contracts Magnt Office.
| Principal Assoc Dir and Chief Financial Offc.
| Principal Associate Director for Programs.
| Special Advisor to the Deputy Director.
| Chief, Policy and Stategic Planning Division.
| Assistant to the Director.
Administrative and Customer Services Division. | Chief Admin and Customer Services Division.
Associate Director for Information Technology. | Assistant to the Director for Information Technology.
| Assoc Dir for Information Technology.
Data Preparation Division | Chief National Processing Center.
Associate Director for Economic Programs | Associate Director for Economic Programs.
| Assistant Director for Economic Programs.
Economic Planning and Coordination Division | Chf, Economic Planning and Coordination Div.
Economic Statistical Methods and Programming Division | Chf, Economic Statistical M and P Division.
Agriculture and Financial Statistics Division | Chief Company Statistics Division.
Services Division | Chief Service Sector Statistics Division.
Foreign Trade Division | Chf, Foreign Trade Div.
Governments Division | Chf, Government Div.
Manufacturing and Construction Division | Chief, Manufacturing and Construction Division.
Associate Director for Decennial Census | Associate Director for Decennial Census.
| Asst to the Assoc Dir for Decennial Census.
| Assistant Director for Decennial Census.
Decennial Management Division | Chief, Decennial Management Division.
Geography Division | Chf, Geography Division.
Decennial Statistical Studies Division | Chief, Decennial Statistical Studies Division.
Associate Director for Demographic Programs | Associate Director for Demographic Programs.
| Chf, Population Division.
| Chief, Demographic Surveys Division.
Housing and Household Economic Statistics Division | Chf, Housing and Household Econ Statistics Div.
Demographic Statistical Methods Division | Chief, Statistical Methods Division.
Associate Director for Methodology and Standards | Chief, Planning, Research, and Evaluation Division.
| Associate Direct for Methodology and Standards.
Statistical Research Division | Chief Statistical Research Division.
Bureau of Economic Analysis | Associate of Economic Analysis.
Office of the Director | Director.
| Deputy Director, Bur of Economic Analysis.
| Chief Economist.
| Chf Statistician.
| Associate Director for Management and Chief Administrative Officer.
Associate Director for Regional Economics | Assoc Dir for Regional Economics.
Associate Director for International Economics | Assoc Dir for International Economics.
Associate Director for National Income, E & W Accounts. | Assoc Dir for Natl Inc, Exp, Wealth Accounts.
| Chf Natl Income and Wealth Div.
| Chief International Investment Division.
| Chief, Computer Systems and Services Division.
Director of Administration | Director of Administration.
Office of the Assistant Secretary for Export Enforcement | Deputy Assistant Secretary for Export Enforcement.
| Director Office of Export Enforcement.
Office of the Assistant Secretary for Economic Development | Chief Financial Office/Chief Administrative Officer (CFO/CAO).
International Trade Administration | Director, Office of Environmental Technologies Industries.
Office of the Under Secretary | Chief, Financial Officer and Director of Administration.
Office of the Director of Administration | Human Resources Manager.
Office of Consumer Goods | Director Office of Consumer Goods.
Deputy Assistant Secretary for Market Access and Compliance | Dir Trade Compliance Center.
Market Access and Compliance | Director, Office of Eastern Europe, Russia, and Independent States.
| Director, Office of Multilateral Affairs.
Deputy Assistant Secretary for Agreement Compliance | Associate Director for Management.
National Oceanic and Atmospheric Administration | Chief Financial Officer/Chief Admin Officer.
| Director Staff Office for International Programs.
| Director, Office of Operations, Management and Information.
Office of International Affairs | Chief Financial Officer/Admin Officer.
Office of Finance and Administration | Director, Budget Office.
| Director, Major Projects Office.
| Dir for Human Resources Management.
| Director, Finance Office/Comptroller (Finance Office/Comptroller).
Office of High Performance Computing and Communications | Director for High Performance Computing and Communications.
Systems Acquisition Office | Chief Information Officer and Information Technology Acquisition Manager.
Office of Assistant Administrator Ocean Serv and CZM | Senior Ocean Policy Advisor.
National Ocean Service | Associate Assistant Administrator for Management and Chief Financial Officer/Chief Administrative Officer.
| Director, National Centers for Coastal Ocean Science and Scientist for NOS.
| Deputy Director, National Centers for Coastal Ocean Science Senior Scientist.
| Director, Office of National Geodtic Survey (National Geodtic Survey).
NOAA Coastal Services Center | Director, National Centers for Coastal Ocean Science.
Strategic Environmental Assessments Division | Chf, Strategic Environmental Assessments Div.
Coastal Monitoring and Bioeffects Assessment Division | Chief Coastal Monitoring Bioeffects Asses Div.
Hazardous Materials Response and Assessment Division | Chf, Hazardous Materials R and A Division.
Office of the Assistant Administrator for Weather Services. | Senior Advisor.
| Director, Strategic Planning and Policy Office.
Office of the Chief Information Officer | Chief Information Officer.
Management and Budget Office | Dep Chf Fin Ofc/Chief Adm Officer.
Officer—Fed Coordinator—Meteorology | Dir. Ofc of the Fed Coord for Meterology.
Office of Hydrologic Development | Director, Office of Hydrologic Development.
Hydrology Laboratory | Director, Hydrology Laboratory.
Office of Science and Technology | Chief, Programs and Plans Division.
| Director, Office of Science and Technology.
Meteorological Development Laboratory | Director, Meteorological Development Laboratory.
Systems Engineering Center | Director, Systems Engineering Center.
Office of Operational Systems | Director, Office of Operational Systems.
Field Systems Operations Center | Director, Field Systems Operations Center.
Telecommunications Operations Center | Chief, Telecommunications Operations Center.
Maintenance, Logistics, and Acquisition Division | Chief, Maintenance, Logistics, and Acquisition Division.
Radar Operations Center | Director, Nexrad Operational Support Facility.
National Data Buoy Center | Director, National Data Buoy Center.
Office of Climate, Water, and Weather Services | Director, Office of Climate, Water, and Weather Services.
| Chief, Meteorological Services Division.
Eastern Region | Director Eastern Region NWS.
Southern Region | Dir Southern Region, Ft Worth.
Central Region | Director Central Region.
Western Region | Dir, Salt Lake City Region.
Alaska Region | Dir, Alaska Region, Anchorage.
National Centers for Environmental Prediction | Dir Nat'l Severe Storms Lab.
| Dir Natl Ctr for Environmental Prediction.
| Director, Environmental Modeling Center (EMC) and Deputy Director for Science.
| Director, Aviation Weather Center.
NCEP Central Operations | Director, Central Operations.
Hydrometeorological Prediction Center | Chief, Meteorological Operations Division.
Climate Prediction Center | Dir Climate Prediction Ctr (CPC).
Storm Prediction Center | Director, Storm Prediction Center.
Tropical Prediction Center | Dir Tropical Prediction Ctr Natl Hurricane Ct.
National Marine Fisheries Service | Dir Seafood Inspection Program.
| Director Office of Sustainable Fisheries.
| Deputy Assistant Administrator for Regulatory Programs.
| Director, Office of Habitat Protection.
Office of Fisheries Conservation and Management | Chief Intergovernmental and Recreational F and M.
Office of Protected Resources | Director Office of Science and Technology.
Northeast Fisheries Science Center | Science and Research Dir Northeast Region.
Southeast Fisheries Science Center | Science and Research Dir.
Northwest Fisheries Science Center | Science and Research Dir.
Southwest Fisheries Science Center | Science and Research Dir Southwest Region.
Alaska Fisheries Science Center | Science and Research Director.
Office of Asst Administrator Satellite, Data Info Serv | Chief Financial Officer/Chief Administrative Officer SR SCI For Environ Satel, D and I Serv (NDSDIS).
Director NPOESS Integrated Program | Systems Program Director.
National Climatic Data Center | Director, National Climatic Data Center.
National Oceanographic Data Center | Director, National Oceanographic Data Center.
National Geophysical Data Center | Dir, National Geophysical Data Center.
Office of Systems Development | Director, Requirements, Planning and System integration Division.
| Director, Satellite and Ground Systems Program.
| Dir Ofc of Sys Development.
Office of Assistant Administrator, Ocean and Atmospheric Research | Program Director for Weather Research.
| Director, Weather and Air Quality Research.
| Chief Financial officer/Chief Administrative Officer.
| Deputy Assistant Administrator for Extramural Research.
National Sea Grant College Program | Director, National Sea Grant College Program.
Aeronomy Laboratory | Director, Aeronomy Laboratory.
Air Resources Laboratory | Director Air Resources Laboratory.
Atlantic Ocean and Meteorology Laboratory | Dir, Atlantic Oceanographic and Meteorological.
Geophysical Fluid Dynamics Laboratory | Director.
Great Lake Environmental Research Laboratory | Director Great Lakes Environmental Research Laboratory.
Pacific Marine Environmental Research Laboratory | Director Pacific Marine Environmental Laboratory.
Space Environmental Center | Director, Space Environment Laboratory.
Environmental Technology Laboratory | Director.
Forecast Systems Laboratory | Director, Forecast Systems Laboratory.
Climate Monitoring and Diagnostics Laboratory | Director Climate Monitoring and Diagnostics Laboratory.
Institute for Telecommunication Sciences | Assoc Admr for Telecommunications Science.
Institute for Telecommunication Sciences, Systems and Networks Division | Deputy Dir for Systems and Networks.
Patent and Trademark Office | Dep Admin for Legislative and International Aff.
| Deputy General Counsel for Intellectual Property and Solicitor.
| Patent Examining Group Director.
| Patent Examining Group Director.
Chemical Patent Exam Groups | Group Director 110.
| Group Director 120.
| Group Director—130.
| Group Director 150.
| Deputy Group Director—110.
| Group Director—180.
| Deputy Group Dir 150.
Office of Assistant Commissioner for Patents | Administrator for Search and Information Res.
| Deputy Assistant Commissioner For Patent Process Services.
| Deputy Group Director—1300.
Examining Group Directors | Group Director.
| Group Director.
| Group Director.
| Group Director.
| Group Director.
| Patent Examining Group Director.
| Patent Examining Group Director.
| Patent Examining Group Director.
Electrical Patent Exam Groups | Group Director for 260.
| Group Director 210.
| Group Director 220.
| Group Director—230.
| Group Director 240.
| Group Director 250.
| Deputy Group Director—250.
| Deputy Group Director—260.
| Deputy Group Director—230.
Mechanical Patent Exam Groups | Group Director—310.
| Group Director—320.
| Group Director—330.
| Group Director—340.
| Group Director—350.
Office of Asst Commissioner for Trademarks | Chairman, Trademark Trial and Appeal Board.
| Deputy Assistant Commissioner for Trademarks.
| Director, Trademark Examining Operation.
| Group Director, Trademark Law Offices.
| Group Director, Trademark Law Offices.
| Deputy Commissioner for Trademark Examination Policy.
| Group Director, Trademark Law Offices.
| Group Director, Trademark Law Offices.
National Institute of Standards and Technology | Deputy Director, Nist Center for Neutron Research.
| Chief, Optical Technology Division.
| Director, Information Technology and Applications Office.
Office of the Director, National Institute of Standards and Technology | Director for Administration and Chief Financial Officer.
| Deputy Director for Management Services.
| Deputy Director for Safety and Facilities.
| Executive Director, Visiting Committee on Advanced Technology Program.
| Director, Boulder Laboratories.
Office of Quality Programs | Director for Quality Programs.
| Deputy Director, Ofc of Quality Programs.
Program Office | Director, Program Office.
| Deputy Director, Information Tech Laboratory.
Office of International and Academic Affairs | Director International and Academic Affairs.
| Chief Financial Officer.
Office of the Director for Technology Services | Deputy Director, Technology Services.
Manufacturing Extension Partner Ship Program | Assoc Dir for National Programs.
| Director, Manufacturing Extension Partnership Programs.
| Deputy Director, Manufacturing Ext Partnership Prog.
Directors Office, Technology Innovation | Dir, Ofc of Technol Evaluation and Assessment.
Directors Office, Advanced Technology Program | Dir Information Technology Laboratory.
| Associate Dir for Policy and Operations.
| Deputy Director, Advanced Technology Program.
| Director, Advanced Technology Program.
| Dir, Materials and Manufacturing Technology Ofc.
| Director, Electronics and Photonics Technology Office.
Economic Assessment Office | Director, Economic Assessment Office.
Electronics and Electrical Engineering Laboratory | Director, Electronics and Electrical Engineering Laboratory.
| Chief Optoelectronics Division.
| Deputy Director.
| Dir, Office of Microelectronics Programs.
Manufacturing Engineering Laboratory Office | Chief, Office of Manufacturing Programs.
| Deputy Director, Manufacturing Engineering Laboratory.
| Deputy Director, Manufacturing Engineering Laboratory.
Precision Engineering Division | Chief, Precision Engineering Division.
Intelligent Systems Division | Chief, Intelligent Systems Division.
Chemical Science and Technology Laboratory Office | Chief Process Measurements Division.
| Dir, Chemical Sci and Technology Laboratory.
| Deputy Director, Chemical Sci and Technol Laboratory.
Physical and Chemical Properties Division | Chief, Physical and Chemical Properties Div.
Analytical Chemistry Division | Chief, Analytical Chemistry Division.
Physics Laboratory Office | Mgr, Fundamental Constants Data Center.
| Director, Physics Laboratory.
| Deputy Director, Physics Laboratory.
Electron and Optical Physics Division | Chief Electron and Optical Physics Division.
Atomic Physics Division | Chief, Atomic Physics Division.
| Chief, Quantum Metrology Division.
Time and Frequency Division | Chief, Time and Frequency Division.
Quantum Physics Division | Senior Scientist and Fellow of Jila.
| Senior Scientist and Fellow of Jila.
| Chief, Quantum Physics Division.
Materials Science and Engineering Laboratory Office | Dir, Materials Sci and Eng Laboratory.
Ceramics Division | Deputy Director, Materials Scientist and Engineering Laboratory.
| Chief, Ceramics Division.
Materials Reliability Division | Chief Materials Reliability Div.
Reactor Radiation Division | Chief, Reactor Radiation Division.
| Group Leader Neutron Condensed Matter Science.
| Chief, Reactor Operations.
Building and Fire Research Laboratory | Chief, Fire Safety Engineering Division.
| Dir, Building and Fire Research Laboratory.
| Deputy Director, Building and Fire Research Laboratory.
| Chief, Fire Safety Engineering Division.
Building Materials Division | Chf, Building Materials Div.
Building Environment Division | Chief, Building Environment Division.
Fire Science Division | Chief, Fire Science Division.
Computer Systems Laboratory Office | Associate Director for Program Implementation.
Advanced Network Technologies Division | Chief Advanced Network Technologies Div.
Computing and Applied Mathematics Laboratory Office | Associate Director for Computing.
| Chief High Perf Systems and Services Division.
National Technical Information Service | Deputy Director, Natl Technical Info Service.
O/AD for Financial & Administrative Management | Assoc Dir for Finance and Administration.
| Comptroller.
Commodity Futures Trading Commission:
Office of the General Counsel | Deputy General Counsel (Litigation).
| Deputy General Counsel (Opinions and Review).
| Deputy General Counsel (Reg and Adm).
| Deputy General Counsel.
Office of the Executive Director | Dep Exec Dir
| Dir, Ofc in Information Resources Mgmt.
| Director, Office of Financial Management.
Division Economic Analysis | Dep Chf Economist.
| Chief Counsel.
| Associate Director for Surveillance.
Division of Enforcement | Deputy Director (Western Operations).
| Deputy Director (Eastern Operations).
| Associate Director.
| Associate Director.
| Associate Director.
Division of Trading and Markets | Deputy Director (Contract Markets).
| Chief Counsel.
| Counsel for Special Projects.
Consumer Product Safety Commission:
Office of Executive Director | Assistant Executive Director for Compliance.
| Associate Executive Dir for Field Operations.
| Asst Exec Director for Information Services.
Office of Hazard Identification and Reduction | Assoc Exec Dir for Engineering Sciences.
| Associate Executive Director for Economic.
| Asst Exec Dir for Hazard I and R.
| Deputy Assistant Executive Director for Hazard Identification and Reduction.
| Associate Executive Director for Epidemiology.
Office of the Secretary of Defense:
Office of the Secretary | Asst to the Secry of Def Intelligence Oversig.
| Deputy Assistant to the Secretary of Defense (Intelligence Oversight).
Office of Under Secretary for Policy | Foreign Relations and Defense Policy Manager.
Office of the Assistant Secretary of Defense | Director for Nuclear Safety and Security Nato Policy.
Office of Assistant Secretary (Solic) | Deputy Assistant Secretary of Defense (Forces and Resources).
| Director for Programs, Resources and Assessments.
| Dir Requirements and Technology and Acquisition.
Director, Operational Test and Evaluation | Deputy Director for Live Fire Test and Evaluation.
| Deputy Director for Resources and Ranges.
Ofc of Inspector General | Deputy Inspector General.
| Asst Inspector General for Investigations.
| Dep Asst Inspector Gen for Investigations.
| Asst Insp Gen for Adm and Info Management.
| Dir, Audit Planning and Technical Support.
| Director, Contract Management.
| Director, Financial Management.
| Deputy Asst Inspector General for Auditing.
| Asst Inspector General for Auditing.
| Dir for Investigative Operations.
| Director, Acquisition Management Directorate.
| Dep Asst Insp Gen for Criminal Invest P and O.
| Director, Office of Departmental Inquiries.
| Director, Office of Intelligence Review.
| Director, Readiness and Logistics Support.
| Director for Audit Follow-up and Technical Support.
| Deputy Assistant Inspector General for Audit Policy and Oversight.
| Director, Office of Administration and Information Management.
| Assistant Inspector General for Inspection and Policy.
| Assistant Inspector General for Investigations.
| Assistant Inspector General for Auditing.
| Director, Defense Criminal Investigative Service.
| Deputy Director, Defense Criminal Investigative Service.
| Assistant Inspector General for Inspections and Policy.
| Assistant Inspector General for Investigations.
| Assistant Inspector General for Auditing.
Ofc of Asst Secy of Defense (Reserve Affairs) | Principal Director (Manpower and Personnel).
Ofc Dep Asst Secy (Civilian Personnel P/E Opportunity) | Principal Director and Director, Workforce Relations and Development.
ODASD (Requirements & Resources) | Director, Program and Budget Coordination.
Department of Defense Education Activity | Associate Director for Management.
Office Assistant Sec Health Affairs | Dir Info Management Tech and Reengineering.
| Director Acquisition Management and Support.
| General Counsel.
Office of Asst Secy of Def for Public Affairs | Director, AFIS
| Dir Armed Forces Radio and Television Service.
| Deputy Director, American Forces Information Service.
| Special Assistant to the ASD (Public Affairs).
Office of the Under Secretary of Defense (Comptroller) | Dir. Prog and Fin Control.
| Deputy Director for Program and Financial Control.
| Deputy Chief Financial Officer.
| Deputy Chief Financial Officer.
Office of Director of Administration & Management | Deputy Director, Pentagon Force Protection Agency.
Washington Headquarters Services | Director of Personnel and Security.
| Dir, Freedom of Information and Security Review.
| Director Real Estate and Facilities.
| Deputy Director, Real Estate and Facilities.
| Deputy Director, Personnel and Security.
Office of the General Counsel | Deputy General Counsel (IG).
| Dir Def Ofc of Hearings and Appeals.
Office of the Under Secretary of Defense (Acquisition, Technology, and Logistics) | Executive Director, Defense Science Board.
| Director, Pacific Armaments Cooperation.
| Dir Planning and Analysis.
| Deputy Director, Defense Acquisition Regulations System.
| Director, Acquisition Resources and Analysis.
| Deputy Director, Resource Analysis.
| Principal Deputy, Acquisition Resources and Analysis.
| Deputy Director, OSD Studies and FFRDC Programs.
Deputy Under Secretary of Defense (Acquisition and Technology) | Director for Defense Procurement.
| Deputy Director Naval Warfare.
| Deputy Dir, Cost Pricing and Finance.
| Deputy Director Munitions.
| Sr Staff Special For Air Superiority Systems.
| Deputy Director, Contract Pol and Administration.
| Deputy Director Land Warfare.
| Deputy Director, Def Syst Procurement Strategies.
| Deputy Director, Def Syst Procurement Strategies.
| Deputy Director Electronic Warfare.
| Deputy Director, Foreign Contracting.
| Deputy Director for Policy Initiatives.
| Special Asst Concepts and Plans.
| Dir OSD Studies and FFRDCA.
| Princ Deputy Director, Strategic and Tactical Systems.
| Deputy Director Air Warfare.
| Deputy Director Arms Control Implementation Compl.
| Asst Deputy Director, Arms Control I and C
| Director Ind Capabilities and Assessments.
| Deputy Director (Missile Warfare).
| Deputy Director, Developmental Test and Evaluation.
| Assistant Deputy Under Secretary of Defense (Acquisition Process and Policies).
| Principal Assistant Deputy Under Secretary of Defense (Acquisition Reform).
| Assistant Deputy Director, Air Warfare.
| Deputy Director, Acquisition Management.
| Deputy Director, Acquisition Management.
| Deputy Director, Electronic Business.
| Deputy Director, Defense Acquisition Regulations System.
| Deputy Director, Defense Procurement Strategies.
| Director, Defense Procurement and Acquisition Policy.
Asst to the SEC of Def for Nuclear & Chemical & Biological Defense Programs | DAS of Def (Nuclear Treaty Programs).
| Deputy Assistant to the Under Secretary of Defense (Nuclear Matters).
| Deputy Asst to the Under Secy of Defense (Chemical and Biological. Defense).
Office of the Director of Defense Research & Engineering | Director, Space and Sensor Technology.
| Director for Weapons Systems.
| Assistant Deputy Under Secretary of Def (FDP).
| Director for Bio Systems.
| Director for Science and Technology Plans and Programs.
| Director for Technology Transition.
| Director for Multi-Disciplinary Systems.
| Director for Information Technologies.
| Director for Information Technologies.
| Director for Information Technologies.
Ofc of Asst Secy (Command, Control, Commun & Intel) | Director, Program Analysis and Integration.
| Director, Program Analysis and Integration.
| Director, Technology and Evaluation.
| Director, Counterintelligence.
| Director, Counterintelligence.
| Director, International Affairs.
Defense Advanced Research Project Agency (DARPA) | Dir, Contracts Management Office.
| Special Asst, Information Technology.
| Deputy Director DARPA.
| Prog Manager (Joint Applications Study Group).
| Director, Tactical Technology Office.
| Deputy Director, Management Operations.
| Program Manager (Acquisition Innovation).
| Director, Microsystems Technology Office.
| Deputy Director, Information Technology Office.
| Director, Information Technology Office.
| Executive Director, Future Combat Systems.
| Joint Applications Study Group Program Manager.
| Deputy Director, Advanced Technology Office.
| Deputy Director, Tactical Technology Office.
| Director, Special Projects Office.
Office of the Joint Chiefs of Staff Missile Defense Agency | Deputy Director for Wargaming, Simulation and Analysis.
| Deputy for Program Operations.
| Director, Contracts Directorate.
| Deputy for Technology.
| Asst Dep for Theater Air and Missile Defense.
| Chief Architect/Engineer.
| Deputy Chief Architect/Engineer.
| Deputy for System Development.
| Executive Director.
| Deputy Program Manager, National Missile Defense Joint Program Office.
| National Missile Defense Technical Director (NMD TD).
| Deputy for Acquisition Strategy and Long Range Planning.
| Deputy for Program Integration.
| Director, Advanced Concepts.
| Deputy Director, Advanced Concepts.
| Deputy Director, Joint National Integration Center.
| Deputy Program Director for Battle Management, Command and Control.
| Director, Combined Test Force, Ground-Based Midcourse Defense-.
| Joint Program Office (GMD-JPO).
Defense Contract Audit Agency | Deputy Director, DCAA.
| Assistant Director, Operations.
| Asst Dir, Policy and Plans.
| Director, Field Detachment.
| Director, DCAA.
| Deputy Regional Director, Western Region.
Regional Managers | Regional Director, Eastern.
| Regional Director, Northeastern.
| Regional Director, Central.
| Regional Director, Western.
| Regional Director, Mid-Atlantic.
| Dep Regional Director Eastern Region.
| Deputy Regional Director Northeastern Region.
| Deputy Regional Dir Central Region.
| Dep Reg Dir Mid Atlantic Region.
Defense Logistics Agency | Chief Actuary.
| Dir, Defense Manpower Data Center.
| Dep Commander, Def Construction Supply Ctr.
| Deputy Commander Defense Distribution Center.
| Comptroller.
| Exe Dir, Resource, Planning and Performance Dir.
| Director, Information Operaitons (J-6).
| Dir, Civilian Personnel Mgmt Service.
| Executive Director Human Resources.
| Director, Defense Energy Support Center.
| Executive Director, Electronic Business Office.
| Executive Director.
| Executive Director, Business Modernization.
| Executive Director, Logistic Policy and Acquisition Management.
| Program Executive Officer.
| Executive Director, Business Operations.
| Deputy Director, Information Operations/Chief Technical Officer.
| Deputy Director for Program Support.
Office of General Counsel | General Counsel, DLA.
| Deputy General Counsel (Administration).
Office of Deputy Director, Material Management | Deputy Commander, Defense General Supply Ctr.
| Deputy Commander (DLSC).
Defense Personnel Support Center | Deputy Commander, DPSC.
Defense Training & Performance Data Center | Deputy Dir Defense Manpower Data Center.
Defense Contract Management Agency | Director, Defense Contract Management Agency-East.
| Director, Defense Contract Management Agency-East.
| Director, Defense Contract Management Agency-West.
| Director, Defense Contract Management Agency-West.
| Deputy Executive Director, Contract Management Operations.
| Executive Director, Contract Mgmt Operations.
| Executive Director, Program Integration (Acquisition).
| Deputy Director, Defense Contract Management Agency.
| Executive Director, Financial and Business Operations and Comptroller.
| Chief Information Officer.
| Program Executive Officer/Executive Director, Standard Business Systems.
| General Counsel.
| Deputy General Counsel.
Defense Information Systems Agency | Comptroller.
| Director for Strategic Plans and Policy.
| Special Assistant for Liaison Activities.
| Chief, Technology and Standards Division.
| Principal Director for Interoperability.
| Special Asst/Infrastructure and Information System Security.
| Chief Engineer, Information Systems Security.
| Chief Spectrum Anal and Mangnt Division.
| Principal Director for Computing Services.
| Chief, Policy, Plans, and Appropriated Programs Division.
| Chief, Defense Computing Business Office.
| Chief, Defense Information Systems Network Business Office.
| Assistant for Program Oversight.
| Director for Manpower, Personnel and Security.
| Principal Director for Applications Engineering.
| Deputy Comptroller.
| Chief, Plans, Concepts and C2 Applications Division.
| Assistant for C4I Enterprise Program Integration.
| Chief Engineer, Center for Integrated Switched Network Services.
| Chief Executive Engineer, Network Services Directorate.
| Chief, Center for Defense Information Systems Networks Services.
| Chief, Customer Focus Center.
| Chief Executive for Information Technology Systems and Programs.
| Chief Technology Officer, Disa Westhem.
| Chief, Transformation Executive.
| Principal Director for Network Services.
| Chief, Global Information Grid Network and Information Operations.
Office of the Director | Deputy Manager National Commun Systems.
| Inspector General.
Directorate for Strategic Plans and Policy | Chief Information Officer.
Directorate for C4 & Intelligence Programs | Tech Dir Adv Info Tech Services Joint Prog.
| Director for Technical Integration Services.
Directorate for Operations | Technical Dir, Space Information Syst Office.
Directorate Disa, for Logistics, F & S Projects | Director for Procurement and Logistics.
Directorate for Enterprise Integration | Deputy Director for Joint R A and I.
Defense Threat Reduction Agency | Staff Spec for Spec Tech Program.
| Chief, Weapons Lethality Division.
| Deputy Director, Operations Directorate.
| Director for Electronics and Systems.
| Director for Weapons Effects.
| Chief, Simulation and Test Division.
| Director for Programs.
| Program Director, Special Programs Office.
| Dir for Counterproliferation Programs.
| Comptroller.
| Deputy Director, on Site Inspection Plans and Resources.
| Director, Counterproliferation Support and Operations.
| Director, Acquisition Management.
| Director, Chemical-Biological Defense.
| Deputy Director, Technology Security.
| Chief Scientist.
Defense Security Assistance Agency | Chief Information Officer.
Defense Finance & Accounting Service | Deputy Director, Cleveland.
| Principal Deputy Director Defense Finance and Accounting Service.
Defense Security Service | Dir, Defense Investigative Service.
| Deputy Director for Developmental Programs.
| Deputy Director for Security Programs.
| Deputy Director for Field Operations.
| Deputy Director for Program Analysis and Evaluation.
| Deputy Director for Resources.
| Deputy Director, DSS.
Department of the Air Force:
Office of Administrative Assistant to the Secretary | Administrative Assistant.
| Deputy Administrator Assistant.
Office of Small & Disadvantaged Business Utilization | Director, Office of Small and Disadvantage Bus Utilization.
Auditor General | Auditor General of the Air Force.
Air Force Audit Agency (FOA) | Assistant Auditor General (Support and Personnel Audits).
| Asst Aud Gen (Operations).
| Deputy Auditor General of the Air Force.
| Assistant Auditor General (Support and Personnel Audits).
| Assistant Auditor General (Acquisition and Logistics Audits).
| Assistant Auditor General (Financial and Systems Audits).
AF Office of Special Investigations (FOA) | Executive Director.
| Executive Director, Defense Cyber Crime Center (DCCC).
Office of the General Counsel | Deputy General Counsel (Dispute Resolution).
ODAS Budget | Chief, Budget Management Division.
| Deputy for Budget.
| Chief, Budget Investments Directorate.
ODAS Cost & Economics | Associate Deputy Assistant Secretary (Cost and Economics).
| Deputy Assistant Secretary (Cost and Economics).
Office of ASAF for Acquisition | Director, Air Force Center for Acquisition Excellence.
| Principal DAS (Acquisition and Mgmt).
ODAS Science, Technology & Engineering | Deputy Assistant Secretary (Science, Technology and Engineering).
ODAS Management Policy & Program Integration | Associate Deputy Assistant Secretary, Management Policy and Program Integration.
| Deputy Assistant Secretary (Management Policy and Program Integration).
ODAS Contracting | Associate Deputy Assistant Secretary (Contracting).
Directorate of Space and Nuclear Deterrence | Deputy Director, Space and Nuclear Deterrance.
Air Force Program Executive Office (FOA) | Air Force Program Executive Officer, Weapons.
| Deputy Program Executive Officer (Command and Control and Combat Support Systems).
| Air Force Program Executive Officer for Services.
Air Force Review Boards Agency (AFRBA)—FOA | Deputy for Air Force Review Boards.
Air Force Base Conversion Agency (FOA) | Director Air Force Base Conversion Agency.
Office of the Chief of Staff | Air Force Historian.
Test and Evaluation | Deputy Director Test and Evaluation.
Air Force Studies and Analyses Agency (DRU) | Director, Air Force Studies and Analyses Agency.
Deputy Chief of Staff, Warfighting Integration | Director, Architecture and Interoperability.
| Assistant Deputy Chief of Staff for Warfighting Integration.
| Director, C4ISR Architecture and Assessment.
AF Command and Control and Intelligence Surveillance Reconaissance Center (FOA) | Senior Technical Director, AFC2ISR.
Deputy Chief of Staff, Installations & Logistics | Assistant Deputy Chief of Staff Installation and Logist.
Civil Engineer | Deputy Civil Engineer.
Services | Director of Services.
Maintenance | Deputy Director of Maintenance.
Plans & Integration | Director of Plans and Integration.
Logistics Readiness | Chief, Combat Support Division.
| Deputy Director of Logistics Readiness.
Resources | Chief, Aircraft/Missile Support Division.
| Deputy Director of Resources.
Communications Operations | Deputy Director of Communications Operations.
AF Center for Environmental Excellence (FOA) | Directors Air Force Center for Environmental Excellence.
Manpower & Organization | Deputy Director for Manpower and Organization.
Programs | Associate Director of Programs and Evaluation.
Strategic Planning | Deputy Director of Strategic Planning.
Deputy Chief of Staff, Personnel | Assistant Deputy Chief of Staff Personnel.
| Dir of Personnel Force Development.
| Deputy Director Personnel Force Management.
| Director, Palace Compass Program Management Office.
| Director, Strategic Plans and Future Systems.
| Deputy Director for Personnel Policy.
Deputy Chief of Staff, Air and Space Operations | Deputy Director of Operational Requirements.
| Director Nuclear Weapons and Counterproliferation Agency.
| Associate Director for Ranges and Airspace.
| Associate Director for Operations.
AF Operational Test & Eval Ctr (DRU) | Scientific Advisor.
Air Force Materiel Command | Executive Director.
| Chief Technology Officer.
Personnel | Director, Personnel.
Contracting | Deputy Director Contracting.
Logistics | Deputy Director for Depot Maintenance.
| Deputy Director for Supply Management.
| Deputy Director, Depot Maintenance.
Engineering & Technical Management | Director, Engineering and Technical Mgmt.
Financial Management & Comptroller | Deputy Director, Financial Management and Comptroller.
Communications & Information | Director, Communications and Information.
Plans & Programs | Deputy Director, Plans and Programs.
Requirements | Director, Requirements.
Operations Directorate | Deputy Director of Operations.
Directorate of Civil Engineer | Deputy Command Civil Engineer.
Electronic Systems Center | Executive Director.
| Program Director Strategic and Nuclear Deterrence C2.
| Director, Materiel Systems Group.
| Director, Plans and Programs.
| Program Director, Defense Information Infrastructure Air Force.
| Director, Information Programs Office.
| Director, Contracting.
Standard Systems Center | Director, Standard Systems Center.
Aeronautical Systems Center | Executive Director.
| Director System Management.
| Director, Contracting.
| Director Financial Management and Comptroller.
Directors of Engineering | Director of Engineering F-22
| Director of Engineering Joint Strike Fighter.
| Director of Engineering Propulsion.
Systems Program Offices | Program Director, Air Combat Spo.
| Program Director, Mobility Spo.
Human Systems Center | Deputy Director.
Air Force Research Laboratory | Executive Director, AFRL.
| Director, Plans and Programs.
| Associate Director for Investment Strategy.
| Director, AFRL Washington Office.
Air Vehicles Directorate | Assoc Dir for Air Platforms.
AFRL—Munitions Directorate | Associate Director for Weapons.
Space Vehicles Directorate | Associate Director for Space Technology.
Information Directorate | Director Information.
Directed Energy Directorate | Director Directed Energy.
Materials and Manufacturing Directorate | Director, Materials and Manufacturing.
| Associate Director for Manufacturing Technical and Afford.
Sensors Directorate | Director, Sensors.
Human Effectiveness Directorate | Director, Human Effectiveness Directorate.
Arnold Engineering Development Center | Executive Director.
Air Force Flight Test Center | Executive Director.
Air Logistics Center, Oklahoma City | Director, Commodities Management.
| Executive Director.
| Product Group Manager, Propulsion Systems.
| Director, Logistics Management.
Air Logistics Center, Warner Robins | Director, Technology and Industrial Support.
| Executive Director.
| Director, Logistics Management.
| Director, Maintenance.
| Director, Contracting.
Air Logistics Center, Ogden | Director, Financial Management.
| Executive Director.
| Air Logistics Center, Ogden Director Commodities.
| Director, Logistics Management.
| Director, Contracting.
Air Armament Center | Executive Director.
| Director, Plans and Programs.
AAC—Systems Program Office | Director, Lethal Strike Joint Program Office.
| Program Dir Counterair Joint SPO.
Air Combat Command | Deputy for Maintenance and Logistics.
Air Mobility Command | Principal Deputy Director of Operations for Transport.
| Deputy Director of Logistics.
Air Force Reserve Command | Air Commander 4th Air Force.
| Air Commander 10th Air Force.
| Air Commander 22nd Air Force.
| Assistant Vice Commander.
| Director, Plans.
| Director of Operations.
U.S. Central Command | Scientific Advisor.
| Director of Resources, Requirements, Budget and Assessment.
U.S. Space Command | Director of Programs and Resources.
| Chief Technical Officer and Director of Analysis.
Space and Missile Systems Center | Director, Systems Acquisition.
| Executive Director.
| Director Contracting.
| Program Director, Milsatcom JPO.
U.S. Strategic Command | Associate Director for Strategic Planning.
| Deputy Director Command Control Communication Computer and Intel System.
U.S. Transportation Command | Director Program Analysis and Financial Mgmt.
Federal Executive Institute—Dev Assignment | Special Assistant for Financial Management Studies.
Department of the Army:
Department of the Army | Deputy Assistant Secretary of the Army (ARBA).
| Assistant Deputy Chief of Staff for Personnel (Installation Management).
| Deputy Chief of Staff for Resource Management.
| Assistant Deputy Chief of Staff for Logistics (Readiness).
| Director of Modernization.
Office of the Secretary | Interagency Coordinator of Military Support to Civil Authorities.
Office Deputy Under Secretary of Army (OPS Research) | Spec Asst for Air and Missil Defense.
| Special Assistant for Systems.
| Assistant Deputy Under Secretary of the Army for Operations Research.
| Director, Test and Evaluation Management Agency.
| Special Assistant for Systems.
Office Administrative Asst to the Sec of Army | Administrator Assistant to the Secretary of the Army.
| Deputy Administrator Assistant to the Secretary of the Army.
| Director Single Agency Manager for Pentagon Information Technology.
Office of the General Counsel | Deputy General Counsel (Ethics and Fiscal)
Ofc Asst Secretary Army (Civil Works) | Deputy Assistant Secretary for the Army (Management and Budget).
| DAS of the Army (Policy and Legislation).
Ofc Asst Sec Army (Financial Management & Comptroller) | Assistant Deputy Assistant Secretary for Army Budget.
| Deputy for Cost Analysis.
| Director of Investment.
| DAS of the Army (Financial Operations).
| Spec Adv for Economic Pol and Productivity Prog.
| Director for Business Resources.
| Director of Management and Control.
| Director of Business and Investments.
OASA (Installations & Environment) | Dep Prog Mgr for Chem Demilitarization Oper.
| Program Manager for Chemical Demi Operations.
| Deputy Program Manager for Chemical Demilitarization.
Ofc Asst Sec Army (Manpower & Reserve Affairs) | Director of Civilian Personnel Management.
| Deputy Assistant Secretary of the Army (Civilian Personnel Policy).
| Director for Equal Employment Opportunity/Civil Rights.
Ofc Asst Sec Army (Acquisition, Logistics and Technology) | Deputy Assistant Secretary for Research and Technology/Chief Scientist.
| Deputy Asst Secy of the Army (Policy and Procurement).
| Deputy Assistant Secretary of the Army for Plans, Programs and Policy.
| Assistant Deputy Under Secretary (International Affairs) (Security Cooperation).
| Director for Research and Laboratory Management.
| Director for Technology.
| Director for Assessment and Evaluation.
| Director, Procurement Policy and Acquisition Reform.
| Director, Army Contracting Agency.
HQDA Army Acquisition Executive | Deputy Peo, Armored Systems Modernization.
| Deputy Program Executive Officer, Command and Control Systems.
| Deputy Program Executive Officer, Communication Systems.
| Program Executive Officer, Enterprise Information Structure.
| Deputy Program Executive Officer for Aviation.
| Deputy Program Executive Officer, Missile Defense.
| Deputy Program Executive Officer, Tactical Missiles.
| Deputy Program Executive Officer for Fire Supplies System.
| Program Executive Officer, Intelligence, Electronic Warfare and Sensors.
Chief Information Officer/G-6 | Dir of Army Information.
| Deputy Chief Information Officer/G-6.
| Director for Enterprise Management.
Army Audit Agency | The Auditor General.
| Deputy Auditor General.
| Director, Logistical and Financial Audits.
| Director, Acquisition and Force Management.
| Director, Policy and Operations Management.
Office, Chief of Staff | Director, Facilities, Housing and Environment.
Operations Test & Evaluation Command (OCSA FOA) | Tech Director, Test and Experience Command.
| Director United States Army Evaluation Center.
Army Center of Military History (OCSA FOA) | Chief Historian.
Office, Assistant Chief of Staff for Installation Mgmt | Deputy Assistant Chief of Staff for Installation Management.
| Deputy, Installation Management Agency.
| Deputy, Installation Management Agency.
| Financial Manager.
| Regional Director (Northeast).
| Regional Director (Northwest).
| Regional Director (Southeast).
| Regional Director (Southwest).
| Regional Director (Europe).
| Regional Director (Pacific).
Office, Deputy Chief of Staff, G-4 | Associate Director, Force Projection and Distribution.
| Executive Director, Strategic Logistics Agcy.
| Chief Aviation Logistics Office.
| Associate Director of Sustainment.
Office, Deputy Chief of Staff, G-8 | Did not find title for this position.
Office, Deputy Chief of Staff, G-3 | Technical Advisor to the DCSOPS.
| Director, Army Model and Simulation Office.
| Director, Requirements Directorate.
| Deputy Director of Training.
Office, Deputy Chief of Staff, G-1 | Director, United States Army Research Inst and Chief Psychologist.
| Director for Manprint Directorate.
| Chief, Policy and Program Development Division.
| Director of Plans, Resources and Operations.
| Director of Army Personnel Transformation.
Army Research Institute (DCSPER FOA) | Dir, Manp and Pers Res Lab and Assoc Dir, ARI.
U.S. Total Army Personnel Command (DCSPER FOA) | Director, Army Declassification Activity.
National Guard Bureau | Program Executive Officer for Information Systems and Chief Information Officer.
USA Space and Missile Defense Command | Principle Assistant Response for Contracting.
| Director, Advanced Technology Directorate.
| Director, Weapons Directorate.
| Director, Space and Missile Defense Battle Laboratory.
| Director, Integration and Interoperability for Missile Defense.
Training and Doctrine Command (TRADOC) | Assistant Deputy Chief of Staff for Resources Management.
| Assistant Deputy Chief of Staff for Training Policy Plans and Programs.
| Deputy to the Commanding General, CASCOM.
| Assistant Deputy Chief of Staff for Base Operations Support.
| Assistant Deputy Chief of Staff for Combat Development.
| Deputy Chief of Staff for Base Operations Supp.
TRADOC Analysis Center | Director of Operations.
| Director of Operations.
| Director.
U.S. Army Nuclear and Chemical Agency | Director, United States Army Nuclear and Chemical Agency.
Military Traffic Mgmt Command | Special Assistant for Transportation Engineering.
| Deputy to the Commander.
U.S. Army Forces Command | Assistant Deputy Chief of Staff for Personnel and Inst Management.
| Assistant Deputy Chief of Staff for Logistics and Readiness.
U.S Army Signal Command | Technical Director/Chief Engineer.
U.S. Army Corps of Engineers | Director of Real Estate.
| Director of Human Resources.
| Director of Resource Management.
| Principal Assistant Responsible for Contracting.
| Director of Corporate Information.
| Deputy Director Engineer Research and Development Center.
Directorate of Research & Development | Director of Research and Development.
| Asst Dir for Research and Dev (Civil Works Prog).
| Asst Dir Research and Dev (Military Prog).
| Deputy Director.
Directorate of Civil Works | Chief, Programs Management Division.
| Chief, Planning Division.
| Principal Assistant for Civil Works.
| Chief Engineering Division.
| Chf, OPS, Construction and Readiness Division.
| Chief, Policy Review and Analysis Division.
| Chief, Engineering and Construction Division.
| Chief, Operations Division.
| Chief, Planning and Policy Division.
Directorate of Military Programs | Deputy Director, Military Programs.
| Chief, Programs Management Division.
| Chief, Environmental Division.
| Chief, Engineering and Construction Division.
| Chief, Interagency and International Services Division.
| Chief, Installation Support Division.
Directors of Programs Management | Director Programs, Management, MVD.
| Director Programs Management, NAD.
| Director of Programs Management.
| Director Programs Management.
| Director Programs Management, POD.
| Director of Programs Management, SAD.
| Director Program Management, SPD.
| Dir Programs Management, SWD.
Directors of Engineering & Technical Services | Director of Engineering and Technical Services.
| Director of Engineering and Technical Services, NAD.
| Director of Engineering and Technical Services, LRD.
| Director of Engineering and Technical Services, NWD.
| Director of Engineering and Technical Services, POD.
| Dir of Engineering and Technical Services, POD.
| Director of Engineering and Technical Services, SPD.
| Dir of Engineering and Technical Services, SWD.
Engineer Research and Development Center | Director, Geotechnical Laboratory.
| Director Environmental Laboratory.
| Director, Coastal and Hydraulics Laboratory.
| Director, Engineer Research and Development.
| Director, Information Technology Laboratory.
| Director, Geotechnical and Structures Laboratory.
Engineerr Topographic Laboratories, C of Engineers | Director.
Construction Engineering Res Lab Champaign, IL | Director.
Cold Regions Research & Engineering Lab Hanover, NH | Director.
U.S. Army Materiel Command | Deputy Chief of Staff for Corporate Information/Chief Information Officer.
Office of DCS for Logistics & Operations | Assistant Deputy Chief of Staff for Logistics and Operations.
| Director Army Single Stock Fund/Director AMC Logistics Systems and Processes.
Special Analysis Office | Chief, Stategic Analysis and Planning Office.
Office Deputy Commanding General | Principal Deputy for Logistics.
| Principal Deputy for Acquisition.
| Senior Advisor for Science and Technology.
Office of DCS for Research, Dev and Acquisition | ADCS for RDA Science Technology and Engineering.
| ADCS for RDA—Business OPS/Director AMC TOCR Program.
Office of Deputy Chief of Staff for Ammunition | Assistant Deputy Chief of Staff for Ammunition.
Office of DCS for Acquisition | Asst Dep Chief of Staff for Res DAAC and P Mgmt.
Office of Deputy Chief of Staff for Personnel | Dep Chief of Staff for Personnel.
Office of the Deputy Chief of Staff for Res Management | Assistant Deputy Chief of Staff for Resource Management/Executive Director for Business.
| Deputy Chief of Staff for Resource Management.
USA Security Assistance Command | Deputy.
US Army Operations Support Command | Deputy of the Commander.
Natick Soldier Center | Director, Natick Rd and E Center.
U.S. Army Soldier & Biological Command (SBCCOM) | Director, Engineering Directorate.
| Technical Director.
| Deputy to the Commander.
| Director for Operations, Remediation and Restoration.
| Director, United States Army Robert Morris Acquisition Center.
US Army Communications Elect Comd (CECOM) | Director, CECOM Acquisition Center.
| Associate Director, Communications Elect Command Acquisition Center—Washington Operations Office.
| Deputy to the Commander.
CECOM Research, Development & Engineering Center | Dir-Night Vision/Electro Sensors Directorate.
| Director, Space and Terrestrial Committee Directorate.
| Director, I and E Warefare Directorate.
| Director, Software Engineering Directorate.
| Director/Army Systems Engineer.
| Director for C4I Log and Readiness Center.
| Assoc Tech Dir Resech Devel and Engineering Ctr.
| Director, Command, Control and System Integration Directorate.
U.S. Army Research Laboratory | Director United States Army Research Laboratory.
| Associate, Director for Plans, Programs and Budget.
| Deputy Director.
Survivability/Lethality Analysis Directorate | Director, Survivability/Lethality Analysis Directorate.
Army Research Office. | Director.
| Dir, Research and Technology Integration.
| Director, Engineering Sciences Directorate.
| Director, Physical Sciences Directorate.
Sensors and Electron Devices Directorate | Deputy Director and Director Electron Devices Research Director.
Computational and Information Sciences Directorate | Director.
| Deputy Director.
Weapons and Material Research Directorate | Deputy Director and Directorate Materials Research Director.
Human Research and Engineering Directorate (ARL) | Director, Human Research and Engineering Directorate.
U.S. Army Aviation and Missile Command (AMCOM) | Executive Director, Acquisition Center.
| Director for Engineering.
| Executive Dir, Integrated Materiel Mgmt Ctr.
| Deputy Executive Director for TMDE.
| Deputy to the Commander.
| Deputy to the Commander.
| Executive Director Acquisition Center.
| Executive Director Integrated Material Management Center.
Missile Res Development & Engineering Center (RDEC) | Dir for Systems Simulation and Development Technology Director for Missiles and Development, Research.
| Development and Engineering Center.
| Associate Director for Systems, Missiles.
| Director for Weapons Sciences.
| Director for Missile Guidance.
| Director for Propulsion and Structures.
Aviation Research, Development and Engineering Center | Techn Dir (Aviation) and ED-US Army ARD and EC
| Director of Aviation Engineering.
| Director of Aeroflight Dynamics.
| Dir of Advanced Syst/Assoc Dir for Technol.
| Associate Director for Tech Appl/Director of Special Program.
Tank-Automotive and Armaments Comd (TACOM) | Director of Acquisition Center.
| Director, Integrated Materiel Mgmt Center.
| Director United States Army Armament and Chemical A and L ACT.
| Deputy to the Commander.
Tank-Automotive Res, D & E Center (TARDEC) | Vice President for Research.
| President/Director.
| Vice President for Customer Engineering.
| Vice President for Product Development.
| Executive Vice President for Technology Transfer/Director, National Automotive Center.
US Army Armament Research, D & E Center (ARDEC) | Technical Director for Armament.
| Asst Technical Director (System Development and Engineering).
| A/Technical Directorate (Systems Concepts and Technology).
Warheads, Energetics and Combat Support Armaments Center | Director, Warheads Energetics and Combat Support Armaments Center.
Fire Support Armaments Centers | Senior Technical Executive for Fire Support.
Close Combat Armaments Center | Senior Technical Executive for Close Combat.
US Army Simulation, Training & Instrumentation Command | Deputy to the Commander.
US Army Test and Evaluation Command, (TECOM) | Tech Director and Chief Scientist.
| Director, Technical Mission.
| Director, Joint Program Office for Test and Evaluation.
US Army Materiel Systems Analysis Activity | Director.
| Chief, Combat Integration Division.
Headquarters, US Army, Europe | Assistant Deputy Chief of Staff, Personnel (Civilian Personnel).
| Assistant Deputy Chief of Staff, Engineer for Engineering and Housing.
| Deputy Chief of Staff for Resource Management.
U.S. Army Military District of Washington | Director of Cemetery Operations.
| Deputy to the Commander for Installation Support.
U.S. Southern Command | Technical Advisor—Sustaining Base/Quality of Life.
Department of the Navy:
Office of the Secretary | Chief Information Officer.
| Director for Electronic Business and Security.
Office of the Under Secretary of the Navy | Assistant for Administration.
Office of the Auditor General | Did not find title for this position.
| Auditor General of the Navy.
| Deputy Auditor General of the Navy.
| Assistant Auditor General for Installation and Environment Audits.
| Assistant Auditor General for Research, Development & Acquisition Audits.
Ofc of the Asst Secy of Navy (Manpwr & Res Affs) | Dir, Human Resources Operations Center, OCHR
| Director, Office of Civilian Human Resources.
| Assistant General Counsel (Manpower and Reserve Affairs).
| Director, HR Policy and Program Dept, OCHR.
| Director, HR Operations and Systems Department.
| Deputy Assistant Secretary of the Navy (Civilian Human Resources).
OAS of Navy (Installations & Environment) | Asst General Counsel (Install and Environment).
OAS of the Navy (Research, Dev & Acquisition) | Director, Navy Acquisition Reform and Standards Improvement.
| Executive Director for Acquisition and Business Management.
| Head, Contract Policy.
| Asst Gen Coun (Res, Dev and Acquisition).
| Director, Acquisition Career Management.
| Executive Director, Navy International Programs Office.
Program Executive Officers/Strategic Systems Programs | Deputy Chief Engineer.
| Deputy Program Executive Officer Surface Strike.
| Deputy PEO for Aircraft Carriers.
| Director, Plans and Programs Division.
| Chief Engineer.
| Asst for Shipboard Systems.
| Branch Head, Reentry Systems Branch.
| Deputy Program Executive Officer for Unmanned Aerial Vehicles.
| Deputy Director, Theater Air Missile Defense and SE/Director of Weapons.
| Technical Plans Officer.
| Head, Res Branch and DE Dir, Plans and Progs Div.
| Assistant for Missile Engineering Systems.
| Deputy PEO for Strike Weapons.
| Deputy Program Executive Officer, Submarines
| Asst for Systems Integration and Compatibility.
| Dep Prog Exec Ofcr for ASW, A/S Mission Prog.
| Dep Prog Exec Ofcr for Tactical Air Programs.
| Deputy PEO, Mine Warfare.
| PEO for Information Technology.
| Aegis Deputy Program Manager.
| Prog Exec Officer ASW Assault and Spec Miss PRO.
| Deputy PEO for Enterprise Solutions.
| Deputy PEO for Information Technology/Tech Dir.
| Deputy Program Mgr., Future Carrier Program Office.
OFC of the Asst Secy of Navy (Fin Mgmt Comptroller) | Assoc Dir, Budget and Reports/Fiscal Manag Div.
| Asst General Counsel (Financial Management).
| Dir, Investment and Dev Div.
| Dir, Financial Mgmt Pol and Systems Division.
| Director, Program/Budget Coordination Division.
| Director, Program /Budget Coordination Division.
| Dir Resource Allocation and Analysis Division.
| Director, Financial Management Division.
| Director, Business and Civilian Resources Division.
Naval Center for Cost Analysis | Dir Naval Center for Cost Analysis.
Office of the Naval Inspector General | Deputy Naval Inspector General.
Office of the General Counsel | Special Counsel for Litigation.
Naval Criminal Investigative Service | Dir Naval Criminal Invest Service.
| Asst Dir of Counterintelligence.
| Special Agent in Charge Norfolk Field Ofc.
| Special Agent in Charge.
| Deputy Director, NCIS.
Chief of Naval Operations | Assistant Deputy Chief of Naval Operations (Logistics).
| Deputy Director of Naval Training.
| Assistant Deputy Chief of Naval Operation (Resources, Warfare Requirements, and Assessments)
| Assistant Deputy Chief of Naval Operations (Manpower and Personnel)
| Assistant Deputy Chief of Naval Operations (Warfare Requirements and Programs)
| Director, Special Programs Division.
| Assistant Director, Space, Information Warfare, Command and Control.
| Assoc Dir Warfare Integration and Assessment Div.
| Deputy Director, Warfare Integration and Assessment Division.
| Deputy Director for Networks Integration and Transformation/Assoc.
| Dir for Navy Inf Officer.
| Head, Readiness, Sustainability and Infrastructure Branch.
| Associate Director, Assessment Division.
| Tech Dir, Submarine and SSBN Security Program.
| Technical Director.
| Deputy Director for Programming.
| Head Force Structure and Analysis Branch.
| Assoc Dir, Expeditionary Warfare Division.
| Director, Logistics Planning and Innovation.
| Dir Naval History/Dir, Naval Historical Ctr.
| Deputy Director Envir Protection Safety Occp Heal Div.
| Director Strategic Sealift Division.
Bureau of Naval Personnel | ACNP for MPN Financial Management.
Bureau of Medicine & Surgery | Dep Commander for Fin Mgmt and Comptroller.
Military Sealift Command | Counsel.
| Comptroller.
Military Sealift Command | Executive Director.
Naval Meteorology & Oceanography Comm, Stennis SC, MS | Technical/Deputy Director.
Ofc of Commander, U.S. Atlantic Fleet/Joint Forces Command | Director, Joint Training, Analysis, and Simulation Center.
| Deputy Director Fleet Maintenance.
| Director, Joint Battle Lab.
| Director, Command, Control Communications and Computers Systems.
| Deputy Director, Shore Activities Readiness.
Ofc of the Commander, U.S. Pacific Command | Chief Information Officer.
Office of the Commander, U.S. Pacific Fleet | Deputy Director Fleet Maintenance.
| Deputy Director Shore Installation Management.
| Executive Director, Planning and Resources.
| Executive Director, Total Force Management.
Ofc of the Commander, Naval Education and Training | Comptroller.
Naval Recruiting Command | Deputy Commander.
Naval Air Systems Command Headquarters | Program Director for Enterprise Solutions.
| Executive Dir, Corporate Operations.
| Deputy Commander for Acquisition and Operations.
| Deputy Assistant Commander for Logistics.
| Deputy Asst CDR for Contracts.
| Deputy Comptroller.
| Counsel, Naval Air Systems Command.
| Director, Systems Engineering Department.
| Director, Avionics Department.
| Director, Air Vehicle Department.
| Director, Logistics Management Integration.
| Dir, Tactical Aircraft and Missiles Contracts Dept.
| Director, Support Equip/Aircraft Launch/Recovery Equip.
| Director, Cost Analysis Department.
| Deputy Acquisition Executive.
| Deputy Assistant Commander, Research and Engineering.
| Dir Industrial Operations.
| Director, Warfare Analysis Department.
| Director, Propulsion and Power Department.
Naval Air Systems Command Headquarters | Director, Air Vehicle and Flight Systems Engineering Dept.
| Director, Test and Evaluation Engineering Department.
| Director, Logistics Systems and Analysis Dept.
| Deputy Commander, Naval Air Sys Command.
| Dir, Strike Wpns, UAV, NAVAIR Programs Contracts Dept.
| Dir Budget Formulation Justification Exe Div.
| Deputy Counsel, NAVAIR.
| Deputy Asst CDR for Aviation Depots.
| Dir Naval Aviation Science and Tech Office.
| Asst Commander for Corporate Operations.
| Director, Design Interface Main. Planning and Knowledge Req.
| Dir, Air ASW, Assault and Special Mission Prog Contracts Dept.
| Deputy Director for Navy Test and Eval and Tech Rqmts.
Naval Air Warfare Center Aircraft Division | Dep Asst CDR for Tande/Exec Dir, NAWCAD/Dir, Tande, NAWCAD.
| Director, Perf Based Logistics and Material Mgmt. Dept.
| Director, Avionics Department.
| Dir of Atlantic Ranges and Facilities Dept.
Naval Air Warfare Center Weapons Div, China Lake, CA | Assistant Director, NAVSTO/Research/Technology.
| Head, Pacific Ranges and Facilities Depart.
| Director, Avionics Dept.
| Director, Weapons/Mission Systems Integration Dept.
| Director for Test and Evaluation.
| Director, Weapons and Targets Dept.
| Executive Director, NAWCWD/Director, Research/Engineering.
| Director of Corporate Operations.
| Director, Threat/Target Syst Depart.
Naval Training Systems Center | Executive Director.
| Exec Dir, NAWCTSD/Director, Program Mgmt, NAWCAD.
Space & Naval Warfare Systems Command | Exec Dir, Contract.
| Deputy Comptroller.
| Counsel Space and Naval Warfare Systems Com.
| Executive Dir, Space Tech Systems Prog Dir.
| Director, Washington Operations Office.
| Program Director, Intell, Surveillance and Reconnaissance Director.
| Technical Director, SPAWAR.
| Program Director, Communications System Program Directorate.
| Director, Chief Technology Officer.
| Executive Director, C4ISR Installations and Logistics Directorate.
| Program Director, C2I and Combat Support Applications Directorate.
| Deputy Commander.
| Deputy Chief Engineer.
| Director, Strategic/Corporate Planng and Development Office.
| Program Director, Naval Networks and Info Assurance Program Dir.
Space and Naval Warfare Systems Center | Head Intelligence S and R Department.
| Executive Director.
| Head Navigation and Applied Science Dept.
| Head, Command and Control Department.
| Deputy Executive Director, Science, Technology and Engineering.
| Head Communication and Information Sys Dept.
| Dep Executive Dir for Corporate Operations.
Space and Naval Warfare Systems Center, Charleston | Executive Director.
Naval Facilities Engineering Command | Director Navy Crane Center.
| Director, Special Venture Acquisition Programs.
| Counsel Naval Facilities Engineering Command.
| Deputy Comptroller.
| Director for Contracts Support.
| Chief Engineer.
| Dir of Real Estate Support.
| Director for Base Development.
| Dir of Base Closure.
| Director of Environment.
Naval Sea Systems Command | Executive Director.
| Counsel Naval Sea Systems Command.
| Executive Director for Contracts.
| Executive Director/Deputy Comptroller.
| Director, Reactor Materials Divisions.
| Deputy Director, Steam Generator Design/Development.
| Head, Advanced Reactor Branch.
| Director for Hydrodynamics.
| Tech Dir and Dep Div Dir Ship Design Div.
| Dir Cost Engineering and Industrial Analysis.
| Dir, Shipbuilding Contracts Division.
| Assistant Deputy Cdr For Industrial Ops.
| Deputy Commander, Surface Ship Directorate.
| Director, In-Service Submarine Programs.
| Deputy for Weapons Safety.
| Deputy Director, Adv Aircraft Carrier Sys Division.
| Executive Director/Battle Force Systems Eng.
| Director, Corporate Operations.
| Chief Information Officer.
| Executive Director for Logistics, Maintenance and Industrial.
| Operations.
| Dep Prog Mgr/Techn Dir, New Attack Submarines.
| Prog Mgr for Submarine Depot Availability Program Office.
| Dep Prog Manager, Aircraft Carrier Prog Ofc.
| Dir Reactor Plant Components Auxil Equip Div.
| Deputy Director/Advanced Submarine Reactor Sandsf Mgmt.
| Dir Surface Ship Systems Division.
| Director, Reactor Safety and Analysis Division.
| Div for Ship Surv and Structural Integrity.
| Div Power Systems Group.
| Director, Materials Engineering Office.
| Exec Dir, Ship Design and Engrng Directorate.
| Program Manager for Commissioned Submarines.
| Dir, Surface Systems Contracts Division.
| Deputy Peo Expeditionary Warfare.
| Director, Office of Resource Management.
| Dir, Reactor Refueling Division.
| Deputy Counsel, Naval Sea Systems Command.
| Dir Environmental Protection Office.
| Deputy Dir Environmental Health and Safety.
| Program Manager, Commercial Ship/Craft Program Office.
| Asst Deputy Commander, Fleet Maintenance Policy and Process Division.
| Asst Deputy Cdr Fleet Logistics Support.
| Director, Fleet Readiness Division.
Norfolk Naval Shipyard | Naval Shipyard Nuclear Engineering and Plan Mgr.
| Nuclear Eng and Planning Manager Budget Naval Ship.
Naval Surface Warfare Center | Technical Director.
Naval Undersea Warfare Center | Technical Director.
Naval Surface Warfare Center, Crane Division | Executive Director.
Naval Undersea Warfare Center Div, Keyport, WA | Executive Director.
Naval Surface Warfare Center, PT. Hueneme Division | Executive Director.
Naval Surface Warfare Center, Indian Head Division | Executive Director.
Coastal Systems Station | Executive Director.
| Head, Coastal Sci, Technology and Analysis Dept.
| Head, Coastal Warfare Systems Department.
Naval Surface Warfare Center, Carderock Division | Executive Director.
| Assoc Dir for Hydromechanics/Head, HD
| Assoc Dir for Syst/P and H Ship S/P Directorate.
| Director for Ship Signatures.
| Assoc Dir for SS and M/HSS and M Directorate.
| Executive Director for Navsses/Director for Machinery Engineering.
Naval Surface Warfare Center, Dahlgren Division | Head, Weapons Systems Department.
| Head, Combat Systems Department.
| Exec Director.
| Deputy Executive Director.
| Head Strategic and Strike Systems Dept.
| Head, Systems Res and Technology Department.
| Head Joint Warfare Applications Dept.
| Head Warfare Analysis and Systems Dept.
Naval Undersea Warfare Center Division, Newport, RI | Head, Submarine Sonar Department.
| Executive Director.
| Head Test and Evaluation Dept.
| Director for Submarine Combat Systems.
| Assoc Techn Dir for Submarine Warfare Systs.
| Director, Surface Undersea Warfare.
| HD, Submarine Electromagnetic Sys Dept.
| Head Combat Control Systems Department.
| Head, Torpedo Systems Department.
Naval Supply Systems Command HDQTRS | Asst Dep Commander for Fin Mgmt/Comptroller.
| Director, Defense Technology Analysis Office Counsel.
| Assistant Deputy Commander for Electronic Business.
| Executive Director Office of Special Projects.
| Assistant Commander for Fleet logistics Ops
| Executive Director
Naval Inventory Control Point | Vice Commander.
Navy Supply Information System Activity | Executive Director.
U.S. Marine Corps Headquarters Office | Deputy Director Facilities and Services Division.
| Assistant Deputy Commandant for Installations and Logistics (Contracts).
| Counsel for the Commandant.
| Deputy Counsel for the Commandant.
| Director of Administration and Resources.
| Asst Dep Chf for Prog and Resource Fiscal Div.
| Asst Dep Chf of Staff for Installations and Log.
| Assistant Deputy Commandant for Manpower and Reserve Affairs.
| Asst Dep Chf of Staff for Requirements and Prog.
Marine Corps Systems Command | Deputy Commander, C4ISR.
| Did not find title for this position.
| Deputy for Financial Management.
Marine Corps Materiel Command Albany GA | Executive Director.
Office of Naval Research | Dir, Ship Structures and Systems Sandt Div.
| Dir, Mechanics and Energy Conversion Sandt Div.
| Director, Expeditionary Warfare Operations Tech Div.
| Director, Physical Sciences Sandt Division.
| Commercial Technology Transition Officer.
| Executive Director/Technical Director.
| Head Special Programs Department.
| Executive Dir for Acquisition Management.
| Dir Financial Management Comptroller.
| Patent Counsel.
| Counsel, Office of Naval Research.
| Head Engineering.
| Dir Strike Technology Division.
| Dir Math Computer and Information Science Div.
| Dir OAS S and T Processes and Prediction Division.
| Director of Science and Technology.
| Dir OAS at Sensing and Systems Division.
| Head, Industrial and Corporate Programs Department.
| Dir Cognitive Neural Biomolecular Sandt Div.
| Head, Human Systems S and T Department.
| Dir, Biomolecular and Biosyst Sci and Tech Div.
| Head Info Electronics and Surveil Sci Tech Dept.
| Dir of Surveillance Communications Electronic.
| Director, Electronics Division.
| Head Ocean Atmosphere Space Sci Tech Dept.
| Associate Technical Director.
| Director, Naval Fleet/Force Tech Innovation Office.
| Dir Materials Sci and Technology Division.
| Assoc for Integration Oas St Sensing Sys Div
Naval Research Laboratory | Chf Sci Lab for Structure of Matter.
| Dir of Research.
| Assoc Dir of Res for Matl Sci and Comp Technol.
| Superintendent, Chemistry Division.
| Superintendent, Optical Sciences Div.
| Superintendent Space Science Div.
| Supt, Radar Div.
| Supt Materials Sci and Tech Division.
| Supt, Acoustics Div.
| Superintendent, Plasma Physics Div.
| Superintendent Electronics Technology Div.
| Supintendent, Info Technol Div.
| Supt, Tactical Electronic Warfare Div.
| Chief Scientist Lab for Compt Phy Fluid Dynam.
| Superintendent, Remote Sensing Division.
| Assoc Dir of Res for Business Operations.
| Chief Sci and Head, Beam Physics Program.
| Superintendent, Marine Meteorology Division.
| Mgr, Joint Space Systems Technology Programs.
| Assoc Dir Res for Ocean and Atmospheric Sci Tec.
| Superintendent Ctr Bio/Molecular Science Eng.
| Head Elect Warfare Strategic Planning Org.
| Assoc Dir of Res for Warfare Sys and Senors Res.
| Superintendent, Space Syst Development Dep.
| Superintendent, Oceanography Division.
| Superintendent, Spacecraft Engineering Dep.
| Dir, Naval Center for Space Technology.
| Superintendent, Marine Geosciences Division.
Defense Nuclear Facilities Safety Board:
Defense Nuclear Facilities Safety Board | Deputy General Counsel.
| Deputy General Manager.
| Group Lead for Nuclear Facility Design and Infrastructure.
| Technical Advisor for Engineering Studies.
| Group Lead for Nuclear Programs and Analysis.
| Group Lead for Nuclear Weapons Program.
| Group Lead for Nuclear Materials Processing and Stabilization.
| Group Lead for Nuclear Facility Design and Infrastructure.
Department of Education:
Office of the Chief Financial Officer | Deputy Chief Financial Officer.
| Dir Financial Management Operations.
| Director, Financial Improvement and Post Audit Operations.
Office of the Chief Information Officer | Deputy Chief Information Officer.
| Chief Information Officer.
| Dep Chief Info Officer (Operations Engineering).
| Dep Chief Information Officer for Info Management.
| Deputy CIO for Information Assurances.
| Deputy CIO for Information Assurances.
Office of Management | Chairperson Education Appeal Board.
| Dir Human Resources Group.
| Director, Human Resources Services.
Office of Inspector General | Counsel to the Inspector General.
| Deputy Inspector General.
| Deputy Assistant IG for Audit Services.
| Assistant Inspector General for Audit Services.
| Assistant IG for Investigative Services.
Office of the General Counsel | Asst Gen Coun for Busin and Adm Law.
| Asst General Counsel for Educational Equity.
| Asst Gen Counsel for Regulations.
| Asst Gen Coun for Div of Legislative Counsel.
| Asst Gen Coun for Postsecondary Ed and Ed Res.
National Center for Education Statistics | Associate Commr for Data Collection and Dissemination.
| Deputy Commissioner.
| Associate Commissioner for Assessment.
Federal Student Aid | Chief Financial Officer.
| Director, Collections.
| Director, Student Aid Awareness.
| Deputy Chief Financial Officer.
Department of Energy:
National Nuclear Security Administration | Chief of Defense Nuclear Counterintelligence.
Deputy Administrator for Defense Programs | Assoc Das for Program A and F Management.
| Assoc Das for Program A and F Management.
Deputy Administrator for Naval Reactors | Dir Advanced Submarine Systems Division.
| Asst Program Manager for Surface Ships.
| Deputy Director for Naval Reactors.
| Senior Naval Reactors Rep (Pearl Harbor).
| Dir Reactor Engineering Division.
| Deputy Directorector Reactor Materials Division.
| Director, Fiscal Division.
| Program Manager for Shipyard Matters.
| Dir Nuclear Components Division.
| Senior Naval Reactors Representative.
| Program Manager Submarie Technology Develop.
| Director for Submarine Refuelings.
| Senior Naval Reactors Representative.
| Dep Program MGR for Commissioned Subs.
| Prog MGR Prototype and Moored Training Ship OPS/Inactivation Programs.
| Dir Regulatory Affairs.
| Director, Instrumentation and Control Division.
| Chief Information Officer.
| Senior Technical Director, Regulatory Affairs.
| Senior Naval Reactors Representative.
Schenectady Naval Reactors | Nuclear Engineer.
Pittsburgh Naval Reactors | Asst Manager for Operations.
Albuquerque Operations Office | Director, Weapons Surety Division.
| Chief Financial Officer.
| Deputy Manager for Business and Administration.
Nevada Operations Office | Asst Manager for Business and Financial Service.
Oakland Operations Office | Assistant Mgr. for Business and Financial Services.
National Nuclear Security Administration Field Site Offices | Chief Counsel.
| Manager, Savannah River Site Office.
| Manager, Sandia Site Office.
| Manager, Livermore Site Office.
| Manager, Nevada Site Office.
National Nuclear Security Administration Service Center | Director, Office of Field Financial Management.
Office of Counterintelligence | Deputy Director.
Office of Security | Dir Ofc of Classification and Technology.
| Deputy Director, Ofc of Security Affairs.
| Director, Office of Security Affairs.
Office of Independent Oversight and Performance Assurance | Director, Office of Safeguards and Security Evaluations.
Office of Safeguards and Security Evaluations | Director, Office of Independent Oversight and Performance Assurance.
| Deputy Director, Office of Independent Oversight and Performance.
Office of Economic Impact and Diversity | Dir of Sm and Disadv Bus Utilz.
Assistant Secretary for Energy Efficiency and Renewable Energy | Manager, Golden Field Office.
Assistant Secretary for Environment, Safety and Health | Dir Office of Price-Anderson Enforcement.
| Dir Ofc of Nuclear Safety, Policy and Standards.
| Dir Office of Regulatory Liaison.
Energy Information Administration | Dir, Ofc of Oil and Gas.
| Dir Ofc of Coal Nucl Elec and Altern Fuels.
| Director, Ofc of Energy Markets and End Use.
| Director Economics and Statistics Division.
| Director, Statistical and Methods Group.
| Director, Natural Gas Division.
| Director, Petroleum Division.
| Dir, Ofc of Integration Nal and Forecasting.
| Director, Coal 7 Electrical Power Division.
| Director, Electrical Power Division.
| Director, International Economic and Greenhouse Gases Division.
| Dir Survey Mgmt Div.
| Director, Information Technology Group.
Office of Environmental Management | Director, Office of Budget.
| Science Advisor.
Office of Science | Dir Chem Sci Div.
| Dir Adv Egy Proj Div.
| Chf Processes and Tech Br.
| Dir High En Physics Div.
| Director, Human Health and Assessment Div.
| Deputy Dir for Management.
| Associate Dir, Office of Resource Mgmt.
| Dir, Health Effects and Life Sci Research Div.
| Deputy Dir for Nuclear Safety Safeguard.
| Dir, Office of Assessment and Support.
| Assoc Dir Ofc of Computational and Tech Researc.
| Director, Financial Management Division.
Office of Fossil Energy | Director, Materials Partnerships Research Center.
Office of Field Management | Deputy Manager, DOE Field Office, CH.
Albuquerque Operations Office | Dir Transportation Safeguards Div.
| Dir, Weapons Programs Div.
| Asst Manager for Management and Administration.
| Carlsbad Area Office Manager.
Chicago Operations Office | Acquisition and Asst Group Manager.
| Area Manager, FERMI.
| Asst Mgr for Laboratory Management.
Idaho Operations Office | Assistant Manager for Administration.
| Manager, Idaho Branch Office.
| Asst Mgr Ofc of Program Execution.
| Asst Manager for Applied E and T Transfer.
Ohio Field Office | Manager Ohio Field Ofc.
| Deputy Manager, Ohio Field Office.
| Director, Fernald Environmental Management Projects.
Oakland Operations Office | Assoc Manager for Site Management.
Oak Ridge Operations Office | Asst Manager for Administration.
| Chief Financial Officer.
Rocky Flats Office | Dep Asst Mgr for Matl Stabilization and Disp.
| Manager, Rocky Flats Field Office.
| Assistant Manager for Administration and Transition.
Savannah River Operations Office | Asst Manager, Business and Logistics.
Office of Hearings and Appeals | Deputy Director for Legal Analysis.
| Deputy Director for Financial Analysis.
| Deputy Director for Econ Analysis.
Office of Inspector General | Asst Inspector General for Investigations.
| Manager, Western Regional Audit Office.
| Director, Audit Policy, Plans and Programs.
| Manager, Eastern Regional Audit Office.
| Dir Capitol Regional Audit Office.
| Deputy Asst Inspector Gen for NNSA and Other Dep'l Investigations.
| Spec Asst for Policy and Planning.
| Counsel to the Inspector General.
| Dir, Office of Contractor Employee Protection.
| Asst Inspector General for Resource Mgmt.
| Principal Deputy Inspector General.
| Assistant Inspector General for Audits.
| Deputy Inspector General for Inspections.
| Deputy Inspector General for Audits.
| Director for Financial Audits.
| Director for Performance Audits and Administration.
| Assistant Inspector General for Audit Services.
| Manager, Capital Regional Audit Office.
| Assistant Inspector General for Inspections.
| Principal Deputy Inspector General.
| Deputy Inspector General for Audit Services.
| Director of NNSA Audits.
| Deputy Assistant Inspector General for Audit Services.
| Director for Planning and Administration.
| Director, Science, Energy, Technology and Financial Audits Division.
| Director, NNSA Audits Division.
| Director, Environmental Audits Division.
Office of Nuclear Energy, Science and Technology | Dir Instrumentation and Control Div.
| Director Nuclear Technology Div.
| Head, Core Manufacturing Branch.
| Assoc Dir, Isotope Production and Distribution.
| Prog Mgr for Analysis and Regulatory Matters.
| Director Acquisition Division.
Office of Management, Budget and Evaluation | Dir HQ Personnel Operations Div.
| Director, Office of Administration.
| Dir Ofc of Budget.
| Deputy Director Ofc of Budget.
| Director, Budget Analysis Division.
| Director, Capital Accounting Center.
| Director, Budget Operations Division.
| Dir Ofc of Dep Accounting and Fin Sys Dev.
| Dir Ofc of Financial Policy.
| Dir Ofc Compliance and Audit Liaison.
| Deputy Controller.
| Controller.
| Deputy Director of Administrative Services (WASH, DC).
| Deputy Director of Personnel.
| Director, Office of Procurement and Assistance Policy.
| Dir Ofc of Mgmt Sys (Competition Advocate).
| Director Ofc Contract and Resource Management.
| Executive Assistant to the Director.
| Dir, Headquarters and Executive Personnel Serv.
| Chief Information Officer/Director of Information Management.
| Deputy Director, Office of Management, Budget and Evaluation/DCFO.
Western Area Power Administration | Chief Program Support Center.
| Chief Financial Officer.
Environmental Protection Agency:
Environmental Protection Agency | Assistant Inspector General for Mission Systems.
Office of Executive Support | Director, Office of Executive Support.
Office of the Chief Financial Officer | Deputy Chief Financial Officer.
Office of the Comptroller | Director, Financial Management Division.
| Comptroller.
| Deputy Comptroller.
| Director, Annual Planning and Budget Division.
| Director, Financial Services Division.
Office of Planning, Analysis and Accountability | Director, Office of Planning Analy and Account.
| Deputy Director, Office of Planning, Analysis and Accountability.
Office of Environmental Information | Deputy Director, Office of Information Analysis and Access.
| Deputy Director, Ofc of Technical Operations and Planning.
| Director, Office of Technical Operations and Planning.
| Director, Office of Planning, Resources and Outreach.
| Director, National Technology Services Division.
| Chief Technology Officer.
Office of the Assistant Administrator for Administration and Resources Management | Director, Ofc of Pol and Resource Mgmt.
| Deputy Assistant Administrator for Admin and Res Mgmt.
Office of Administration | Dir Ofc of Administration.
| Deputy Dir Ofc of Administration.
| Dir, Facilities Management and Services Div.
| Dir, Sfty, Health and Environmental Mgmt Div.
| Senior Advisor to the Director, Office of Administration.
Office of Administration and Resources Management—Cincinnati Ohio | Dir Ofc of Admin and Resources Management.
Office of Administration and Resources Management—Research Triangle Park, North Carolina | Director Office of Administration and Res Mgmt Senior Advisor.
Office of Human Resources and Organizational Services | Dir Office of Human Resources and Org Services.
| Deputy Director Ofc of Human Resources and Org Services.
| Assoc Director for Reengineering and Automation.
| Dir Exec Resources and Special Programs Staff.
Office of Acquisition Management | Dir, Superfund/RCRA Regl Procurement Ops/Div.
| Director, Office of Acquisition Management.
| Deputy Director, Office of Acquisition Management.
Office of Grants and Debarment | Dir, Grants Admin Div.
| Director, Office of Grants and Debarment.
Office of the Assistant Administrator for Enforcement and Compliance Assurance | Director, Ofc of Environmental Justice.
Office of Federal Activities | Dir, International Enforcement Program Div.
Office of Regulatory Enforcement | Director, Office of Regulatory Enforcement.
| Deputy Director, Office of Regulatory Enforcement.
| Dir Air Enforcement Division.
Office of Criminal Enforcement, Forensics and Training | Dir Natl Enforcement Training Institute.
| Dir Ofc of Criminal Enforce Forensics Train.
| Director, Criminal Investigations Division.
| Deputy Director, Office of Criminal Enforcement, Forensics Training.
Office of Compliance | Director, Office of Compliance.
| Dir, Enforcement Plng, Targeting and Date Div.
| Dir, Manufacturing, E and T Division.
| Deputy Director, Office of Compliance.
| Dir, Import-Export Program.
Office of Site Remediation Enforcement | Director, Ofc of Site Remediation Enforcement.
| Deputy Director, Ofc of Site Remediation Enforcement.
Federal Facilities Enforcement Office | Dir Federal Facilities Enforcement Office.
Office of the Inspector General | Counsel to the Inspector General.
| Assistant Inspector General for program Evaluation.
| Assistant Inspector General for Human Capital.
| Senior Science Advisor.
Office of Investigations | Assist Inspector Gen for Investigations.
| Dep Asst Inspector General for Investigations.
Office of Audit | Asst Inspector General for Audits.
| Dep Asst Inspector General for External Audits.
| Dep Asst Inspector General for Internal Audit.
Office of Management | Assistant Inspector General for Management.
Office of Planning, Analysis and Results | Assistant Inspector General for Planning, Analysis and Results.
Office of Wasterwater | Director, Municipal Support Division.
| Deputy Director, Municipal Support Division.
| Director, Water Permits Division.
Office of Science and Technology | Dir, Standards and Applied Science Division.
| Dir, Health and Ecological Criteria Division.
| Director, Engineering and Analysis Division.
Office of Wetlands, Oceans and Watersheds | Dir, Assessment and Watershed Protection Div.
| Dir, Oceans and Coastal Protection Division.
| Dir, Wetlands Division.
Office of Ground Water and Drinking Water | Dir, E and P Implementation Division.
| Director, Standards and Risk Management Division.
| Dir Implementation and Assistance.
Office of the Assistant Administrator for Solid Waste and Emergency Response | Director, Outreach and Special Projects Staff.
| Director, Federal Facilities Restoration and Reuse Office.
| Senior Advisor.
Office of Solid Waste | Dir Hazardous Waste Identification Division.
| Director, Hazardous Waste Minimization and Management Division.
| Director, Economics, Methods and Risk Analysis Division.
Office of the Assistant Administrator for Air and Radiation | Senior Advisor.
| Senior Advisor.
Office of Air Quality Planning and Standard | Dir, Emission Standards Division.
| Dir Air Quality Strategies and Standards Div.
| Dir Emissions Monitoring and Analysis Division.
| Director, Info. Transfer and Program Integration Division.
Office of Transportation and Air Quality | Director, Advanced Technology Division.
| Director, Transportation and Regional Programs Division.
| Director, Assessment and Standards Division.
| Director, Certification and Compliance Division.
Office of Radiation and Indoor Air | Director, Indoor Environments Division.
| Deputy Director, Office of Radiation and Indoor Air.
| Director, Radiation Protection Division.
Office of Atmospheric Programs | Director, Clean Air Markets Division.
| Director, Atmospheric Pollution Prevention Division.
Office of the Assistant Administrator for Prevention Pesticides and Toxics Substances | Associate Assistant Administrator (Mgmt.).
Office of Pesticide Programs | Director, Registration Division.
| Dir, Biological and Economic Analysis Division.
| Dir, Spec Review and Reregistration Division.
| Dir Envir Fate and Effects Division.
| Dir Antimicrobials Division.
| Dir Field and External Affairs Division.
| Dir Inf Resources and Services Division.
| Director, Biopesticides and Pollution Prevention Division.
| Deputy Director Office of Pesticides Programs (Mgmt.).
Office of Pollution Prevention and Toxics | Dir, Economics Exposure and Technology Div.
| Director, Chemical Control Division.
| Director, Information Management Division.
| Dir, Pollution Prevention Div.
| Director, Chemicals Division.
| Dir Health Effects Division.
| Director, Risk Assessment Division.
Office of Science Coordination and Policy | Director, Office of Science Coordination and Policy.
Office of Resources Management and Administration | Dir, Ofc of Resources Mgmt and Admin.
Office of Science Policy | Director, Office of Science Policy.
National Health and Environmental Effects Research | Dir Natl Health and Envir Effects Res Lab (RTP).
Laboratory (Research Triangle Park) | Assoc Dir for Health (NHEERL)-RTP.
| Deputy Director for Management (NHEERL)—RTP.
Atlantic Ecology Division—Narragansett | Director, Atlantic Ecology Division.
Western Ecology division—Corvallis | Dir Western Ecology Division Corvallis.
Gulf Ecology Division—Gulf Breeze | Director, Gulf Ecology Division.
Mid-Continent Ecology Division | Director, Mid-Continent Ecology Division.
Experimental Toxicology Division. | Director, Experimental Toxicology Division.
National Exposure Research Laboratory (Research Triangle Park) | Dir, Natl Exposure Research Laboratory—RTP.
| Deputy Director for Management (NERL)—RTP.
| Assoc Dir for Ecology (NERL)—RTP.
Environmental Sciences Division—Las Vegas | Dir Environmental Sciences Division.
Ecosystlems Research Division—Athens | Dir Ecosystems Res Div Athens.
Human Exposure and Atmospheric Science Division | Director, Human Exposure and Atmospheric Science Division.
National Risk Management Research Laboratory (Cincinnati) | Dir, Natl Risk Mgmt Research Laboratory—CN.
| Deputy Director for Management (NRMRL)—CN.
| Assoc Dir for Health (NRMRL)—CN.
| Director, Water Supply and Water Resources Division.
Air Pollution Prevention and Control Division—Research Triangle Park | Dir Air Pollution Prevention and Control Div.
Subsurface Processes and Systems Division—ADA | Dir Sub-Surface Process and Systems Division.
National Center for Environmental Assessment | Dir Natl Ctr for Environmental Assessment.
| Assoc Dir for Health (NCEA).
| Assoc Dir for Ecology (NCEA).
| Deputy Director for Management.
National Center for Environmental Assessment—Research Triangle Park | Dir Natl Ctr Environ Assessment.
National Center for Environmental Assessment—Cincinnati | Dir Natl Ctr for Environmental Assessment.
National Center for Environmental Research and Quality Assurance | Deputy Dir for Mgmt (NCERQA).
| Dir Environmental Engineer Research Division.
| Dir Natl Ctr for Env Res and Quality Assurance.
Region I—Boston | Regional Counsel.
| Dir Ofc of Ecosystem Protection.
| Dir Ofc of Site Remediation Restoration.
| Dir, Ofc of Administration and Resources Mgmt.
| Dir, Ofc of Strategic Alignment.
| Director, Office of Environmental Stewardship.
Region II—New York | Asst Regl Admr for Policy and Management.
| Regional Counsel.
| Dir, Office of Emergency and Remedial Response.
| Director, Environmental Planning and Protection Division.
| Dir, Div of Enforcement and Compliance Asst.
| Director, Environmental Science and Assessment Division.
| Director, Caribbean Environmental Protection Division.
Region III—Philadelphia | Director, Water Protection Division.
| Regional Counsel.
| Director, Environmental Services Division.
| Asst Reg Admin for Policy and Management.
| Dir Chesapeake Bay Program Office.
| Director, Air Protection Division.
| Director, Hazardous Site Cleanup Division.
| Director, Waste and Chemical Management Division.
Region IV—Atlanta | Dir Water Management Division.
| Asst Regional Admin for Policy and Mgmt.
| Regional Counsel.
| Director Waste Management Division.
| Director, Science and Ecosystem Support Div.
| Director, Air, Pesticides and Toxics Management Division.
Region V—Chicago | Director, Air and Radiation Division.
| Director Water Management Division.
| Regional Counsel.
| Dir Waste Pesticides and Toxics Division.
| Dir Great Lakes Prog Ofc.
| Director Superfund Division.
| Asst Reg Admr for Resources Management.
Region VI—Dallas | Asst Regional Admr for Management.
| Regional Counsel.
| Director, Compliance A and E Division.
| Dir Superfund Division.
| Dir Water Quality Protection Division.
| Dir Multimedia Plann and Permitting.
Region VII—Kansas City | Regional Counsel.
| Asst Regional Admin for Policy and Management.
| Dir Superfund Division.
| Dir Air RCRA and Toxics Division.
| Dir Water Wetlands and Pesticides Division.
| Dir Environmental Services Division.
Region VIII—Denver | Assistant Regional Administrator for Ecosystems Protection and Remediation.
| Assistant Regional Administrator for Pollution Prevention, State and Tribal Programs.
| Assistant Regional Administrator for Technical and Management Services.
| Regional Counsel.
Region IX—San Francisco | Director, Water Management Division.
| Director, Air Division.
| Regional Counsel.
| Asst Regional Admr for Policy and Management.
| Dir, Strategic Planning and Emerging Issues.
| Dir Superfund Division.
| Director, Cross Media Division.
Region X—Seattle | Regional Counsel.
| Assistant Regional Administrator for Management Programs.
| Asst Reg Admr for Water.
| Director, Office of Ecosystems and Communities.
| Director, Office of Environmental Cleanup.
Equal Employment Opportunity Commission:
Office of the Inspector General | Inspector General.
Office of Field Programs | District Director (Baltimore).
| Dist Dir (New York).
| Dist Dir (Atlanta).
| Dist Dir (Houston).
| District Director (Detroit).
| Dist Dir (San Francisco).
| Dist Dir (Dallas).
| Dist Dir (Chicago).
| Dist Dir (St Louis).
| Dist Dir (Miami).
| Dist Dir (Indianapolis).
| Dist Dir (Memphis).
| District Director (Los Angeles).
| Dist Dir (Denver).
| Dist Dir (Birmingham).
| Dist Dir (New Orleans).
| Dist Dir (Phoenix).
| Dist Dir (San Antonio).
| Dist Dir (Charlotte).
| District Director (Seattle).
| District Director (Cleveland).
| Dist Dir (Philadelphia).
| District Director (Milwaukee).
| Program Manager.
Field Management Programs | Director Field Management Programs.
Field Coordination Programs | Director, Field Coordination Programs.
Federal Communications Commission:
Office of Inspector General | Inspector General.
Office of Engineering and Technology | Assistant Bureau Chief for Technology.
Common Carrier Bureau | Chief Accounting Safeguards Division.
Mass Media Bureau | Chief Audio Services Division.
| Chief Video Services Division.
Federal Emergency Management Agency:
Office of Inspector General | Deputy Inspector General.
| Asst Inspector General for Auditing.
| Asst Inspector General for Investigations.
Financial and Acquisition Management Division | Deputy Chief Financial Officer.
| Senior Procurement Executive.
| Chief Financial Officer.
| Deputy Chief Financial Officer.
| Senior Procurement Executive.
Federal Insurance and Mitigation Administration | Deputy Administrator for Insurance.
| Deputy Administrator for Mitigation.
Hazard Mapping Division | Division Director.
Mitigation Planning and Delivery Division | Division Director.
Readiness, Response and Recovery Directorate | Div Dir, Infrastructure Support Division.
Planning & Readiness Division | Division Director.
Recovery Division | Division Director.
External Affairs Directorate | Deputy Administrator.
Federal Energy Regulatory Commission (DOE):
Office of Energy Projects | Dir Div of DAM Safety and Inspections.
Office of the Executive Director | Director, Regulatory Accounting Policy.
| Deputy Executive Director and Chief Accountant.
Federal Labor Relations Authority:
Office of the Chairman | Solicitor.
| Chief Counsel.
Office of Member | Chief Counsel.
Office of Member | Chief Counsel.
Federal Service Impasses Panel | Exec Director FSIP.
Office of the Executive Director | Executive Director.
Office of the General Counsel | Deputy General Counsel.
| Director of Operations and Resources Management.
Regional Offices | Regional Director—Washington, D.C.
| Regional Director—Boston.
| Regional Director—Atlanta.
| Regional Director—Dallas.
| Regional Director, Chicago, Illinois.
| Regional Director, San Francisco.
| Regional Director, Denver.
Federal Maritime Commission:
Office of the Secretary | Secretary.
Office of the General Counsel | Dep Gen Cnsl for Reports Opinions and Decisions.
Office of the Executive Director | Deputy Executive Director.
Bureau of Consumer Complaints and Licensing | Director, Bureau of Consumer Complaints and Licensing.
Bureau of Trade Analysis | Director, Bureau of Trade Analysis.
Bureau of Enforcement | Deputy Director Bureau of Enforcement.
| Dir Bureau of Enforcement.
Federal Retirement Thrift Investment Board | Director of Investments.
| Director of Contracts and Administration.
| Director of Automated Systems.
| Director of Accounting.
| Director of Communications.
| Associate General Counsel.
| Deputy Director of External Affairs.
| Deputy Director of Benefits and Investments.
| Director of the Office of Benefits and Investments.
Federal Trade Commission:
Office of the Inspector General | Inspector General.
Office of the General Counsel | Deputy General Counsel.
Ofc of Executive Director | Deputy Exec Dir for Management.
| Chief Information Officer.
| Deputy Executive Director.
Bureau of Consumer Protection | Associate Director for International Division of Consumer Protection
General Services Administration:
Office of the Chief People Officer | Chief People Officer.
| Dir of Management Services.
| Chief Information Officer.
| Director of Human Resources.
| Deputy Chief Information Officer.
| Deputy Chief Information Officer.
Office of Governmentwide Policy | Deputy Associate Admin for Acquisition Policy.
| Deputy Assoc Administrator for Real Property.
| Director of Intergovernmental Solutions.
| Deputy Associate Administrator for Transportation and Personal Property.
Office of Inspector General | Asst Inspector Gen for Auditing.
| Deputy Inspector General.
| Deputy Asst Inspector General for Auditing.
| Counsel to the Inspector General.
| Asst Inspector Gen for Investigations.
| Dep Asst Inspector General for Investigations.
Office of the Chief Financial Officer | Director of Finance.
| Director of Budget.
| Chief Financial Officer.
| Dir of Financial Management Systems.
Public Building Service | Assistant Commr for Fed Protective Service.
| Asst Comm for Portfolio Management.
| Assistant Commr for Property Disposal.
| Asst Commissioner for Financial and Info System.
| Assistant Commissioner for Business Performance.
| Chief Financial Officer.
| Asst Comm for Real Estate Policy/Sales (FPRS)
Federal Technology Service | Assistant Commissioner for Serv Development.
| Assistant Commissioner for Service Delivery.
| Asst Commr for Info Technology Integration.
| Assistant Commissioner for Regional Services.
| Asst Commissioner for Acquisition.
| Assistant Commissioner for Information Security.
| Assistant Commissioner for Sales.
| Deputy Assistant Commissioner for Information Technology Integration, FTS.
| Program Executive for E-Authentication.
Office of the Chief Information Officer | Director of Infrastructure Operations.
| Director, E-Gov Program Management Office.
Federal Supply Service | Asst Commissioner for Commercial Acquisition.
| Asst Comr for Transportation and Property Mgt.
| Asst Comm for Bus Management and Marketing.
| Dep Asst Commissioner for Acquisition.
| FSS Chief Information Officer.
| Asst Comm for Vehicle Acquisition and Leasing Svc.
| Assistant Commissioner for Supply.
| Assistant Commissioner for Enterprise Planning.
New England Region | Asst Reg Admr for Public Bldg Service.
Northeast and Caribbean Region | Asst Reg Admr for Public Blds Service.
| Asst Reg Admr for Federal Supply Service.
Mid-Atlantic Region | Asst Reg Admr for Public Blds Service.
| Asst Regl Admr Federal Supply Service.
| Regional Counsel.
National Capital Region | Assistant Regional Administrator, PBS, NCR.
| Project Management Executive.
Southeast Sunbelt Region | Asst Reg Admr Public Blds Service.
| Assistant Reg Admin for Fed Tech Service.
| Asst Reg Admr for Federal Supply and Services.
| Deputy Assistant Regional Administrator for Real Estate Design, Construction and Development.
Great Lakes Region | Asst Reg Admr for Public Blds Service.
The Heartland Region | Asst Reg Admr for Public Blds Service.
| Asst Reg Admr for Federal Technology Service, R-6.
Greater Southwest Region | Asst Reg Admr for Public Blds Service.
| Asst Regional Admin for Federal Tech Service.
| Asst Reg Admr for Federal Supply Service.
Rocky Mountain Region | Asst Reg Admr for Pubic Blds Service.
Pacific Rim Region | Asst Regl Admr for Public Buildings Services.
| Asst Reg Admr for Federal Supply Service.
| Senior Advisor.
Northwest/Arctic Region | Asst Regional Administrator, PBS Region 10.
Department of Health and Human Services:
Office of the Deputy Assistant Secretary for Budget | Dir Div of Integrity and Organ Review.
Office of the Deputy Assistant Secretary for Finance | Deputy Assistant Secretary, Finance.
| Dir, Office of Financial Policy.
Office of the Deputy Assistant Secretary for Grants | Deputy Assistant Secretary, OGAM.
Office of the Assistant Secretary for Planning and Evaluation | Dep Asst Inspector General for Audit.
| Dep to Deputy Asst Secry for Plann and Evaluat.
Office of the Assistant Secretary for Public Health and Science | Dir Div of Research Investigations.
| Dir Ofc of HIV/AIDS Policy.
| Deputy Director Ofc of Management.
| Reg Health Administrator.
| Director, Office of Research Integrity.
Associate General Counsel Divisions | Assoc Gen Coun, Business and Adm Law Division.
| Dep Assoc Gen Counl, Bus and Admn Law Div.
Office of the Inspector General | Principal Dep Inspector General.
| Deputy Inspector General for Mgmt and Policy.
| Deputy Inspector General for Mgmt and Policy.
| Deputy Inspector General for Mgmt and Policy.
| Deputy Inspector General for Legal Affairs.
Office of the Deputy Inspector General for Investigations | Dep Insp Gen for Investigations.
| Asst Insp General for Criminal Investigations.
| Asst Insp Gen for Civil and Adm Remedies.
| Asst Insp Gen for Investigation P and O.
| Dep Insp General for Enforcement and Compliance.
Office of the Deputy Inspector General for Audit Services | Dep Inspector General for Audit Services.
| Asst Insp Gen for Adm of C/F and Agin Audits.
| Asst Inspector Gen for Health Care Fin Audits.
| Asst Inspector Gen for Audit Pol and Oversight.
| Asst Insp Gen for Public Health Serv Audits.
| Dig for Investigations.
| Assist if for Aud Mgmt Pol.
Office of the Deputy Inspector General for Evaluation and Inspections | Dep Insp Gen for Evaluation and Inspections.
Program Support Center | Dir Program Support Center.
| Deputy Director of Operations.
| Deputy Asst. Sec. Program Support Center.
Office of Financial Management Service | Director, Financial Management Service.
Office of Program Support | Dir Ofc of Financial Management.
Centers for Medicare and Medicaid Services | Deputy Director (Technology).
Office of the Actuary | Dir, Ofc of the Actuary (Chief Actuary).
| Director, Ofc of Medicare and Medicaid Cost Est.
Center for Beneficiary Choices | Deputy Director, Center for Beneficiary Services (Medicare Contractor, Mgtmt).
| Associate Deputy Director, CBS (Contract Management).
Office of Internal Customer Support | Director, Ofc of Internal Customer Support.
Office of Information Services | Director, Office of Information Services (Chief Information Officer).
| Deputy Director Ofc of Info Services.
Office of Financial Management | Deputy Director, Ofc of Financial Management.
| Dir Ofc of Financing Management.
| Deputy Director Ofc Financial Management.
| Dir Program Integrity Group.
| Dir Financial Services Group.
| Deputy Director, CFO Audit Internal Controls.
Office of the Administrator | Assoc Admin for Policy and Prog Coordinator.
Center for Substance Abuse Prevention | Dir, Div of State and Community Systems Dev.
Center for Mental Health Services | Director Center for Mental Health Services.
| Dir Div of State and Community Systems Develop.
Centers for Disease Control and Prevention | Director, Financial Management Office.
| Director, Office of Facilities Planning and Management.
| Deputy Director for Finance and Accounting.
| Director, Division of Adult and Community Health.
National Institute for Occupational Safety and Health | Deputy Director for Management.
National Center for Chronic Disease Prevention and Health Promotion | Director, Office of Smoking and Health.
National Center for HIVN STD and TB Prevention | Associate Director for Management and Operations.
Office of Chief Counsel | Deputy Chief Counsel for Program Review.
| Associate Deputy Chief Counsel for Drugs and Biologics.
| Associate Deputy Chief Cnsel for Devices, Foods and Veterinary Medicine.
Office of Management and Systems | Director, Office of Financial Mgmt.
Office of Regulatory Affairs | Assoc Comr for Regulatory Affairs.
| Dep Assoc Comr for Regulatory Affairs.
| Regl Food and Drug Director, NE Region.
| Regl Food and Drug Director, Southeast Region.
| Regl Food and Drug Director, Southwest Region.
| Dir Ofc of Criminal Investigations.
| Regional Food and Drug Director, Central Region.
| District Food and Drug Director, New York District.
| Deputy Director for Investigations.
| District Food and Drug Director, Los Angeles District.
Center for Drug Evaluation and Research | Director, Office of Management.
| Dir, Div of Medical Imaging S and D Products.
| Director, Office of Generic Drugs.
| Dir, Office of Epidemiology and Biostatistics.
| Director, Office of Compliance.
| Senior Advisor for Policy.
Center for Devices and Radiological Health | Dir Office of Compliance.
| Dir, Office of Science and Technology.
| Dir Ofc of Sys and Management.
Center for Food Safety and Applied Nutrition | Director, Office of Seafood.
| Dir Ofc of Premarket Approval.
| Dir Ofc of Field Programs.
| Dir, Ofc of Plant and Dairy Foods and Beverages.
| Director, Office of Regulations and Policy.
Center for Veterinary Medicine | Director, Office of Science.
| Director, Office of Surveillance and Compliance.
Office of Special Programs | Director, Office of Special Programs.
HIV/AIDS Bureau | Director, Office of Science and Epidemiology.
Office of the Director | Director, Div of Financial Management.
| Director, Division of Contracts and Grants.
| Associate Director For Extramural Affairs.
| Associate Director for Disease Prevention.
| Dir, Ofc of Medical Applications of Research.
| Associate Director for Administration.
| Director, Office of Policy for Extramural Research Administration.
| Senior Advisor for Policy.
| Director, Office of Reports and Analysis.
| Scientific Advisor for Capacity Development.
National Heart, Lung and Blood Institute | Dir Div of Heart and Vascular Diseases.
| Dir Div of Lung Diseases.
| Dir, Div of Blood Diseases and Resources.
| Director, Division of Extramural Affairs.
| Assoc Dir for International Programs.
| Dir Ofc of Biostatics Research.
| Deputy Director Div of Heart Vascular Diseases.
| Deputy Director Div of Epidem and Clinical Application.
| Director, Epidemiology and Biometry Program.
| Director, National Center for Sleep Disorders.
Intramural Research | Chf Lab of Biochemical Genetics.
| Chf Lab of Biochemistry.
| Chief Lab of Biophysical Chemistry.
| Chief Macromolecules Section.
| Chf, Intermediary M and B Section.
| Chf, Lab of Kidney and Electrolyte Metabolism.
| Chief Lab of Cardiac Energetics.
| Chief, Metabolic Regulation Section.
National Cancer Institute | Assoc Dir for Intramural Management.
| Assoc Director for Extramural Management.
| Associate Director, Cancer Diagnosis Program.
| Assistant Director for Financial Management.
| Deputy Director for Management.
| Associate Director, Referral Review and Program Coordination.
| Deputy Director for Administrative Operations.
Division of Cancer Biology, Diagnosis and Centers | Chf, Microbial G and B Section, Lab of Biochem.
| Chief, Lab of Biochem Intramural Res Prog.
| Assoc Dir, Extramural Research Program.
| Deputy Director, Div of Cancer Biology Diag and Centers.
| Chief Dermatology BR, Intramural Res Prog.
| Chief, Cell Mediated Immunity Section.
| Chief, Lab of Tumor and Biol Immunology, IRP.
| Dir, Div of Cancer Biology Diagnois and Ctrs.
| Assoc Dir, Ctrs Training and Resources Prog.
Division of Cancer Etiology | Chief Lab of Biology.
| Chief Laboratory of Molecular Carcinogenesis.
| Chf Lab of Experimental Pathology.
| Dir, Div of Cancer Etiology.
Division of Cancer Prevention and Control | Deputy Director, Div of Cancer Prevention and Control.
| Associate Dir, Surveillance Program, DCPC.
| Assoc Dir, Early D and C Oncology Program.
Division of Extramural Activities | Dir, Div of Extramural Activities.
| Deputy Dir, Div of Extramural Activities.
Division of Cancer Treatment | Chf-Radiation Oncology BR.
| Assoc Dir, Cancer Therapy Evaluation Program.
National Institute of Diabetes and Digestive and Kidney Diseases | Dir Div Kidney Urologic and Hematologic Diseases.
| Dir Division of Extramural Activities.
| Chf, Lab of Molecular and Cellular Biology.
| Deputy Director for Management and Operations.
Intramural Research | Chief Section on Biochemical Mechanisms.
| Chf Sect on Metabolic Enzymes.
| Chf Sect on Physical Chemistry.
| Chief, Section on Molecular Structure.
| Chief Theoretical Biophysics Section.
| Chief, Laboratory of Bio-Organic Chemistry.
| Chief Oxidation Mechanisms Section L B C.
| Chief Laboratory of Biochemistry and Metabolism.
| Clinical Dir and Chief, Kidney Disease Section.
| Chief, Section on Molecular Biophysics.
| Chf, Sec Carbohydrates Lab of Chemistry/Niddk.
| Chief, Laboratory of Neuroscience, Niddk.
| Chf, Laboratory of Medicinal Chemistry.
| Chief, Morphogenesis Section.
National Institutes of Arthritis and Musculoskeletal and Skin Diseases | Director, Extramural Program.
| Deputy Dir.
| Associate Director for Management and Operations.
National Library of Medicine | Deputy Director, Natl Lib of Medicine.
| Deputy Director for Res and Education.
| Associate Director for Library Operations.
| Assoc Dir for Extramural Programs.
| Director, Lister Hill National Center for Biomedical Commun.
| Deputy Director Lister Hill Natl Ctr for Biomed Comms.
| Director, Information Systems.
| Dir Natl Ctr for Biotech Info.
| Assoc Dir for Health and Info Prog Development.
| Associate Director for Administrative Management.
National Institutes of Allergy and Infectious Diseases | Dir, Div of Allergy/Immunlogy/Transplantation.
| Chf, Lab of Parasitic Diseases.
| Dir, Div of Microbiology/Infectious Diseases.
| Chief, Lab of Immunogenetics.
| Dir, Div of Extramural Activities.
| Ch, Lab of Microbial Structure and Function.
| Chief Lab of Molecular Microbiology.
| Dir, Div Acquired Immunideficiency Syndrome.
| Chief, Biological Resources Branch.
| Head, Lymphocyte Biology Section.
| Chief, Laboratory of Infectious Diseases.
| Deputy Director Div of Acquired Immunodeficiency.
| Head Epidemiology Section.
| Chief, Laboratory of Malaria Research.
| Dir Div of Intramural Research.
| Dep Chief Lab of IMM and Head Lymp Biol Section.
National Institutes of Aging | Scientific Director Gerontology Rsch Cntr.
| Clin Director and Chief Clin Physiology Br.
| Associate Dir For Behavioral Sciences Res.
| Assoc Dir Biology of Aging Program.
| Assoc Dir, Office of Extramural Affairs.
| Assoc Dir, Epidemi, Demo, and Biometry Program.
| Assoc Dir, Ofc of Plnng, A and I Activities.
| Assoc Dir Neurosci and Neuropsych of Aging Prog.
| Associate Director For Administration.
National Institutes of Child Health and Human Development | Chief, Laboratory of Molecular Genetics.
| Chf, Endocrinology and Reproduction Research Br.
| Director Ctr Forres For Mothers and Children.
| Director Cntr For Population Research.
| Chief, Section of Growth Factors.
| Assoc Dir For Prevention Research.
| Chief Laboratory of Mamalian Genes and Develop.
| Chief, Section on Molecular Endocrinology.
| Chief, Section Neuroendocrinology.
| Chief Section on Microbial Genetics.
| Chief, Laboratory of Comparative Ethology.
| Associate Director For Administration.
| Dir, Natl Center For Medical Rehab Research.
National Institute of Dental and Craniofacial Research | Chief, Laboratory of Immunology.
| Dir, Extramural Program
| Associate Director for International Health.
| Associate Director for Management.
| Associate Director for Program Development.
National Institutes of Environmental Health Sciences | Chf Lab of Pulmonary Pathobiology.
| Head Mutagenesis Section.
| Head Mammalian Mutagenesis Section.
| Senior Scientific Advisor.
| Associate Director For Management.
| Chief Lab of Molecular Carcinogenesis.
| Dir Natl Inst of Environmental Health Science.
| Dir Environmental Toxicology Program.
National Institutes of General Medical Sciences | Dir Genetics Program.
| Associate Director For Extramural Activities.
| Director, Division of Pharamcology, Physiology, and Biological Chemistry.
| Dir Bio Phys Sciences Program Branch.
| Deputy Director Natl Institute of General Med Sci.
| Dir, Minority Opportunities in Res Prog Br.
| Associate Director For Administration and Operations.
National Institutes of Neurological Disorders and Stroke | Dir, Div of Fundamental Neurosciences.
| Associate Director For Administration.
| Dir, Basic Neurosci Prog/Chf/Lab or Neurochem.
| Chf, Lab of Molecular and Cellular Neurobiology.
Intramural Research | Chief Lab or Central Nervous System Studies.
| Chf, Dev and Metabolic Neurology Branch.
| Deputy Chief, Lab of Central Nervous Sys Stud.
| Chief, Neuroimaging Branch.
| Chief, Laboratory of Nuerobiology.
| Chief, Laboratory of Neura Control.
| Chief Brain Structural Platicity Section.
| Chief Stroke Branch.
National Eye Institute | Chief Laboratory of Retinal Cell and Mol Biolog.
| Chief, Lab of Molecular and Dev. Biology.
| Chief, Laboratory of Sensorimotor Research.
National Institutes of Deafness and Other Communication Disorders | Director, Division of Human Communication.
| Chief Laboratory of Cellular Biology.
| Associate Director For Administration.
| Director, Division of Extramural Research.
National Institutes of Health Clinical Center | Associate Director For Planning.
| Assoc Chf, Position Emission T and R.
| Deputy Director For Management and Operations.
| Chief Financial Officer.
| Chief Operating Officer.
Center for Information Technology | Chief, Computer Center Branch.
| Deputy Director.
| Assoc Dir Ofc of Computing Resources Services.
| Senior Advisor to Director, Center for Information Technology.
John E. Fogarty International Center | Deputy Director Fogarty International Ctr.
| Assoc Dir For Int'l Advanced Studies.
National Center for Research Resources | Dir, Natl Center for Research Resources.
| Dir, Gen Clinical Res Ctr For Res Resources.
| Deputy Director, Natl Center for Research Resources.
| Associate Director For Biomedical Technology.
| Associate Director For Comparative Medicine.
| Associate Director For Research Infrastructure.
Center for Scientific Review | Associate Director for Referral and Review.
| Assoc Dir For Statistics and Analysis.
| Director, Division of Molecular and Cellular Mechanisms.
| Director, Division of Physilogical Systems.
| Director, Division of Clinical and Population-Based Studies.
| Director, Division of Biologic Basis of Disease.
National institute of Nursing Research | Director National Cntr For Nursing Research.
| Deputy Director/Director, Division of Extramural Activities.
National Human Genome Research Institute | Deputy Director.
| Dir Div of Intramural Res Natl Ctr H G R.
| Chief Diag Devel Br Natl Ctr Human Gen Res.
| Chf, Lab of Genetic Dis Res Natl Ctr For Hgr.
| Associate Director For Management.
National Institute on Drug Abuse | Assoc Dir For Planning and Resources Management.
| Dir, Office of Extramural Program Review.
| Director Division of Clinical Research.
| Dir, Medications Development Division.
| Chief, Neuroscience Research Branch.
| Associate Director For Clinical Neuroscience and Medical Affs,
| Division of Treatment Research and Development.
National Institute of Mental Health | Deputy Director, National Institute of Mental Health.
| Associate Director For Special Populations.
| Associate Director For Prevention.
| Exec Ofcr, Natl Institute of Mental Health.
| Dir, Ofc of Legislative Analysis and Coord.
| Dir, Div of Neuroscience and Behavioral Sci.
| Chief, Neuropsychiatry Branch.
| Chief, Child Psychiatry Branch.
| Chief, Biological Psychiatry Branch.
| Chief, Laboratory of Clinical Science.
| Chief, Section on Histopharmacology.
| Director, Office on Aids.
| Chief, Section on Clinical and Experimental Neuropsychology.
| Director, Division of Mental Disorders, Behavioral Research and Aids.
| Director, Division of Services and Intervention Research.
| Chief, Section on Cognitive Neuroscience.
National Institute on Alcohol Abuse and Alcoholism | Director, Division of Basic Research.
| Associate Director for Administration.
Agency for Healthcare Research and Quality | Dir Ctr for Outcomes and Effectiveness Research.
| Executive Officer.
| Director, Office of Research Review, Education, and Policy.
Department of Housing and Urban Development:
Office of the Inspector General | Asst Inspector General for Investigations.
| Assistant Inspector General for Audit.
| Deputy Inspector General.
| Asst Inspector General for Management and Policy.
| Deputy Asst Inspector for Investigation.
| Dep Asst Inspector Gen for Audit.
| Dep Asst Inspector General for Investigation.
| Counsel to the Inspector General.
Office of the Chief Financial Officer | Assistant Chief Financial Officer for Budget.
| Deputy Chief Financial Officer.
| Assistant Chief Financial Officer for Financial Management.
| Assistant Chief Financial Officer for Accounting.
Departmental Enforcement Center | Chief Counsel
| Associate Director, Departmental Enforcement Center.
| Director, Departmental Enforcement Center.
Assistant Secretary for Administration | Director, office of Procurement and Contracts.
| Director, Grants Management Center.
| Senior Advisory for Procurement Planning and Program Liaison.
Office of the Chief Information Officer | Information Technology Advisor.
| Deputy Chief Information Officer for IT Reform.
Asssitant Secretary for Housing | Housing/Fed Housing Adm Comptroller.
| Housing—FHA Deputy Comptroller.
| Director, Office of Asset Management.
| Director, Office of Program Systems Management.
| Deputy Assistant Secretary for Finance and Budget.
Assistant Secretary for Fair Housing and Equal Opportunity | Director, Office of Enforcement.
Office of Departmental Equal Employment Opportunity | Dir, Ofc of Departmental Equal Employ Opport
Assistant Secretary for Community Planning and Development | Director, Ofc of Community Viability Comptroller.
Government National Mortgage Association | Senior Vice President, Office of Capital Markets and Policy.
| Senior Vice President, Office of Finance.
| Senior Vice President, Office of Multifamily Programs.
| Senior Vice President, Office of Program Operations and Support.
| Senior Vice President, Office of Management and Communication.
| Senior Vice President, Office of Management Operations.
| Senior Vice President, Office of Program Operations.
| Senior Advisor to the President.
Assistant Secretary for Public and Indian Housing | Gen Deputy Assistant Secretary for Public and Indian Housing.
| Deputy Public and Indian Housing Comptroller.
| Dir, Ofc of Public Housing Partnership.
| Deputy Asst Secretary, Office of Troubled Agency Recovery.
| Deputy Director for Finance.
| Comptroller, Real Estate Assessment Center.
| Director, Real Estate Assessment Center.
| Director, Administrative Operations.
| Deputy Assistant Secretary for Admin. and Budget/CFO.
Office of the Inspector General | Assistant Inspector General for Auditing.
| Asst Inspector General for Investigations.
| Assistant Inspector General for Management and Policy.
| Assistant Inspector General for Strategic Initiatives.
| Assistant Inspector General for Program Integrity.
| General Counsel.
| Deputy Asst Inspector General for Audits.
| Deputy Assistant Inspector General for Audits.
Office of the Solicitor | Deputy Assoc Solicitor, General Law.
| Deputy Associate Solicitor, Division of Parks and Wildlife.
| Deputy Associate Solicitor-Mineral Resources.
| Associate Solicitor for Administration.
| Deputy Associate Solicitor, Division of Land and Water Resources.
Assistant Secretary—Policy, Management and Budget | Asst Dir for Economics.
| Manager, Science and Engineering.
| Designated Agency Ethics Official.
| Deputy Assistant Secretary—Law Enforcement and Security.
| Deputy Asst Secretary Budget and Finance.
| Dir, Ofc of Fin Mgmt and Dep Chf Fin Officer.
| Chief Div of Budget and Program Review.
| Deputy Agency Ethics Staff Officer.
Assistant Secretary—Fish and Wildlife and Parks National Park Service | Director for Everglades Restoration.
| Financial Advisor (Comptroller).
| Park Manager—Grand Canyon.
Field Offices | Park Manager—Yosemite (Superintendent).
| Park Manager—Everglades.
| Park Manager—Yellowstone (Superintendent).
| Asst Dir, Design and Construction (MGR, DSC).
| Park Manager-Independence Natl Historic Park.
United States Fish and Wildlife Service | Executive Dir Regional Ecosystem Office.
Field Offices | Director, Technical Services Center.
| Spec Asst to the Dir, Reclamation Serv Center.
| Director, Management Services Office.
United States Geological Survey | Regional Geographer, Western Region.
| Regional Hydrologist, Western Region.
| Chief Scientist for Hydrology.
Directors Office | Geographic Information Officer.
| Deputy Director, U.S. Geological Survey.
| Regional Director, Eastern Region.
| Regional Director, Western Region.
| Physical Scientist.
| Chief, Office of Administrative Policy and Services.
| Associate Director for Geography.
National Mapping Division | Associate Director for Geography.
| Associate Division Chief for Operations.
Field Offices | Chief, EROS Data Center.
| Chief Mid-Continent Mapping Center.
| Chief Rocky Mountain Mapping Center.
| Chief Mapping Applications.
| Regional Geographer, Eastern Region.
Water Resources Division | Associate Division Chief for Water.
| Associate Chief Hydrologist for Program Operations.
| Asst Chief Hydrologist for Water Information.
| Assistant Chief Hydrologic for Research.
| Chf, National Water Data Exchange Program.
Field Offices | Regional Hydrologist Central Region.
| Regl Hydrologist Southeastern Region.
| Regional Hydrologist, Western Region.
| Regional Hydrologist, Northeastern Region.
Geologic Division | Associate Director for Geology.
| Assoc Chief Geologist for Program Operations.
| Associate Chief Geologist for Science.
| Regional Geologist, Western Region.
| Regional Geologist, Eastern Region.
| Chief Scientist for Geology.
Biological Resources Division | Asst Dir, Budget and Administration.
| Associate Chief Biologist for Operations.
| Associate Chief Biologist for Information.
Field Offices | Regional Chief Biologist, Eastern Region.
| Regional Biologist, Western Region.
Field Offices | Regional Director.
| Regional Director.
| Regional Director.
Minerals Management Service | Associate Dir for Policy and Mgmt Improvement.
Field Offices | Regional Director, Gulf of Mexico OCS Region.
| Asst Program Director for Offshore Compliance and Asset Management.
| Asst Prog Director for Onshore Compliance and Asset Management.
| Regional Director, Alaska OCS Region.
| Regional Director, Pacific OCS Region.
| Deputy Associate Director for Minerals Revenue Management.
Assistant Secretary—Indian Affairs | Chief Financial Officer.
Bureau of Indian Affairs | Deputy Director, Office of Indian Education Programs.
Office of Hearings and Appeals | Dir, Ofc of Hearings and Appeals.
Department of Justice:
Office of the Legal Counsel | Special Counsel.
| Special Counsel.
Office of the Inspector General | Assistant Inspector General, Evaluation and Inspections Division
| Assistant Inspector General for Audit.
| Assistant Inspector General for Investigation.
| Assistant Inspector General for Management and Planning.
| Deputy Inspector General.
| General Counsel.
| Director, Office of Oversight and Review.
| Sen Exec Strategic Plan and Spec Project.
Office of Professional Responsibility | Counsel on Professional Responsibility.
| Deputy Counsel on Professional Responsibility.
Justice Management Division | Asst Attorney General for Administration.
| Deputy Asst Attorney General.
| Director.
| Dir, Security and Emergency Plnng Staff.
| Director, Computer Services Staff.
| Dir Finance Staff.
| Dep Asst Attorney General; Controller.
| Dep Asst Attorney Gen Human Res/Admin.
| Dir Library Staff.
| Director, Information Mgmt and Security Staff.
| Dir, Facilities and Administrative Svc Staff.
| Director, Ofc of Atty Pers Mgmt.
| Dir Telecommunications Services Staff.
| IT Project Manager.
| Director Management and Planning Staff.
| Director, Budget Staff.
| Director, Debt Collection Management Staff.
| Asst Dir, Management and Planning Staff.
| Senior Policy Advisor.
| Chief Information Officer.
| Dir Procurement Services Staff.
| Dir, Systems Technology Staff.
| General Counsel.
| Dir, Equal Employment Opportunity Staff.
| Senior Counsel.
| Director, Department Ethics Office.
| Deputy Director, Budget Staff.
| Director, Systems Engineering and Development Staff.
| Senior Program Manager.
Professional Responsibility Advisory Office | Director, Professional Responsibility Advisory Office.
Office of Federal Detention Trustee | Federal Detention Trustee.
Executive Office for United States Trustees | Executive Officer.
Executive Office for Immigration Review | Chief Immigration Judge.
| Assistant to the Director.
| Chairman, Board of Immigration Appeals.
| General Counsel.
| Attorney—Examiner (Immigration).
| Chief Admin Hearing Officer.
Antitrust Division | Deputy Director of Operations.
| Chief, Competition Policy Section.
| Senior Litigator.
| Executive Officer.
| Chief Computers and Finance Section.
| Senior Litigator.
| Senior Litigator, Atlanta Field Office.
| Deputy Chief, Litigation II Section.
Civil Division | Spec Litigation Counsel (Foreign Litigation).
| Spec Litigation Counsel.
| Sepc Litigation Counsel.
| Special Litigation Counsel (Federal Programs).
| Spec Litigation Coun, C/L Branch.
| Deputy Branch Director.
| Deputy Branch Director/Commercial Litigation.
| Deputy Branch Director.
| Director of Management Programs.
| Deputy Branch Director.
| Deputy Branch Dir Civil Frauds.
| Deputy Branch Director.
| Director Office of Consumer Litigation.
| Deputy Director, Commercial Litigation Branch.
| Appellate Litigation Counsel.
| Deputy Branch Director.
| Deputy Director, Tobacco Litigation Team.
| Deputy Director, Appellate Staff.
Civil Rights Division | Special Litigation Counsel.
| Executive Officer.
Environment and Natural Resources Division | Senior Litigation Coun Attorney—Examiner.
| Dep Chf, Environmental Enforcement Section.
| Executive Officer.
| Principal Deputy Chief Environ Enforce Sec.
| Supervisory Trail Attorney.
Tax Division | Special Litigation Counsel.
| SR Trial Attorney.
| Special Litigation Counsel.
| Spec Litigation Counsel.
| Chief Civil Trail Section Southwestern Region.
| Executive Officer.
Immigration and Naturalization Service | Asst Commissioner for Detention and Deportation.
| Asst Commissioner for Adjudication and Natural.
| Assistant Commissioner for Border Patrol.
| Director of Internal Audit.
| Director of Security.
| Asst Comr. Budget.
| Regional Director Central Region.
| Asst Commissioner Administration.
| Chief Patrol Agent.
| District Director.
| Chief Patrol Agent.
| District Dir, Western Reg, Phoenix District.
| Deputy General Counsel.
| Chief Patrol Agent, El Paso, TX.
| Deputy Executive Associate Commissioner for Detention and Removals.
| Associate Commissioner, Field Services Operations.
Associate Commissioner for Informaton Systems | Deputy Associate Commissioner for Information Resources Management.
Associate Commissioner for Examinations | Asst Comm for Inspections.
Associate Commissioner for Enforcement | Assistant Commissioner for Investigations.
| Assistant Deputy Executive Associate Commissioner, Field Operations.
Executive Associate Commissioner for Management | Assistant Comr, Human Resources and Development.
| Assistant Commissioner for Records.
Regional Offices—Immigration and Naturalization Service | District Director Newark District.
| District Director, Newark, District.
| Chief Patrol Agent, McAllen, Texas.
| Chief Patrol Agency, Tucson, Arizona.
| Regional Counsel, Western Region.
Ofc of the Associate Attorney General | Deputy Director for Support Services.
Executive Ofc for United States Attorneys | Dir Ofc of Mgnt Information Systems Support.
| Dir, Office of Administration and Review..
| Deputy Director for Operations.
| Executive Officer (Principal Assoc Director).
| Director, Office of Legal Education.
| Deputy Director, Financial Management Staff.
Criminal Division | Senior Counsel to the Assistant Attorney General.
| Director, Organized Crime Drug Enforcement Task Forces.
| Deputy Chief, Fraud Section.
| Chief, Asset Forfeiture and Money Laundering Section.
| Senior Appellate Counsel.
| Senior Counsel.
| Executive Officer.
| Dir Intl Criminal Invest Train Asst Program.
| Chief, General Litigation and Legal Advice Sect.
| Senior Counsel for Natl Security Matters.
| Dep Chief Terrorism and Violent Crime Section.
| Deputy Chief, Computer Crime and Intellectual Property Sec.
| Chf of International Training and Dev Programs.
| Senior Counsel to the Assistant Attorney General.
| Principal Deputy Chief, Narcotic and Dangerous Drug Section.
| Director, Office of Overseas Prosecutorial Development, Assistance, and Training.
| Chief, Asset Forfeiture Office.
| Senior Counsel for National Security Matters.
Office of Senior Counsels | Sr Counsel for Litigation.
Office of Deputy Assistant Attorney General I | Counsel to the Office Fraud Section.
Office of Deputy Assistant Attorney General II | Chf Public Integrity Section.
| Deputy Chief Public Integrity Section.
Federal Bureau of Prisons | Assistant Director For Administration.
| General Counsel.
| Assoc Commr, Fed Prisons Industries, Unicor.
| Dep Assoc Commr Fed Prison Industries.
| Warden Ft Worth Texas.
| Warden Marianna FL.
| Asst Director for Human Res Mgmt.
| (Warden) Miami, FL.
| Senior Deputy Asst Dir Health Services Div.
| Regional Director Mid Atlantic Division.
| Asst Director, Community Corrections and Detention.
| Asst Dir, Info, Pol, and Public Afrs Div.
| Warden Talladega AL.
| Gen Counsel, Fed Prison Industries (UNICOR).
| Warden, Allenwood, Pennsylvania.
| Sr Mgt Counsel, (Federal Bureau of Prisons).
| (Warden) Fort Dix, NJ.
| (Warden) FCC, Floren, CO.
| Correctional Inst Admr (ARD) SCR, Dallas, TX.
| Corrl Inst Admr (SDAD), CC and D Div, Wash, DC.
| Warden, USP, Florence, CO.
| CIA (Warden) Fed Medical Center Carswell, TX.
| CIA (Warden) U.S. Penitentiary, Allenwood, PA.
| (Warden) FTC, Okalhoma, OK.
| Senior Deputy Assistant Director (Administration).
| CIA (Warden) Fed Cortl Inst/EL Reno, OK.
| CIA (Warden) Fed Medical Center/Miami, FL.
| Correctional Prog Offcr/Sr Dep Regl Dir.
| Corrrectional Inst Admr (Warden) FCI.
| Correctional Prog Ofcr/Senior Deputy Assistant Director PRD.
| Correctional Program Officer.
| Correctional Prog Officer (WFCI, Estill, SC).
| Correctional Prog Officer (Warden Fed CI, SC).
| Correctional Institution Admin (W, FMC, FTD, MA).
| Correctional Institution Administrator.
| Correctional Institution Admr (Warden).
| Correction Institution Administrator (Warden, U.S. Penitentiary, Beaumont, TX).
| Assistant Director, Health Services Division.
| Deputy Assistant Director for Administration.
| Correctional Program Officer.
| Warden.
| Correctional Institution Administrator (Warden).
| Correctional Institution Administrator (Warden).
| Correction Program Officer (Senior Deputy Assistant Director).
| Budget Officer.
| Warden.
| Warden.
| Warden, USP, Lee, VA.
| Warden, FCI.
| Senior Counsel.
Office of Correctional Programs | Asst Dir Correctional Programs Div.
Northeast Region | Regional Director, Northeast Region.
| Warden, Lewisburg, PA.
| Warden, McKean, PA.
| (Warden), Oakdale, LA.
| Warden, FCI, Fairton, NJ.
| Warden.
| Warden, FCI, McKean, PA.
| Correctional Institution Administrator (Warden).
| Correctional Institution Administrator (Warden).
| Warden, FDC, Phila, PA.
| Correctional Institution Administrator (Warden).
Southeast Region | Regional Director, Southeast Region.
| Warden Atlanta.
| Warden, Lexington Kentucky.
| Warden Butner North Carolina.
| Correctional Institution Administrator (Warden).
| Correctional Institution Administrator (Warden).
| Correctional Institution Administrator (Warden).
| Warden, FCI, Petersburg, VA.
| Warden, USP, Big Sandy, KY.
North Central Region | Regional Director, North Central Region.
| Warden Leavenworth Kansas.
| Warden Springfield MO.
| Warden Marion IL.
| Warden Terre Haute, IN.
| Warden, Federal Medical Center, Rochester, Minnesota.
| Correctional Institution Administrator (Warden).
| Correctional Institution Administrator (Warden).
| Correctional Institution Administrator (Warden).
| Correctional Institution Administrator (Warden).
South Central Region | Regional Director, South Central Region.
| Warden El Reno Okla.
| Warden, Federal Correctional Institution, Medium, Beaumont, Texas.
| Warden, FCI, Three Rivers, Texas.
Western Region | Regional Director, Western Region.
| Warden, Lompoc, CA.
| Warden Phoenix AZ.
| Warden Federal Correctional Institution.
| Correctional Institution Admr.
| Correctional Institution Administrator (Warden).
| Correctional Institution Administrator (Warden).
Office of Justice Programs | Director of Administration.
| Deputy Director, National Institute of Justice.
| Director, Corrections Program Office.
| Comptroller.
| Budget Officer.
| Deputy Director, Office for Victims of Crime (Policy and International Programs).
| Director, Drug Courts Program Office.
| Assistant Director, Office of Administration.
| Principal Deputy Director, OVC.
Office of Juvenile Justice and Deliquency Prevention | Deputy Administrator, Office Discretionary Grants.
| Special Advisor.
National Institute of Justice | Special Advisor.
Bureau of Justice Statistics | Supervisory Statistician.
United States Marshals Service | Assistant Director for Human Resources.
| Assoc Director for Operational Support.
| Senior Management Advisor.
| Assistant Director for Prisoner Services.
| Assistant Director for Business Services.
| Assistant Director for Mgmt and Budget.
| Assistant Director for Executive Service.
| Assistant Director for Investigative Servs.
| Assistant Director for Judicial Security.
| Asst Director for Organizational Development.
| Assistant Director for Training.
| Assistant Director, Justice Prisoner and Alien Transportation System.
| Assistant Director, for Investigative Services.
Community Oriented Policing Services | Deputy Director, Office of Community Policing Development.
Department of Labor:
Office of the Deputy Secretary | Director, Office of Policy and Research.
Office of the Inspector General | Deputy Inspector General.
| Asst Inspector General for Investigations.
| Asst Inspector Gen for Audit.
| Deputy Assistant Inspector General for Audit.
| Asst Inspector Gen for Labor Racketeering.
| Asst Inspector Gen for Mgmt and Counsel.
| Asst Inspector Gen/Analysis Complaints/Eval.
| Assistant Inspector General for Analysis, Complaints and Evaluations.
| Assistant Inspector General for Communications, Inspections and Evaluations.
| Counsel to the Inspector General.
Bureau of International Labor Affairs | Associate Deputy Under Secretary.
Office of the Solicitor | Associate Solicitor for Labor-Management Laws.
| Associate Solicitor for Labor-Management Laws.
| Assoc Solicitor for Plan Benefits Security.
| Regional Solicitor—Chicago.
| Assoc Solicitor for Civil Rights.
| Assoc Solicitor for Occupational Safety and Hlt.
| Assoc Solicitor for Mine Safety and Health.
| Assoc Solicitor for Fair Labor Standards.
| Regional Solicitor—Atlanta.
| Assoc Solicitor for Employee Benefits.
| Regl Solicitor Boston.
| Regl Solicitor New York.
| Regional Solicitor Philadelphia.
| Regl Solicitor Dallas.
| Regl Solicitor Kansas City.
| Regl Solicitor San Francisco.
| Deputy Solicit or (Regional Operations).
| Assoc Sol for Spec Appel and Sup Court Lit.
| Dep Solicitor for Planning and Coordination.
| Associate Solicitor for Black Lung Benefits.
Office of Chief Financial Officer | Deputy Chief Financial Officer.
| Associate Deputy Chief Financial Officer.
Office of the Assistant Secretary for Administration and Management | Director of Human Resources.
| Director of Information Technology.
| Director Office of Budget.
| Director Business Operations Center.
| Director of Civil Rights.
| Director, Management Systems Development and Innovation.
| Director of Safety and Health.
| Director of Information Technology Operations.
| Deputy Assistant Secretary for Budget and Strategic and Performance Planning.
| Deputy Assistant Secretary for Operations.
| Director, Program Planning and Results Center.
Employment Standards Administration | Dir Ofc of Mgmt, Administration and Planning.
Office of Federal Contract Compliance Programs | Director Division of Programs Operations.
Wage and Hour Division | Dep Natl Ofc Program Administrator.
| Deputy Wage and Hour Administrator (Operations).
| Principal Deputy Wage and Hour Administrator.
Office of Workers Compensation Programs | Dir Federal Employees Compensation.
| Dir Coal Mine Workers Compensation.
Office of Labor-Management Standards | Deputy Director, Employment Standards Administration.
Pension and Welfare Benefits Administration | Dir of Regulations and Interpretations.
| Deputy Assistant Secretary for Program Operations.
| Director of Exemption Determinations.
| Senior Policy Advisor.
| Regional Director—Boston.
| Regional Director—Atlanta.
| Regional Director—Kansas City.
| Regional Director—San Francisco.
| Dir of Enforcement.
| Director of Health Plan Standards Compliance and Assistance.
| Director of Participant Assistance and Communications.
| Director of Information Management.
Bureau of Labor Statistics | Associate Commissioner for Field Operations.
| Associate Commissioner for Administration.
| Assoc Commissioner for Employment Projections.
| Assoc Commr for Prices and Living Conditions.
| Assoc Commr Productivity and Technology.
| Deputy Commissioner.
| Assoc Commissioner/Survey Methods Research.
| Assoc Comm for Employment and Unempl Statistics.
| Asst Commr for Indust Prices and Price Indexes.
| Director of Survey Processing.
| Dir of Technology and Computing Svcs.
| Asst Commissioner for Current Employ Analysis.
| Associate Comr for Technology and Survey Processing.
| Asst Comr for Compensation Levels and Trends.
| Asst Comr for Safety, H and W Conditions.
| Assoc Comr Compensation and Working Conditions.
| Asst Commr for International Prices.
| Asst Commr for Publications and Spec Studies.
| Asst Commr for Consumer Prices/Price Indexes.
| Asst Commr for Fedl/State Coop Stat Programs.
Employment and Training Administration | Admr, Ofc of Financial and Administrative Mgmt.
| Director, Office of Career Transition Assistance.
| Administrator, Office of National Programs.
| Administrator, Office of Workforce Investment.
| Administrator, Office of National Response.
| Administrator, Office of Performance Results.
Occupational Safety and Health Administration | Director, Directorate of Science, Technology and Medicine.
| Director, Safety Standards Programs.
| Director, Directorate of Cooperative and State Programs.
| Dir Health Standards Programs.
| Dir, Adm Progs.
| Director, Directorate of Standards and Guidance.
Mine Safety and Health Administration | Director of Administration and Management.
| Director of Technical Support.
| Director of Prog Evaluation and Info Resources.
Veterans Employment and Training Service | Director of Resource Management.
Office of Disability Employment Policy | Director, Office of Operations.
Merit Systems Protection Board:
Office of the Clerk of the Board | Clerk of the Board.
Office of Financial and Administrative Management | Director, Financial and Administrative Management.
Office of Policy and Evaluation | Director, Office of Policy and Evaluation.
Office of Information Resources Management | Director, Information Resources Management.
Office of Regional Operations | Director, Office of Regional Operations.
Atlanta Regional Office | Regional Director, Atlanta.
Central Region, Chicago Regional Office | Regional Director, Chicago.
Northeast Region, Philadelphia Regional Office | Regional Director, Philadelphia.
Western Region, San Francisco Regional Office | Regional Director, San Francisco.
Washington, DC Region, Washington Regional Office | Regional Director, Washington, D.C.
National Aeronautics and Space Administration:
| Senior Program Executive, Advanced Technology Program Management.
| Senior Systems Engineer.
Office of the Administrator | Associate Administrator for Education.
Office of the Chief Financial Officer/Comptroller | Deputy Chief Financial Officer.
| Director, Financial Management Division.
| Director, Resources Analysis Division.
| Associate Chief Financial Officer IFMP.
| Special Assistant.
| Director, Strategic Management and Planning.
Office of Equal Opportunity Programs | Director, Discrimination Complaints Division.
Office of Human Resources and Education | Director, Management System Division.
| Assistant Administrator for Human Resources and Education.
| Director, Education Division.
| Director, Personnel Division.
| Director, Management Systems Division.
| Director, Training and Development Division.
Office of Procurement | Associate Administrator for Procurement.
| Director, Program Operations Division.
| Director, Contract Management Division.
| Director Analysis Division.
Office of External Relations | Dep Assoc Admin for External Relations (Space Flight).
| Manager, International Technol Transfer Pol.
| Director, Space Flight Division.
| Director, Research Division.
| Director, Earth Science Division.
| Director, Space Science and Aeronautics Division.
| Manager, International Technology Transfer Policy.
Space Flight | Program Executive Officer for Human Space Flight.
Office of Management Systems and Facilities | Director, Facilities Engineering Division.
| Dir Environmental Management Division.
Information Resources Management | Director, Information Resources Mgmt Division.
Office of Small and Disadvantaged Business | Assoc Admr for S and D Business Utilization.
Office of Legislative Affairs | Dep Assoc Admin.
| Dep Assoc Admin for Programs.
| Director, Liaison Division.
Office of Space Flight | Deputy Chief.
| Director, Advanced Project Office.
| Deputy Associate Admin. for Business Management.
| Deputy Associate Admin. for Space Operations.
| Special Assistant to the Associate Administrator.
Institutions | Deputy Associate Administrator for Interagency Enterprise.
Space Flight Development | Deputy Associate Administrator for Space Development.
Johnson Space Center | Chief Financial Officer.
| Director of Human Resources.
| Dir of Tech Transfer and Commercialization.
| Chief Information Officer.
| Deputy Chief Information Officer.
| Associate Director (Technical).
| Assistant Director, Space Operations.
| Manager Advanced Communications Operations.
| Associate Director (Management).
| Assistant Director for University Research and Affairs.
| Manager EVA Project Office.
| Director, Public Affairs Office.
| Manager for International Operations.
| Chief Engineer.
| Associate Director (Space Development and Commerce).
Space Operations Office | Manager, Space Operation Mgmt Office.
| Manager, Space OPS Engineering Office.
| Director, Space Operations Office.
| Deputy Dir, Space Operations Office.
| Director Space Operations.
| Space Operations Commercialization Manager.
| NASA Representative to Headquarters, AF Space Command.
Space Station Program Office | Space Station Vehicle Manager.
| Director, Management Operations.
| Deputy Space Station Vehicle Manager.
| Manager International Partners Office.
| Tech Asst to the Mgr, Space Station Program.
| Dep Program Manager for Business Management.
| Deputy Program Mgr for Technical Development.
| Manager, Research Programs.
| Technical Assistant for External Reviews.
| Business Manager.
| Manager, Space Station Payloads Office.
| Space Station Program Manager.
| Deputy Manager, International Space Station Program.
| Manager, Avionics and Software Office.
| Manager, Program Integration Office.
| Manager, Mission Integration and Operations Office.
| Manager for Commercialization.
Space Shuttle Program Office | Mgr, Space Shuttle Vehicle Engineer Ofc.
| Manager, Shuttle Projects Office (MSFC).
| Mgr, Launch Integration (KSC).
| Mgr, Space Shuttle Business Office.
| Asst Mgr, Space Shuttle Prog Space Flight O/C.
| Asst Manager Space Shuttle Program.
| Manager for Space Shuttle Program Development.
| Manager, Space Shuttle Program Integration.
Mission Operations | Director, Mission Operations.
| Chief Flight Director Office.
| Deputy Director, Mission Operations.
| Asst Dir for Operations.
| Chief Engineer, Mission Operations Directorate.
| Chief Flight Director Office.
| Chief, Advanced Operations and Development Division.
Flight Crew Operations | Chief, Aircraft Operations Division.
| Deputy Director, Flight Crew Operations.
| Manager, Phase One Program Office.
| Asst Chief, Aircraft Operations Division.
| Chief Astronaut Office.
Engineering | Chief Structures and Mechanics Division.
| Chief, Crew and Thermal Systems Division.
| Deputy Director, Engineering.
| Chief, Automation, R and S Division.
| Director, Engineering.
| Chief Engineer Space Station Program.
| Chief Avionic Systems Division.
| Assistant to the Director, Engineering.
| Deputy Chief, Avionic Systems Division.
| Chief, Aeroscience and Flight Mechanics Div.
| Manager, Advanced Development Office.
| Deputy Mgr, Advanced Development Office.
| Asst Mgr, Advanced Development Office.
| Deputy Manager for Exploration.
| Chief Energy Systems Division.
| Chief, Manufacturing, Materials, and Process Tech Div.
| Deputy Director of Engineering for Flight.
| Assistant to the Director.
Space and Life Sciences | Chief, Medical Sciences Division.
| Assistant Director for Engineering.
| Assistant to the Director for Russian Progs.
| Chief, Flight Crew Support Division.
| Associate Director, Space and Life Sciences.
| Manager Science Payloads Management Office.
| Chief, Solar System Exploration Division.
| Deputy Director, Space and Life Sciences.
| Assistant Director for Flight Programs.
| Assistant Director for Space Medicine.
| Asst Director, Space and Life Sciences.
| Deputy Director, Astromaterials Research and Exploration Science.
| Associate Director, Technical.
Information Systems | Deputy Director Information Systems.
| Director, Information Systems.
| Deputy Director, Information Systems.
| Assistant to the Director.
Office of Procurement | Procurement Officer.
| Assistant Director, Business and Info Systems.
| Special Assistant to the Director.
| Manager Space Station Business Office.
| Asst Dir Business Management.
| Deputy Director, Business Management.
Center Operations | Dir Center Operations.
| Deputy Director, Center Operations.
Safety, Reliability and Quality Assurance | Dir, Safety, Reliability, and Quality Assurance.
| Deputy Director for Russian Projects.
| Deputy Director SRANDQA.
| Assistant Director for Space Flight Awareness.
White Sands Test Facility | Manager, NASA White Sands Test Facility.
Kennedy Space Center | Dir, Space Station Hardware Integration Ofc.
| Director, Safety Assurance.
| Deputy Director for Planning and Projects.
| Manager Launch Integration (KSC).
| Dep Mgr Elv and Payload Carriers Program Office.
| Director, John F. Kennedy Space Center.
| Associate Director, John F. Kennedy Space Center.
| Director, Workforce and Diversity Management.
| Chief Financial Officer.
| Executive Director, Joint Performance Management Office.
| Director, Procurement Office.
| Deputy Director of Safety, Health and Independent Assessment.
| Director, Space Station Hardware Integration Office.
| Director, External Relations and Business Development.
| Special Assistant to the Director.
Shuttle Processing | Director of Shuttle Processing.
| Deputy Director of Shuttle Processing.
Safety, Health and Independent Assessment | Director of Safety, Health and Independent Assessment.
| Assocaite Director for Agency Occupational Health Program.
| Assocaite Director for Safety and Mission Assurance.
| Assocaite Director for Systems Management.
| Assocaite Director for Management Systems.
Spaceport Engineering and Technology | Deputy Director of Spaceport Engineering and Technology.
| Assocaite Director for Advanced Space Transportation Support.
| Associate Director for Spaceport Technology Projects.
Spaceport Services | Director, Installation Operations.
| Deputy Dir, of Installation Mgmt and Operations.
| Director of Spaceport Services.
| Deputy Director of Spaceport Services and CIO.
| Associate Director of Spaceport Services and Chief Medical Officer.
ISS and Payload Processing | Director of ISS/Payload Processing.
| Deputy Director, ISS/Payload Processing.
Procurement | Director, Procurement.
External Relations and Business Development | Director, Biomedical Office.
| Deputy Director, External Relations & Business Development.
| Associate Director, External Relations & Business Development.
| Associate Director, External Relations & Business Development (Washington, DC).
| Associate Director, External Relations & Business Development and Senior Public Communications Officer.
ELV and Payload Carriers Program | Director of ELV & Payload Carriers Program.
| Deputy Director of ELV & Payload Carriers Program.
| Director, ELV Launch Services.
Marshall Space Flight Center | Chief Financial Officer.
| Director, Safety and Mission Assurance Office.
| Associate Director.
| Deputy Manager, Space Shuttle Projects Office.
| IFMP Administrative Systems Implementation Manager.
| Integrated Financial Management Program Competency Center Manager.
Science Directorate | Deputy for Management.
| Deputy Director, Science.
| Manager, Microgravity Science and Applications Department.
| Chief Operating Officer, National Space Science and Technology Center.
Engineering Directorate | Manager, Engineering Systems Department.
| Manager, Avionics Department.
| Dir Structures Dynamics Laboratory.
| Chief Engineer Space Shuttle Main Engine Proj.
| Assistant to the Director, Engineering.
| Deputy Director, Engineering.
| Deputy Manager, Materials, Processes and Manufacturing Dept.
| Deputy Manager, Structures, Mechanics and Thermal Department.
Avionics Department | Deputy Manager, Avionics Department.
Center Operations Directorate | Director, Information Systems Services Office.
| Director, Procurement Office.
| Dir Environmental Engineering and Mgnt Office.
| Director Center Operations.
| Deputy Director, Center Operations.
| Manager, Information Services Department.
Space Shuttle Projects | Manager, External Tank Project.
| Mgr Solid Rocket Booster Project.
| Manager Space Shuttle Main Engine Projects.
| Manager, Reusable Solid Rocket Motor Project.
| Chief Engineer Space Shuttle Main Engine Prog.
Global Hydrology Research Office | Manager, Materials, Processes, and Manufacturing Department.
| Manager Microgravity Research Program Office.
Flight Projects Directorate | Deputy Director, Flight Projects.
| Manager, Payload Operations and Integration Department.
| Chief Engineer.
| Manager, Ground Systems Department.
| Manager, Flight Systems Department.
Space Transportation Directorate | Director, Advanced Transportation Syst Office.
| Manager, Vehicles and Systems Development Department.
| Manager, Test and Evaluation Department.
| Manager, Second Generation RLV Program Office.
| Manager, Subsystem and Components Development Department.
| Deputy Director Space Transportation Directorate.
| Chief Engineer, Space Transportation.
| Manager, Propulsion Research Center.
Customer and Employee Relations Directorate | Director, Customer and Employee Relations.
| Deputy Dir, Customer and Employee Relations.
Stennis Space Center | Deputy Director, NASA Stennis Space Center.
| Director, Propulsion Test Directorate.
| Deputy Director, Propulsion Test Directorate.
| Chief Financial Officer.
| Special Assistant to the Director.
| Director, Center Operations and Support Directorate.
| Manager, Propulsion Test Program Office.
| Assistant to the Director.
| Director, Earth Science Applications Directorate.
Office of Public Affairs | Director of Program Operations.
Office of Safety and Mission Assurance | Dep Assoc Adm for Safety and Mission Quality.
| Dir, Enterprise Safety and Mission Assurance.
Safety and Risk Management | Director, Safety and Risk Management Division.
Office of Aerospace Technology | Director, Commercial Dev and Technol Transfer.
| Senior Engineer.
| Director, Research Support Division.
| Director, Goals Division.
| Deputy AA for Aerospace Technology (Space Trans.)
Resources and Management Systems | Director, Resources Management Office.
Ames Research Center | Chief Financial Officer.
| Deputy Director, Information Science and Technology.
| Deputy Director Ames Research Center.
| Assistant Director for Information Technology.
| Director, Office of Safety, Environment and Mission Assurance.
| Assistant to the Director.
| Chief, Computational Sciences Division.
| Associate Director for Astrobiology and Space Programs.
| Chief Counsel.
| Associate Director for Systems Management and Planning.
| Special Assistant for Software Integration.
Aerospace | Deputy Director Flight Projects Office.
| Chief, Space Technology Division.
| Chief, Aviation Systems Research Technology and Simulation.
| Chief, Army/NASA Rotorcraft Division.
| Deputy Director of Aerospace.
Aerophysics | Chief, NAS Systems Division.
Astrobiology and Space Research | Director of Astrobiology and Space Research.
| Chief, Life Sciences Division.
| Deputy Director of Astrobiology and Space Research.
Center Operations | Deputy Director, Center Operations.
Research and Development Services | Chief Systems Engineering Division.
| Chief, Wind Tunnel Operations Division.
| Director, Research and Development Services.
| Deputy Director, Research and Development Services.
Information Sciences and Technology | Chief, Human Factors Research and Technology Div.
Dryden Flight Research Center | Aerospace Engineers (CH Engineer).
| Director Research Facilities Directorate.
| Chief Financial Officer (Financial Manager).
| Director Flight OPS Directorate.
| Chief Information Officer.
| Director, Aerospace Proj Directorate.
| Dep, Director, Aerospace Projects.
| Associate Director for Planning.
Langley Research Center | Chief Atmospheric Sciences Division.
| Facility Group Director for the Aerospace Technology Enterprise.
| Dir Independent Prog Assess Office.
| Dir of Education Programs.
| Assistant Director for Planning.
| Special Assistant for Outreach.
| Manager, Hyper-X Phase One Program.
| Deputy Director Indep Progr Assessment Office.
| Director, Airborne Systems.
| Director.
| Deputy Director, Structures and Materials Competency.
Langley Research Center | Director, Space Access and Exploration Program Office.
| Director, Aviation Safety Program Office.
| Associate Director for Program Integration.
| Director, Earth and Space Science Program Office.
| Director, Aerodynamics, Aerothermodynamic and Aeropropulsion Facility Group.
| Deputy Director, Facilities and Test Techniques, AAAC.
| Deputy Director, Independent Program Assessment Office.
Aeronautics | Deputy Director, Airframe Systems Prog Office.
Space and Atmospheric Sciences | Deputy Dir, S and A Sciences Program Group.
| Dir, Aerospace Transportation Program Office.
| Chief, Space Systems and Concepts Division.
Research and Technology Competencies | Director.
| Chief Information and Electromagnetic Tech.
| Chf, Flight Dynamics and Controls Division.
| Deputy Dir, Research and Technology Group.
| Director, Research and Technology Group.
| Chief, Aero and Gas Dynamics Division.
| Chief, Materials Division.
Internal Operations | Chief, Aerospace Mechanical Systems Division.
| Chief, Experimental Testing Technology Div.
| Procurement Officer.
| Chief, Simulation and Research Aircraft Div.
High-Speed Research Project | Director for High-Speed Res Project Office.
| Chief Engineer, High-Speed Research.
Aerospace Vehicle Systems Technology Program Office | Deputy Director, Aerospace Trans Technol Office.
| Deputy Director, Aerospace Transportation, Tech Ofc.
| Dir, Aerospace Transport Technology Office.
Safety and Mission Assurance | Dir, Ofc of Safety, E and M Assurance.
Comptroller | Chief Financial Officer.
Glenn Research Center | Chief Financial Officer.
| Deputy Director for Operations.
| Assistant Deputy Director for Policy.
| Chief, Engineering Design and Analysis Division.
| Director, Systems Management Office.
| Chief, Space Transportation Office.
| Deputy Director of Aeronautics.
| Chief, Aeropropulsion Project Office.
Aeronautics | Deputy Director of Aeronautics.
| Chief, Ultra Efficient Engine Technology Office.
Research and Technology | Chief, Turbomachinery and Propulsion Syst Div.
| Chief, Materials Division.
| Chief, Structures and Acoustics Division.
| Chief, Power and On-Board Propulsion Techn Div.
Space | Chief, Microgravity Division.
| Deputy Director of Space.
| Chief, Power Systems Project Office.
Engineering and Technical Services | Chief, Computer Services Division.
| Director of Engineering and Technical Services.
| Deputy Dir of Engineering and Tech Services.
| Chief, Systems Engineering Division.
External Programs | Director, External Programs.
Mission Safety and Assurance | Dir, Ofc of Sfty, Environml and Mission Assur.
Office of Space Science | Director, Research Program Management.
| Technical Assistant to the Director, Office of Space Science.
| Science Program Director.
| Director, Administration and Resource Management Division.
| Senior Program Executive Space Science Program Management.
| Deputy Director Research Program Management Division.
| Deputy Director Flight Program Division.
| Senior Program Executive for Decadal Planning Team (Science).
Solar System Exploration | Science Program Director.
| Director, Mission and Payload Development Div.
| Dir, Advanced Technol and Mission Studies Div.
Space Physics | Science Program Dir, Sun-Earth Connection.
| Sr Sci Prog Executive for Review and Evaluation.
Technology and Information Systems | Director, HQ Info, Technology and Comm Divi.
| SR Sci Program Executive for Information Syst.
Astrophysics | Science Program Director, Galaxy and Universe
| Asst Assoc Admr for Education and Outreach.
| Science Prog Dir, Origins and Planetary Systems.
Office of Life and Microgravity Sciences and Applications | Chief, Advanced Plans Office (Staff).
| Manager, Life Sciences and Technology.
| Dir Life and Biomedical Science and Applics Div.
| Dir, Microgravity Sciences and Applications Div.
| Dir, Space Processing Division.
| Director, Space Utilization and Product Development Division.
Office of Inspector General | Assistant Inspector General for Audits.
| Assist Inspector General for Investigation.
| Assistant Inspector General for Inspections, Administrative Investigations, and Assessments.
| Counsel to the Inspector General.
| Assistant Inspector General, Network and Advanced Technology.
| Protections Office.
| Director, Technical Services Office.
| Director, Computer and Technology Crimes Office.
Office of Earth Science | Senior Engineer, Program Integration.
| Director, Business Division.
| Manager, Earth Sciences Department.
| Deputy Associate Administrator Advanced Planning.
| Deputy Associate Administrator for Mission to Planet Earth.
| Assistant Associate Administrator for Office of Earth Science.
Goddard Space Flight Center | Dir of University Programs.
| Chief, NASA SOMO Mission Services Offices.
| Associate Director/Program Manager for Explorers.
| Deputy Associate Director for EOS-G Development.
| Associate Director/Program Manager for the Hubble Space Telescope (HST).
| Deputy Associate Director for Hubble Space Telescope (HST).
| Development.
| Deputy Director For Systems Management.
| Deputy Director of Applied Engineering and Technology For Planning and Development.
Human Resources | Director of Human Resources.
Comptroller | Chief Financial Officer/Comptroller.
Management Operations | Deputy Director of Management Operations.
| Associate Director For Acquisition.
Flight Assurance | Director of Flight Assurance.
| Deputy Director of Flight Assurance.
Flight Projects | Deputy Director of Flight Projects.
| Project Mgr, Opns and Ground Systems.
| Project Mgr, Earth Observing Syst Am Project.
| Geostationary Opl Environmental Satellite Pm.
| Dir of Flight Projects.
| Tracking and Data Relay Satellite Tdrs Proj Mgr.
| Assoc Dir For Earth Sci Data and Info System.
| Proj. Mgr, Eos-Pm Proj Flight Proj Direct.
| Project Mgr, Earth Sci D and I Syst Project.
| Deputy Director Flight Projects for Plan and Bus Mgnt.
| Project Manager, Poes.
| Associate Director of Flight Projects for Eos.
| Associate Director/Program Manager for the Earth Explorers Program Office.
| Associate Director/Program Manager for the Sun-Earth Connection Program Office.
Applied Engineering and Technology Directorate | Deputy Asso Dir of Flight Proj Cor Net and Miss Serv Proj.
| Asso Dir of Flight Proj for Network and Miss Serv Proj.
| Deputy Director of Applied Eng and Technology.
| Chief Information Systems Center.
| Chief, Electrical Systems Center.
| Chief, Instrument Systems and Technology Center.
| Chief, Mission Engineering and Systems Analysis Division.
Systems, Technology and Advanced Concepts | Deputy Director of Systems, Tech and Advanced Concepts.
Space Sciences | Chief, Lab for Astronomy and Solar Physics.
| Chief, Lab for Extraterrestrial Physics.
| Director of Space Sciences.
| Chief, Goddard Institute for Space Studies.
| Chief Laboratory for High Energy Astrophysics.
| Deputy Director of Space Sciences.
Engineering | Chief Engineer
| Associate Director of Flight Projects.
| Chief, Mechanical System Center.
| Chief, Systems Engineering Division.
| Chief Technology Commercialization Office.
Earth Sciences | Chief Labr for Hydrospheric Processes.
| Chief, Space Data and Computing Division.
| Asst Dir of Earth Sci for Projects Eng.
| Chf, Laboratory for Atmospheres.
| Deputy Director for Earth Sciences.
| Director for Earth Sciences.
| Chief Laboratory for Terrestrial Physics.
| Deputy Assoc Dir For Earth Sci D and I Syst.
| Asst Dir of Mission to P/E Prog for Globe.
| Globe Program Manager.
Office of Policy and Plans | Director of Special Studies.
National Archives and Records Administration:
Archivist of United States Deputy Archivist of the United States/Chief of Staff | Deputy Archivist of the United States.
Office of Administrative Services | Assistant Archivist for Administrative Serv.
Office of the Federal Register | Director of the Federal Register.
Office of Regional Records Services | Asst Archivist for Regional Records Services.
Office of Human Resources and Information Services | Asst Archivist for Human Resources and Info Ser.
Office of Records Services—Washington, DC | Asst Archivist for Records Services.
Office of Presidential Libraries | Asst Archivist for Presidential Libraries.
National Capital Planning Commission Staff | Executive Director.
| Assistant Executive Director (Management)
| Deputy Executive Director.
| Deputy Executive Director.
| Chief Operating Officer.
| General Counsel.
| Deputy Executive Director.
National Endowment for the Arts:
National Endowment for the Arts | Deputy Chairman for Guidelines, Panel and Council Operations.
| Deputy Chairman for Management and Budget.
| Chief Information Officer.
National Endowment for the Humanities:
National Endowment for the Humanities | Assistant Chairman for Planning and Operations.
National Labor Relations Board:
Office of the Board Members | Executive Secy
| Deputy Executive Secretary.
| Inspector General.
Division of Enforcement Litigation | Deputy Associate Gen. Counsel Appellate Court Br.
| Director, Office of Appeals.
Division of Advice | Associate Gen Counsel, Div of Advice.
| Deputy Assoc Gen Counsel.
Division of Administration | Director of Administration.
| Deputy Director of Administration
| Chief Information Technology Branch
Division of Operations Management | Assoc General Counsel, Div of Operation-Mgmt.
| Dep Asso Gen Counsel, Div of Operations-Mgmt.
| Assistant General Counsel.
| Assistant General Counsel.
| Assistant General Counsel.
| Assistant General Counsel.
| Assistant General Counsel.
Division of Operations Management | Asst to the General Counsel.
| Asst to the General Counsel.
Regional Offices | Regl Dir Reg 1 Boston.
| Regional Director, Reg. 2, New York.
| Regional Director, Reg. 3, Buffalo.
| Regl Dir Reg 4 Philadelphia.
| Regional Director, Reg. 5, Baltimore.
| Regional Director, Reg. 6, Pittsburgh.
| Regl Dir, Region 7, Detroit Mich.
| Regional Director, Reg. 8, Cleveland.
| Regional Director, Reg. 9, Cincinnati.
| Regl Dir, Reg 10 Atlanta.
| Regional Director, Reg. 11, Winston Salem.
| Regional Director, Reg. 12, Tampa.
| Regional Director, Reg. 13, Chicago.
| Regl Dir, Reg 14 St Louis.
| Regl Dir, Reg 15 New Orleans.
| Regl Dir, Reg 16 Ft Worth.
| Regl Dir, Reg 17 Kansas City.
| Regl Dir, Reg 18 Minneapolis.
| Regl Dir, Reg 19 Seattle.
| Regional Dir, Reg. 20, San Francisco.
| Regional Director, Reg. 21, Los Angeles.
| Regional Director, Reg. 22 Newark.
| Regional Director, Reg. 24 Hato Rey Puerto Rico.
| Regl Dir, Reg 25, Indianapolis.
| Regl Dir, Reg 26 Memphis.
| Regl Dir, Reg 27 Denver.
| Regional Director, Reg. 28 Phoenix.
| Regl Dir, Reg 29 Brooklyn.
| Regl Dir, Reg 30 Milwaukee.
| Regional Director, Reg. 32, Oakland.
| Regional Director, Reg. 33 Peoria, ILL.
| Regl Dir, Reg 31 Los Angeles.
| Regional Director, Reg. 34 Hartford.
National Science Foundation:
Office of the Director | Senior Advisor.
| Senior Staff Associate.
| Senior Advisor.
| Senior Advisor.
Office of Integrative Activities | Senior Scientist.
| Senior Advisor.
Office of the General Counsel | Deputy General Counsel.
Office of Polar Programs | Head Polar Research Support Section.
Office of the Inspector General | Inspector General.
| Deputy Inspector General.
| Associate Inspector General for Audit.
| Associate Inspector for Investigations.
National Science Board | Senior Policy Officer.
Division of Atmospheric Science | Head, Upper Atmosphere Section.
Division of Earth Sciences | Head, Special Projects Section.
| Head, Research Grants Section.
Division of Ocean Sciences | Head, Oceans Section.
| Senior Scientist/Section Head.
Directorate for Engineering | Senior Advisor.
Division of Engineering Education and Centers | Deputy Division Director (Education).
| Senior Staff Associate.
| Senior Engineering Advisor.
Division of Design, Manufacture and Industrial | Senior Advisor, Technology Integration
Innovation | Senior Advisor.
Division of Civil and Mechanical Systems | Senior Advisor.
Directorate for Biological Sciences | Deputy Assistant Director.
| Executive Officer.
Division of Environmental Biology | Deputy Division Director.
Division of Integrative Biology and Neurosciences | Deputy Division Director.
Directorate for Mathematical and Physical Sciences | Executive officer.
| Senior Science Associate.
| Senior Science Advisor.
Division of Physics | Executive Officer.
Division of Mathematical Sciences | Executive Officer.
Division of Materials Research | Executive Officer.
Directorate for Education and Human Resources | Deputy Assistant Director.
| Deputy Assistant Director for Integrative Activities.
Division of Research, Evaluation and Communication | Senior Advisor for Research.
Directorate for Social, Behavioral and Economic Sciences | Senior Advisor.
Division of International Programs | Deputy Division Director.
| Senior Staff Associate.
| Senior Advisor.
| Senior Staff Associate.
Directorate for Computer and Information Science and Engineering | Executive Officer, Deputy Assistant Director.
Office of Budget, Finance and Award Management | Director, BFA and CFO.
| Senior Advisor.
| Deputy Director—Management, Operations and Policy.
| Deputy Director-Planning, Coordination and Analysis.
| Senior Advisor.
Budget Division | Division Director.
Division of Financial Management | Division Director and Deputy CFO.
Division Grants and Agreements | Division Director.
Division of Contracts, Policy and Oversight | Division Director.
Office of Information and Resource Management | Deputy Director, OIRM and Deputy CIO.
Division of Information Systems | Deputy Director, Div of Information Systems.
Division of Human Resource Management | Division Director.
| Deputy Division Director.
Division of Administrative Services | Division Director.
| Deputy Division Director.
National Transportation Safety Board:
Office of the Managing Director | Managing Director.
| Assoc Managing Dir Safety and Development.
| Assoc Managing Director for Quality Assurance.
Office of Aviation Safety | Director Ofc of Aviation Safety.
| Deputy Director. Tech and Inv Operations
Office of Research and Engineering | Dir Ofc of Research and Engineering.
| Deputy Dir Ofc of Research and Engineering.
Office of Chief Financial Officer | Chief Financial Officer.
Office of Safety Recommendations and Accomplishments | Dir Ofc of Safety Recommendations and Accomplis.
Office of Railroad, Pipeline and Hazardous Materials Investigations | Director, Office of Railroad, Pipeline and Hazardous Materials Investigation.
National Transportation Safety Board Academy | Director, NTSB Academy.
| President and Academic Dean.
Nuclear Regulatory Commission:
Atomic Safety and Licensing Brd Panel | Chief Administrative Judge.
| Deputy Chief Administrative Judge (Executive).
Office of the Chief Information Officer | Deputy Director/Lss Admr, Ofc of Info Res Mgmt.
| Director, Applications Development Division.
| Director, Information, Records, and Document Management Division.
| Director, Planning and Resource Mgmt Division.
| Director, Web Publishing and Distribution Services Division.
Office of the Chief Financial Officer | Director, Division of Planning, Budget and Analysis.
| Did not find title of this position.
| Special Assistant for Internal Controls.
| Deputy Chief Financial Officer.
Officer of the Chief Financial Officer | Director, Starfire Project.
Office of the Inspector General | Assistant Inspector General for Audits.
| Deputy Inspector General.
| Assistant Inspector General for Investigations.
Associate General Counsel for Licensing and Regulation | Deputy Assistant GC/Legislative Counsel.
Associate General Counsel for Hearings, Enforcement and Administration | Deputy Assistant General Counsel for Administration.
Office of Commission Appellate Adjudication | Director, Office of Commission Appellate Adjudication.
| Director, Office of Commission Appellate Adjudication.
Office of Administration | Director, Division of Contracts.
| Director, Division of Administrative Services.
| Director, Division of Facilities and Security.
Office of Nuclear Security and Incident Response | Director, Division of Incident Response Operations.
| Deputy Director, Division of Incident Response Operations.
| Deputy Director, Office of Nuclear Security and Incident Response.
| Director, Division of Nuclear Security.
| Deputy Director, Division of Nuclear Security.
Office of Investigations | Deputy Director, Office of Investigations.
Office of Small Business and Civil Rights | Director, Office of Small Business and Civil Rights.
Office of Nuclear Reactor Regulation | Director, Program Management, Policy Development and Planning Staff.
| Director, Work Planning Center.
Division of Licensing Project Management | Project Director, Project Directorate I.
| Project Director, Project Directorate II.
| Project Director, Project Directorate III.
| Project Director, Project Directorate IV.
Associate Director for Inspection and Programs | Director, New Reactor Licensing Project Office.
Division of Inspection Program Management | Chief, Equipment and Human Performance Branch.
| Chief, Reactor Safeguards, Radiation Safety and Emergency Preparedness.
Division of Inspection Program management | Chief, Inspection Program Branch.
Division of Regulatory Improvement Programs | Chief, License Renewal and Standardization Branch.
| Chief, Events Assess, Generic Comm and Now—PWR Reactors Branch.
| Chief, Generic Issues, Envir, Financial and Rulemaking Branch.
| Chief, Technical Specifications Branch.
| Program Director, Operating Reactors Improvement Program.
| Program Director, License Renewal and Environmental Impacts Program.
| Program Director, Policy and Rulemaking Program.
Division of Engineering | Chief, Materials and Chemical Engineering Branch.
| Chief, Mechanical and Civil Engineering Branch.
| Chief, Electrical and Instrumentation and Controls Branch.
Division of System Safety and Analysis | Chf, Plant Systems Branch.
| Chf, Reactor Systems Branch.
| Chief Probablistic Safety Assessment Branch.
| Chief Containment Sys and Severe Accident Branch.
Division of Fuel Cycle Safety and Safeguards | Chief, Fuel Cycle Licensing Branch.
| Chief Special Projects.
| Chief, Safety and Safeguards Support Branch/
Division of Industrial and Medical Nuclear Safety | Chief, Operations Branch.
| Chief, Medical, Acad and Com Use Sfty Branch.
| Chief, Rulemaking and Guidance Branch.
| Chief, Materials Safety and Inspection Branch.
Division of Waste Management | Chief, Engineering and Geosciences Branch.
| Chief, Decommissioning Branch.
| Chirf, High—Level Waste Branch.
| Chief, Environmental and Performance Assessment Branch.
Spent Fule Project Office | Deputy Director, Licensing and Inspection Directorate.
| Deputy Director, Technical Review Directorate
Ofc of Nuc Regulatory Research | Dir, Program Mgmt, Policy Development and Analysis Staff.
Division of Engineering technology | Chief, Generic Safety Issues Branch.
| Chief, Elect, M and M Engineer Branch.
Division of Engineering Technology | Chief, Structural and Geological Eng Branch.
| Chief, Materials Engineering Branch.
| Chief, Engineering Research Applications Branch.
Division of Systems Analysis and Regulatory Effectiveness | Chief, Regulatory Effectiveness and Human Factors Branch.
| Chief, Safety Margins and Systems Analysis Branch.
| Chief, Radiation Protection, Environmental Risk and Waste Management Branch.
| Deputy Director, Division of Systems Analysis and Regulatory Effectiveness.
Division of Risk Analysis and Application | Chief, Operating Experience Risk Analysis Branch.
| Chf, Probabilistic Risk Analysis Branch.
Region I | Deputy Regional Administrator.
| Dir, Div of Nuclear Materials Safety.
| Deputy Director, Division of Reactor Safety.
| Director Division of Reactor Safety.
| Director, Division of Reactor Projects.
| Deputy Director, Division of Reactor Projects.
| Deputy Director, Div of Nuclear Materials Safety.
Region II | Deputy Regional Administrator Region II.
| Dir, Div of Nuclear Materials Safety.
| Deputy Director, Division of Reactor Projects.
| Director, Division of Reactor Projects.
| Director, Division of Reactor Safety.
| Deputy Director, Div of Reactor Safety.
Region III | Director, Division of Reactor Safety.
| Director, Division of Reactor Projects.
| Dep Regional Administrator Region III.
| Dir, Div of Nuclear Materials Safety.
| Deputy Director, Division of Nuclear Materials Safety.
| Deputy Director, Division of Projects.
| Deputy Director, Division of Reactor Safety.
Region IV | Deputy Regional Administrator Region IV.
| Deputy Director, Div of Reactor Projects.
| Director Div of Reactor Projects.
| Dir, Div of Nuclear Materials Safety.
| Dir, Division of Reactor Safety.
| Deputy Director, Division of Reactor Safety.
Office of Government Ethics:
Office of Government Ethics | Deputy Director.
| Deputy Director, for Government R and S Proejcts.
| Senior Assoc Director for Agency Programs.
Office of Management and Budget:
Office of the Director | Chf—Reports Mgmt Branch.
| Deputy Associate Dir for Economic Policy.
| Senior Advisor to the Deputy Director for Management.
| Deputy Associate Director for Legislative Affairs.
| Deputy Assistant Director for Administration.
Legislative Reference Division | Asst Dir Legislative Reference.
| Chief, Economics, Science and Govt. Branch.
| Chief, Resources-Defense-International Branch.
| Chief, Labor, Welfare, Personnel Branch.
| Associate General Counsel for Budget.
Office of Federal Procurement Policy | Associate Administrator for Procurement Law and Legislation.
| Associate Administrator for Acquisition Implementation.
| Associate Administrator (Acquisition Policy).
Office of Information and Regulatory Affairs | Chief, Information Policy and Technology Branch.
| Senior Advisor.
| Chief Statistical Policy Branch.
| Counselor to the Deputy Director for Management.
| Senior Advisor.
| Senior Advisor.
| Chief, Natural Resources, Energy and Agriculture Branch.
| Chief, Health, Transportation and General Government.
Office of Federal Financial Management | Chief, Financial Standards, Reporting and Management Integrity Branch.
| Deputy Controller.
| Chief Federal Financial Systems Branch.
| Senior Advisor to the Director.
Budget Review Division | Deputy Assistant Director for Budget Review and Concepts.
| Dep Chief Budget Analysis Branch.
| Chief Budget Analysis Branch.
| Asst Dir for Budget Review.
| Deputy Assistant Director for Budget Analysis and Systems.
| Chief, Budget Concepts Branch.
| Chief, Budget Systems Branch.
| Chief, Budget Review Branch.
International Affairs Division | Chief, State-USIA Branch.
| Chief, Economic Affairs Branch.
| Dep Assoc Dir for Internatl Affairs.
National Security Division | Chief, Command, Ctrl, Comms, and Intellig Branch.
| Chief, Force Structure and Investment Branch.
| Chief Veteran Affairs Branch.
| Dep Assoc Dir for National Security.
| Chief Operations Sup Branch.
Associate Director for Education, Income Maintenance and Labor | Chief, Labor Branch.
| Chief, Education Branch.
| Dep Assoc Dir for Ed, Income Maint and Labor.
| Chf, Income Maintenance Branch.
| Chief, Personnel, Portal, Exop Branch.
| Senior Advisor.
Transportation, Commerce, Justice and Services Division | D/A for Transp Commerce, Justice and Services.
| Chief Commerce Branch.
| Chief Transportation Branch.
| Chief, Justice/GSA Branch.
Housing, Treasury and Finance Division | Deputy Assoc Dir for Housing Treasury Finance.
| Chief, Treasury Branch.
| Senior Advisor for Cash and Credit Mgmt.
| Chief, Financial Institutions Branch.
| Chief, Housing Branch.
Associate Director for Natural Resources, Energy, and Science | Senior Advisor.
Natural Resources Division | Deputy Associate Director for Natural Resources.
| Chief, Agricultural Branch.
| Chief, Environment Branch.
| Chief Interior Branch.
Energy and Science Division | Chief, Water and Power Branch.
| Chief Science and Space Programs Branch.
| Chief, Energy Branch.
| Deputy Associate Director for Energy and Science Division.
Health Division | Deputy Associate Director for Health.
| Chief Health and Financing Branch.
| Chief, Health and Human Services Branch.
| Chief, Public Health Branch.
Office of Personnel Management:
Office of the Director | Associate Director for Management and Chief Financial Officer.
Office of the Chief Financial Officer | Chief Financial Officer.
| Deputy Chief Financial Officer.
Office of the Inspector General | Deputy Inspector General.
| Asst Inspector General for Audits.
| Assistant Inspector Gen for Investigations.
| Deputy AIG for Audits.
Office of Workforce Relations | Director, Office of Workforce Relations.
| Dir Office of Labor and Employee Relations.
| Director for Human Resources Development.
Investigations Service | Assistant Director for Operations.
Office of the Chief Information Officer | Chief Information Officer.
Office of Contracting and Administrative Services | Director of Contracting and Administrative Serv.
Office of Merit Systems Oversight and Effectiveness | Assistant Director for Merit Systems Oversight.
Retirement and Insurance Service | Asst Dir for Retirement Programs.
| Director, Office of Actuaries.
Office of Special Counsel:
Headquarters, Office of Special Counsel | Assoc Special Counsel (Prosecution).
| Assoc Spec Counsel (Investigation).
| Associate Spec Counsel for Investigation and Prosecution Division III.
| Assoc Special Counsel for Complaints and Disclosure Analysis.
| Director for Management.
| Assoc Special Counsel Planning and Oversight.
| Did Not Find Title for This Position.
Railroad Retirement Board:
Board Staff | Chief of Technology Service.
| Director of Hearings and Appeals.
| Chief Actuary.
| Director of Field Service.
| Director of Administration.
| Deputy General Counsel.
| Asst Inspector General for Investigations.
| Chief Financial Officer.
| Assistant Inspector General for Audit.
| Director of Taxation.
| General Counsel.
| Director of Programs.
| Chief Information Officer.
| Dir of Operations.
| Dir of Policy and Systems.
| Director of Fiscal Operations.
Securities and Exchange Commission:
Office of the Executive Director | Associate Executive Director (Finance).
| Associate Executive Director (Administration).
Division of Corporation Finance | Associate Director (Operations).
| Associate Director (Legal).
Office of Compliance Inspections and Examinations | Senior Adviser.
Selective Service System:
Office of the Director | Director for Operations.
Small Business Administration:
Office of the Inspector General | Asst Inspector General for Auditing.
| Asst Inspector General for Investigations.
| Counsel to the Inspector General.
| Deputy Inspector General.
| Assistant Inspector Gen/Inspection and Eval.
| Asst Inspector General for Magnt Legal Cousl.
| Assistant Inspector General for Inspections and Evaluation.
Office of the General Counsel | Associate General Counsel for General Law.
| Assoc Gen Counsel Litigation.
| Associate General Counsel for Procurement Law.
Office of Field Operations | District Director.
| District Director.
| District Director.
| District Director.
| District Director.
| District Director.
| District Director.
| District Director.
Office of Equal Employment Opportunity and Civil Rights Compliance | Asst Admr for Equal Employment Opportunity and Civil Rights Compliance.
Office of Hearings and Appeals | Asst Administrator for Hearings and Appeals.
Office of the Chief Financial Officer | Deputy Chief Financial Officer.
| Deputy Chief Financial Officer.
| Chief Financial Officer.
Office of Capital Access | Deputy to the Assoc Dep Administrator for Capital Access.
Office of Financial Assistance | Assoc Administrator for Financial Assist.
| Dep Assoc Admr for Financial Assistance.
| Asst Admr for Portfolio Management.
Office of Surety Guarantees | Assoc Administrator for Surety Guarantees.
Office of Entrepreneurial Development | Deputy to the ADA for Entrepreneurial Dev.
Office of the Chief Information Officer | Chief Information Officer.
Office of Human Resources | Chief Human Capital Officer.
Office of Government Contracting and Business Development | Associate Administrator for Business Development.
Office of Business Development | Associate Administrator for Business Development.
Office of Policy, Planning and Liaison | Associate Administrator for Procurement Policy and Liaison.
Social Security Administration:
Office of the Chief Information Officer | Dir Information Technology System Review Stf.
Office of the Inspector General | Deputy Inspector General.
| Counsel to the Inspector General.
Office of Investigations | Asst Inspector General for Investigations.
| Dep Asst Inspector General for Investigations.
Office of Audits | Asst Inspector Gen for Audits.
| Dep Asst Inspector General for Audits.
Office of Executive Operations | Assistant Inspector General for Executive Operations.
Office of Disability Determinations | Associate Commissioner for Disability Determinations
| Deputy Associate Commissioner for Disability Determinations
| Dep Asst Inspector General for Audits.
Office of Hearings and Appeals | Assoc Comm for Hearing and Appeals.
| Deputy Assoc Comr for Hearings and Appeals
| Executive Director, Ofc of Appellate Operations.
Office of Actuary | Chief Actuary.
| Deputy Chief Actuary (Long-range).
| Deputy Chief Actuary (Short-Range).
Office of Civil Rights and Equal Opportunity | Deputy Associate Commissioner for Civil Rights and Equal Opportunity.
Office of Labor-Management and Employee Relations | Associate Commissioner for Labor-Management and Employee Relations.
Office of Finance, Assessment and Management | Senior Financial Executive.
Office of Financial Policy and Operations | Assoc Comr, Office of Fin Policy and Operations.
| Dep Assoc Comm Financial Policy and Operations.
Office of Quality Assurance and Performance Assessment | Assoc Commr for Quality Assurance and Performance Assessment.
| Dep Assoc Commr For Quality A and P Assessment.
Office of Acquisition and Grants | Assoc Commissioner for Acquisition and Grants.
Office of Telecommunications and Systems Operations | Assoc Comm for Telecommunications and Sys Oper.
| Deputy Associate Commissioner for Tandso.
| Dep Assoc Commr for T and S Ops (Telecomm).
Office of the General Counsel | Executive Director for Public Disclosure.
Office of General Law | Associate General Counsel for General Law.
Department of State:
Office of the Inspector General | Assistant Inspector General for Audits.
| Asst Inspector General for Investigations.
| Counsel to the Inspector General.
| Dep Asst Inspector General for Audits.
| Dep Asst Inspector Gen for Inspections.
| Deputy Inspector General.
| Asst Inspector Gen for Security Oversight.
| Senior Inspector—Thematic Review.
| Assistant Inspector General for Audits.
Bureau of Intelligence and Research | Executive Director.
Bureau of International Organizational Affairs | Director, Office of International Conferences.
Office of Under Secy for Management | Principal Deputy Assistant Secretary.
Bureau of Administration | Director, Office of Acquisitions.
Bureau of Personnel | Human Resources Officer.
| SES Long Term Training.
Bureau of Arms Control | Office Director.
| Office Director.
| Office Director.
| Office Director.
Bureau of Arms, Control | Deputy Assistant Secretary.
| Director, Office of Strategic Negotiations and Implementation.
Bureau of Nonproliferation | Office Director.
Department of Transportation:
Assistant Secretary for Budget and Programs | Deputy Chief Financial Officer.
Assistant Secretary for Administration | Asst Secy for Administration.
Office of the Senior Procurement Executive | Senior Procurement Executive.
Office of Inspector General | Deputy Inspector General.
| Assistant Inspector General for Legal, Legislative and External Affairs.
Principal Assistant Inspector General for Auditing and Evaluation | Asst Inspector General for Audit.
| Dep Asst Inspector General for Auditing.
Assistant Inspector General for Financial and Information Technology Audits | Assistant Inspector General for Financial and Information Technology Audits.
Assistant Inspector General for Aviation Audits | Asst Inspector General for Aviation Audits.
Assistant Inspector General for Investigations | Asst Inspector General for Investigations.
| Dep Asst Inspector General for Investigations.
Assistant Inspector General for Highway Infrastructure and Safety Programs | Assistant Inspector General for Highway Infrastructure and Safety Programs.
Assistant Inspector General for Transit, Rail Safety and Maritime Programs | Assistant Inspector General for Transit, Rail Safety and Maritime Programs.
Assistant Inspector General for Competition and Economic Analysis | Assistant Inspector General for Competition and Economic Analysis.
Associate Administrator for Safety | Assoc Admr for Safety.
Office of Safety Assurance and Compliance | Director, Office of Safety Assurance and Compliance.
Associate Administrator for Pipeline Safety | Assoc Admr for Pipeline Safety.
Associate Administrator for Ship Analysis and Cargo Preference | Assoc. Admr for Ship Analysis and Cargo Preference.
Associate Administrator for Shipbuilding | Director, Office of Shipbuilding and Marine Technology.
Administrator | Executive Director.
Office of Real Estate Service. | Dir Ofc of Real Estate Services.
Safety | Associate Administrator for Safety.
Office of Budget and Finance | Dir Ofc of Budget and Finance.
Office of Acquisition Management | Director, Office of Acquisition Management.
Office of Safety Research and Development | Director, Office of Safety R and D.
Administrator | Assistant Administrator/Chief Safety Officer.
Office of Bus and Truck Standards and Operations | Director, Office of Bus and Truck Standards and Operations.
Office of Enforcement and Compliance | Director, Office of Compliance.
Associate Administrator for Enforcement | Associate Administrator for Enforcement.
| Director, Office of Defects Investigation
| Director, Office of Vehicle Safety Compliance.
Associate Administrator for Safety Assurance | Associate Administrator for Safety Assurance.
Office of Defects Investigation | Dir—Ofc of Defects Investigation.
Office of Vehicle Safety Compliance | Dir—Ofc of Vehicle Safety Compliance.
Chief of Staff | Director of Finance and Procurement.
Deepwater Program Executive Office | Deputy Program Executive Officer.
Office of the Assistant Commandant for Acquisition | Deputy Assistant Commandant for Acquisition.
Proceedings | Deputy Director—Legal Analysis.
Economic Environmental Analysis and Administration | Director of Economics, Environmental A and A.
Office of the Administrator | Senior Advisor.
Department of the Treasury:
Under Secretary for Domestic Finance | Director, Office of Procurement.
Fiscal Assistant Secretary | Fiscal Assistant Secretary.
| Deputy Assistant Secretary for Fiscal Operations and Policy.
| Deputy Assistant Secretary (Accounting Policy).
Financial Management Service | Director, Regl Fin Ctr (San Francisco).
| Director, Regl Fin Ctr (Austin).
| Director, Platform Services Directorate.
| Assistant Commissioner, Governmentwide Accounting.
| Director, Kansas City Financial Center.
| Commr of Financial Management Service.
| Asst Commissioner, Information Resources.
| Assistant Commissioner, Federal Finance.
| Director Operations Group.
| Dep Com Financial Management Service.
| Director Cash Management Directorate.
| Director, Birmingham Debt Management Operations Center.
| Assistant Commissionrt, Regional Operations.
| Asst Comr, Management (Chief Fin Ofcr).
| Director, Systems Management Directorate.
| Assistant Commissioner (Agency Services).
| Assistant Commissioner, Financial Operations.
| Deputy Director, Operations Directorate.
| Director, Asset Management Directorate.
| Assistant Commissioner Debt Management Ser.
Bureau of the Public Debt | Commissioner.
| Dep Commr of the Public Debt.
| Asst Commr (Financing).
| Executive Director (Administrative Resource Center).
| Executive Director.
| Assistant Commissioner, Office of Securities Operations.
| Assistant Commissioner, Office of Investor Services.
| Assistant Commissioner (Office of Information Technology).
| Executive Director, Marketing.
| Asst Commissioner (Public Debt Accounting).
Assistant Secretary (Enforcement) | Deputy Director, Financial Crimes Enforcement Network.
| Director Fincen.
| Executive Assistant Director, Fincen.
| Dir Exe Ofc for Asset Forfeiture.
Bureau of Alcohol, Tobacco and Firearms | Special Agent in Charge (NY Field Division).
| Spec Agen in Charge (Washington Field Div).
| Assistant Director (Inspection).
| Deputy Assistant Director (Liaison and Public Information).
| Division Director/Special Agent in Charge.
| Division Director/Special Agent in Charge.
| Division Director/SAC, Atlanta.
| Dep Assoc Dir Reg Enforcement Field Operation.
| Deputy Asst Director (Inspection).
| Division Director/Special Agent in Charge.
| Deputy Asst Dir (CE Field Operations)—East.
| Deputy Assistant Director (CE Field Operations)—Central.
| Asst Dir (Science and Technology).
| Asst Dir (Field Operations).
| Associate Chief Counsel (Admin and Ethics).
| Deputy Assistant Director (CE Field Operations)—West.
| Deputy Asst Dir (Science and Technology).
| Director Laboratory Services.
| Deputy Director.
| Division Director—Special Agent in Charge—Chicago.
| Asst Dir (Alcohol and Tobacco).
| Deputy Assistant Director (Recruitment/Hiring).
| Deputy Asst Director (Alcohol and Tobacco).
| Deputy Assistant Director (Firearms Explosives Arson).
| Assistant Director (Firearms, Explosives, and Arson).
| Asst Dir (Liaison and Public Information).
| Chair, Professional Review Board.
| Division/Special Agent in Charge, New York.
United States Customs Service | Asst Commission for Internal Affairs.
| Associate Chief Counsel (Miami).
| Associate Chief Counsel (Chicago).
| Associate Chief Counsel (New York).
| Dir Ofc of Regulatory Audit.
| Special Agent in Charge, Miami.
| Associate Chief Counsel Enforcement.
| Assoc Chief Counsel (Trade Tariff and Leg).
| Associate Chief Counsel (Houston).
| Dir, Applied Technology.
| Special Agent In Charge—New York.
| Special Agent In Charge—Los Angeles.
| Deputy Assistant Commissioner, Human Resources.
| Deputy Assistant Commissioner, Internal Affairs.
| Regional Special Agent In Charge (SAIC).
| Regional Special Agent In Charge (SAIC).
| Regional Special Agent In Charge (SAIC).
| Deputy Assistant Commissioner, Office of Training and Development.
| Executive Director, Communications Management.
| Director, Asset Acquisition and Management.
| Executive Director, Labor and Employee Relations.
| Director, Office of Trade Compliance.
| Director, Field Operations, New York.
| Area Div, Newark.
| Dir Customs Management Center N Atlantic.
| Asst Commissioner, Field Operations.
| Asst Commissioner, Regulations and Rulings.
| Dir Strategic Trade Center Chicago.
| Deputy Asst Commissioner (Investigations).
| Assoc Chief Counsel (Administration).
| Associate Chief Counsel (Los Angeles).
| Area Director, JFK Airport.
| Asst Commissioner Chief Information Officer.
| Special Agent In Charge (New Orleans).
| Assistant Commissioner, Public Affairs.
| Port Director, Los Angeles International Airport.
| Executive Director, Equal Employment Program.
| Asst Coimmissioner, Investigations.
| Director Strategic Trade Center—Plantation.
| Dir Laboratories and Scientific Services.
| Project Executive.
| Deputy Assistant Commissioner, Field Operations.
| Director, Field Operations, El Paso.
| Director, Passenger Programs.
| Director, Field Operations—Houston.
| Executive Director, Field Programs.
| Exec Dir the Interdiction Committee.
| Assistant Commissioner, Finance.
| Executive Director, Mission Support Service.
| Dir Tariff Classification Appeals Division.
| Dir Strategic Trade Center Long Beach.
| Director, Field Operations—Miami.
| Deputy Assistant Commissioner, International Affairs.
| Director, US Customs Academy.
| Director, Terrorist Financial Investigations.
| Director, Ofc of Air Interdiction.
| Dir Customs Management Center—S California.
| Dir Office of Planning.
| Director, Strategic Trade Center Operations.
| Director, Intelligence and Communications Division.
| Director, Software Development.
| Director, Budget Division.
| Director Field Operations—Chicago.
| Executive Director, South West Border Coordination.
| Special Agent in Charge.
| Dir Customs Management Center South Pacific.
| Executive Director, Field Operations.
| Special Agent in Charge, Houston.
| Director, Administration Policy and Planning.
| Asst Commissioner, Strategic Trade.
| Special Agent in Charge, Chicago.
| Special Agent-In-Charge (San Diego).
| Director, Field Operations—W. Great Lakes.
| Special Agent in Charge—San Antonio.
| Asst Commissioner, Human Resources Mgmt.
| Regional Special Agent in Charge.
| Port Director, Miami.
| Director, Field Operations—Seattle.
| Associate Executive Director, East.
| Assistant Commissioner, Office of Training and Development.
| Director, Field Operations, Laredo.
| Director, Infrastructure Division.
| Director, Management Inspection.
| Executive Director, Investigation Programs.
| Associate Executive Director, Central.
| Deputy Chief Financial Officer.
| Special Agent in Charge—El Paso.
| Special Advisor (Enforcement).
| Director, Field Operations—Buffalo.
Secret Service | Director of the Secret Service.
| Deputy Director U.S. Secret Service.
| Asst Director, Investigations.
| Asst Dir (Protective Operations).
| Asst Dir (Protective Research).
| Assistant Director, Administration.
| Assistant Director, Inspection.
| Deputy Assistant Director, (Protective Operations).
| Spec Agent in Charge—Presidential Protective.
| Special Agent in Charge, New York Office.
| Special Agent in Charge, Chicago.
| Special Agent in Charge, Los Angeles Office.
| Deputy Assistant Director (Operations).
| Assistant Director—Training.
| Asst Director—Govt Liaison and Public Aff.
| Spec Agent in Charge—VP Protect Div.
| Spec Agent in Charge—Tech Sec Div.
| Spec Agent in Charge—Intelligence Div.
| Spec Agent in Charge—Washington Field Office.
| Spec Agent in Charge—Philadelphia Field Office.
| SPC Agent in Charge San Francisco Office.
| Special Agent in Charge, Dallas Field Office.
| Deputy Chief Counsel.
| Deputy Assistant Director, Government Liaison and Public Affairs.
| 2002 Winter Olympics Coordinator.
| Deputy Special Agent in Charge, Protective Operations (Tactical Operations).
| Deputy Asst Dir Investigations.
| DAD—Administration.
| Deputy Special Agent in Charge Pres Prot Div.
| DAD (Uniformed Forces, F and E Dev), Ofc Trng.
| Dep Special Agent in Charge—Ppd White House.
| Deputy Assistant Director Investigations.
| Special Agent in Charge—Houston Field Ofc.
| Deputy Assistant Director, Rowley Training Center.
| Special Agent in Charge, Paris.
| Deputy Assistant Director (Chief Technology Officer).
| Deputy Asst Director Office of Inspection.
| Spec Agent in Charge—Miami Field Office.
| Deputy Special Agent in Charge—VP Prot Div.
| Deputy Assistant Director Protective Operations.
| Chief, Information Resources Management Division.
| Deputy Assistant Director (Homeland Security).
| Spec Agent in Charge—Atlanta Field Office.
| Deputy Asst Dir Protective Operations.
| Special Agent in Charge.
Office of the Inspector General | Dep Asst Inspector Gen for Audit (Fin Mgmt).
| Dep Insp Gen Investigation (DAIGI).
| Counsel to the Inspector General.
| Assistant Inspector General for Management Services.
| Assistant Inspector General for Audit.
| Dep Asst Inspect General for Audit Prog Audit.
| Asst Inspector General for Investigations.
Office of the General Counsel | Chief Counsel.
Inspector General for Tax Administration | Deputy Associate Inspector General for Investigations.
| Assistant Inspector General for Management Services.
| Deputy Inspector General for Investigations.
| Assistant Inspector General for Audit (Hq Operations).
| Counsel to the Treasury Inspector General for Tax Administration.
| Assistant Inspector General for Audit (Wage and Investment).
| Assistant Inspector General for Audit (Small Business and Corporate Entities).
| Deputy Inspector General for Audit.
| Assistant Inspector General for Information Technology.
| Assistant Inspector General for Investigation (Investigative Support).
| Assistant Inspector General for Investigations (Field Operations).
Assistant Secretary (Economic Policy) | Sr Economist.
Assistant Secretary (Tax Policy) | Dir (Economic Mod and Computer Applications).
Assistant Secretary (Management) | Deputy Chief Financial Officer.
United States Mint | Associate Director, Information Resources/CIO.
| Associate Director for Circulating.
| Associate Director for Sales and Marketing.
| Assoc Dir for Pol and Mgmt, Chf Fin Officer.
Internal Revenue Service | Regional Commissioner, Southeast.
| District Dir, Los Angeles.
| District Dir, Manhattan.
| District Director, Georgia.
| Dir Martinsburg Computing Center.
| District Director, Ohio.
| Assistant District Director, N California.
| Chief EEO and Diversity.
| Director, Technical Contract Management Division.
| Director, Submission Processing Division.
| Director, Complaint Processing and Analysis Group.
| Assistant to the Commissioner.
| Director, Workforce Relations.
| Director of Research.
| Director, Compliance.
| Director of Compliance, Atlanta—W and I.
| Deputy Director, General Appeals.
| Area Director, Stakeholder, Partnership, Education and Communication.
| Project Director—BSMO.
| Compliance Services Field Director.
| Senior Advisor to the Commissioner.
| Director, Leadership and Organizational Development—NHQ.
| Director, National Customer Research Study.
| Deputy CFO Finance.
| Director, National Public Liaison.
| Special Agent in Charge, New York.
| Special Agent in Charge, Chicago.
| Deputy Director, Personnel Services.
| Project Director.
| Director, Field Operations—Fin Srvc and Healthcare.
| Director, Field Operations—Fin Srvc and Healthcare.
| Deputy Director, Strategy, Research and Program Planning.
| Director, Reporting Compliance—SBSE.
| Director, Centralized Workload Selection and Delivery—SBSE.
| Director, Compliance Los Angeles Area Office—SBSE.
| Director, Compliance New York Area Office—SBSE.
| Director, Human Resources—SBSE.
| Director, Filing and Payment Compliance—SBSE.
| Project Director.
| Director, Business Systems Planning.
| Accounts Management Field Director, Atlanta, W and I.
| Area Director, Field Assistance (San Francisco)—W and I.
| Director, Remote Shared Serviced Division.
| Transition Executive for Strategy, Criminal Investigation.
| Transition Executive for Operations, Criminal Investigation.
| Project Manager, Service Center Transition—W and I.
| Director, Competitive Sourcing.
| Commissioner, Tax Exempt and Government Entities Division.
| Director, Exempt Organizations Examinations.
| Director, Facilities Operations—AWSS.
| Director, Service Center Operations.
| Asst Deputy Commissioner (Modernization).
| Director, Customer Support—AWSS.
| Director, Compliance Area, Laguna Niguel—SBSE.
| Director, Retailors, Food and Pharmaceuticals.
| Project Director.
| Director, Taxpayer Education Area, Brooklyn—SBSE.
| Director, Compliance Area.
| Director, Taxpayer Education Area, Dallas—SBSE.
| Director of Field Operations (Central Area)—CID.
| Director, Quality Assurance and Performance Management.
| Director, Revenue Accounting.
| Project Director.
| Director, Tax Forms and Publications—W and I.
| Director, Legislative Affairs Division.
| Director, Statisctics of Income.
| Director, Electronic tax Administration—W and I.
| Submission Processing Field Director, Mephis.
| Director, Field Operations—Retailers, Food, and Pharmaceuticals.
| Deputy Division Commissioner, Large and Mid-Size Business.
| Director, Compliance Area, St. Paul—SBSE.
| Director, Government Entities.
| Director, Field Assistance Area (Greensboro) W and I.
| Director, Taxpayer Education Area, Nashville—SBSE.
| Compliance Service Field.
| Director, Management and Finance, SBSE.
| Division Information Officer—SBSE.
| Director, Criminal Investigation Modernization—CID.
| Special Agent in Charge, Los Angeles.
| Director, Field Assistance Area (Phoenix)—W and I.
| Director, Compliance Are, Denver—SBSE.
| Assistant District Director—New Jersey.
| Deputy Director, Strategic Human Resources.
| Project Director.
| Deputy Director, International.
| Director, Field Assistance Area, Hartford—W and I.
| Director, Compliance Services—SBSE.
| Privacy Advocate.
| Director, Taxpayer Education Area, Baltimore—SBSE
| Director, Enterprise Operations.
| District Director, Central California.
| National Director of Appeals.
| Director, Appeals—LMSB.
| Project Director, San Francisco—Appeals.
| Director of Support Services, Northeast.
| Chief Compliance.
| Asssistant Inspector General for Audit (Information Systems Programs).
| Area Director of Information Technology—Western
| Compliance Services Field Director.
| Dir of Investigations, Central Area of OPS.
| Deputy Executive Officer for Customer Service.
| Chief Communications and Liaison.
| Special Assistant to Chief, Management and Finance.
| Director of Procurement.
| Dean School of Information Technology.
| Project Director.
| Director, Tax Administration Modernization.
| Accounts Management Field Director—Fresno, W and I.
| Director, Strategic Planning—Spec, W and I.
| Director, Reporting Compliance.
| Assistant Deputy Director Compliance Field Operations.
| Director, Strategy Research, and Program Planning-LMSB.
| Director, Taxpayer Education Area, Cincinnati—SBSE.
| Director, Strategy, Research and Performance Management.
| Director, Customer Applications Development Management Division.
| Deputy Commissioner (Operations).
| Director, Compliance Area, Baltimore—SBSE.
| Director, Field Operations—Retailers, Food and Pharm.
| Director, Stakeholder, Partnership, Education and Communication—W and I.
| Director, Employee Plans.
| Director, Electronic Crimes Program Officer.
| Deputy National Taxpayer Advocate.
| Project Director, Joint Transition Planning Team Leader.
| Director, learning and Education.
| Chief, Criminal Investigation.
| Director, Systems Engineering and Integration—BSMO.
| Director, Statistics of Income.
| Area Director, Spec—Hrtford—W and I.
| Director of Research, W and I.
| Natl Dir, Submission Processing Division.
| Director, Field Assistance—W and I.
| Director, Submission Processing (Cincinnatti)—W and I
| Area Director, Partnership, Education and Communication
| Director, Submission Processing Center, Fresno.
| Accounts Management Field Director, Brookhaven.
| Accounts Management Field Director, Cincinnati.
| Accounts Management Fidle Director—Odgen.
| Accounts Management Field Director, Austion—W ANDI
| Area Director Information System Technology (Southeast).
| Deputy Chief, Appeals.
| Deputy Director, Management and Finance, SBSE.
| Area Director, Stakeholder Partnership Education and Communication.
| Director, Systems Support Division.
| Compliance Services Field Director.
| Executive Director, Modernization Design.
| Director, Field Operations.
| Director, Field Operations.
| Director, Compliance Are—Detroit—SBSE.
| Director, of Field Operations (Miid-Atlantic Area).
| Project Director.
| Director, Compliance Area, Chicago—SBSE.
| Director, Exam, Strategy and Selection—W and I.
| Deputy Director, Field Specialists—LMSB.
| Submission Processing Field Director—Fresno, CA
| Project Director.
| Area Director of Information Technology, NE.
| Director, Compliance Area, Oakland—SBSE.
| Deputy Director, End User Equipment & services.
| Director, Operations Policy and Support—CID.
| Director, Tennessee Computing Center.
| Director of Field Operations (Pacific Area)—CID.
| Director, Refund Crimes.
| Director, Strategy—CID.
| Deputy Chief, Criminal Investigation.
| Associate Director, Facilities Operations.
| Director, Regional Commissioner, Midstates.
| District Director, S Florida.
| project Director.
| Director, Natural Resources Industry—LMSB.
| Director, product Assurance Division.
| Director, Compliancd Area, Philadelphia—SBSE.
| Director, Field Operations, Communications, Technology and Media, LMSB.
| Director, Deputy Director, Compliance Services—Small Business.
| Director, Program and Prject Management Division.
| Dep Chief Info Officer (Info Resources Mgmt).
| Director, Field Assistance Are, Indianapolis—W and I.
| Director, Submission Processing Center—Austin.
| Director, Field Operations (Natural Resources), Houston.
| Director of Field Operations (Midstates Area)—CID.
| Assistant Commissioner (Customer Service).
| National Director, Strategic Planning and Client Services.
| Project Director, BSMO.
| Dean School of Taxation.
| Director, Program Analysis Customer Account Services—W and I.
| Director, Field Operations—Heavy Manufacturing, Construction, and Transportation.
| Deputy Associate Commissioner for Program Management.
| Director, Learning and Education.
| Director, Internal Management Systems Development Division.
| Director, Office of Program Eval and Risk Analysis.
| Director, Field Assistance Area.
| Project Director.
| Director, Communications.
| Project Director.
| Director, Business Systems Planning—LMSB.
| Deputy Director, Prefiling and Technical Guidance.
| Director, Compliance Area, Jacksonville—SBSE.
| Director, Taxpayer Education Area, Denver—SBSE.
| Dir Office of System Standards and Evaluation.
| District Director, S California.
| Accounts Management Field Director.
| Director of Field Operations, North Atlantic Area—CID.
| Director, Data Management Modernization.
| Director, Field Operations (Heavy Manufacturing), Laguna Niguel.
| Director, Strategy, Research and Performance Management, SBSE.
| Deputy Chief, Management and Finance.
| Project Director.
| Director, Field Operations, Spec—Wandi.
| Director Customer Account Services, SBSE.
| Director of Field Operations—CID, N. Atlantic.
| Director, Program Filing and Payment Compliance—SBSE.
| Project Director.
| Project Director—LMSB.
| Project Director.
| Project Director, CIO.
| Director, Infrastructure Modernization Project Office.
| Director, Program and Project Coordination.
| Director, General Appeals.
| Director, Field Assistance Area, St. Louis—W and I.
| Director, Case Management—SBSE.
| Project Director.
| Director, Cyber Security Operations.
| Accounts Management Field Director—Andover.
| Project Director.
| Submission Processing Field Director.
| Director, Field Assistance Area, New Orleans, Wandi.
| Deputy Chief Information Officer (Systems).
| Director, Employee Plans Examination.
| National Dir, Collection Field Operations.
| Compliance Service Field Director—Atlanta.
| Submission Processing Field Director—Philadelphia.
| Director, Compliance—W and I.
| Director, Field Operations.
| Director, Business Systems Planning—LMSB.
| Project Director.
| Director, Field Operations—Heavy Manufacturing.
| Director, Communication, Assistance, Research and Education.
| Director, Compliance Area, Nashville—SBSE.
| Submission Processing Field Director, Austin—W and I.
| Submission Processing Field Director—Brookhaven.
| Accounts Management Field Dir, Kansas City—Wandi.
| Regional Commissioner, Western.
| Director, Corporate Processing Division.
| Director, Application, Analysis and Programming—OITS.
| Asst to the Senior Dep Commissioner.
| Director, Strategic Human Resources.
| Director, Tax Exempt Bonds.
| Director, Facilities Operations.
| Director, Submission Processing/ETA Systems Division.
| Director, Human Resources, Wages and Investment.
| Director, Financial Services and Healthcare Industry.
| Director, Strategy and Finance—W and I.
| Director, Appeals—SB/SE and TE/GE.
| Deputy Commissioner, Small Business/Self Employed Division.
| Deputy Director, Taxpayer Education and Communication, SBSE.
| Deputy Program Executive for Organizational Performance Management.
| Deputy Division Commissioner, Tax Exempt and Government Entities.
| Deputy Director, Procurement.
| Deputy CIO (Operations).
| Director, Exempt Organizations.
| Deputy Director, Accounts Management.
| Director, Case Management, SBSE.
| Deputy Director, Submission Processing.
| District Director, South Texas.
| Director, Compliance Services.
| Director, Office of Security Evaluation and Oversight.
| Director, Administrative Accounting.
| Deputy Asst Commissioner (International).
| Director, Business Systems Planning.
| Director, Business Systems Development—OITS.
| Project Director.
| Director, Internal Management Modernization.
| Director, Pre-Filing and Technical Guidance—LMSB.
| Deputy Director, Compliance, SBSE.
| Director, Business Systems Requirements.
| Director, Compliance, SBSE.
| Deputy Director, Appeals.
| Deputy Director, Pre-Filing and Technical Guidance.
| Director, Collection Strategy—Wandi.
| Director, Strategy and Finance.
| Director, Electronic Program Operations—Wandi.
| Director, Research, Analysis and Statistics of Income.
| Executive Director Modernization Design.
| Project Director, BSMO.
| Director, Office of Tax Administration.
| Submission Processing Field Director-Ogden, SB/SE.
| Project Director.
| Director, Martinsburg Computing Center.
| Chief, Security Services.
| Project Director.
| Transition Executive for Shared Services.
| Director, Finance and Administrative System Division—CIO.
| Director, Filing Systems Division.
| Project Director.
| Project Director.
| Deputy Director, Systems Development.
| Project Director—SBSE.
| Compliance Service Field Director—Philadelphia.
| Director, Compliance Area, Baltimore—SBSE.
| Director, Management and Support.
| Director, Enterprise Systems and Asset Management.
| Director, Field Assistance Area.
| Submission Processing Field Director—Atlanta.
| Submission Processing Field Director—Austin.
| Director, Mission Assurance.
| Director, Release Management.
| Director, Heavy Manufacturing, Transportation and Construction Industry.
| Director, Multimedia—W and I.
| Director, Strategic Planning and Program Management.
| Director, Accounts Management—W and I.
| Deputy Associate Commissioner, Systems Integration—BSMO.
| Director, Compliance Area.
| Area Director, Spec, Dallas—W and I.
| Director, Product Assurance.
| Chief, Management and Finance, LMSB.
| Director, Safety and Security.
| Accounts Management Field Director—Memphis.
| Modernization Team Executive.
| Chief Financial Officer.
| Deputy Director, Business Systems Development Division.
| Chief, Compliance, Western.
| Director, Personnel Policy.
| Director, Field Specialists—LMSB.
| Deputy Chief Operations.
| Director, Customer Account Manager (CAM).
| Director, Real Estate and Facilities Management.
| Director, Field Operations (Financial Services), Laguna Nigules.
| Submission Processing Field Director—Cincinnati.
| Deputy Director, Enterprise Operations Services.
| Director of Field Operations, New York—LMSB.
| Compliance Service Field Director, Ogden—W and I.
| Director, Exempt Organizations, Rulings and Agreements.
| Project Director—Appeals.
| Program Executive for Organization Performance Management.
| Director, Procurement.
| Chief Information Technology Services.
| Deputy Director, Business Systems Modernization.
| Director, Professional Responsibility.
| Project Director.
| Project Director.
| Director, Security Policy, Support and Oversight.
| Associate CFO for Internal Financial Management—NHQ.
| Executive Director Modernization Design.
| Director, Taxpayer Education and Communication Area, St Louis—SBSE.
| Project Director.
| Director, Compliance Area—Denver, SB/SE.
| Deputy Director, Strategic Planning and Client Services—IS.
| Director, Compliance Area, Dallas—SBSE.
| Director, Personnel Services.
| Director, Pre-Filing and Technical Guidance.
| Compliance Service, Field Diretor—Atlanta.
| Commissioner Wage and Investment Division.
| Deputy CFO, Strategic Planning and Budget.
| Director, Strategic Services.
| Director, Research and Management System Division—CIO.
| Project Director.
| Senior Counselor to the Commissioner (Tax Administration, Practice and Professional Responsibility)
| Deputy Associate Commissioner Business Integration.
| Electronic Tax Administration Modernization Executive
| Director, Compliance Area.
| Director, Communications, Technology and Media Industry, LMSB.
| Executive Director, Systematic Advocacy—NTA.
| Division Information Officer—LMSB.
| Director, Corporate Systems Division.
| Compliance Service Field Director—Andover, W and I.
| Director, Human Resource Policy and Programs, IS
| Director, Detroit Computing Center.
| Director, Systems Division.
| Director, Media and Publications.
| Director, Customer Account Services, W and I.
| Project Director—W and I.
| Compliance Service Field Director—Kansas City.
| Deputy Director, Submission Processing—Cincinnati—Small Business.
| Project Director.
| Director, Portfolio Management, OITS.
| Deputy Chief, Agencywide Shared Services.
| Deputy Director, Procurement.
| Director, Telecommunications.
| Director, Electronic Program Enhancement—W and I.
| Accounts Management Field Director.
| Director, Speciality Tax and Technical Support—SBSE.
| Director, Business Systems Planning—SBSE.
| Director, Compliance—Detroit—SBSE.
| Area Director, Stakeholder, Partnership, Education and Communications—New Orleans.
| Director, Taxpayer Education Area, Chicago—SBSE.
| Director, Financial Policy, Planning and Programs—BSMO.
| Director, EEO and Diversity.
| Director, Compliance Systems Division.
| Assistant Deputy Commissioner.
| Director, Internet Development Services.
| Director, Corporate Data & Systems Management Division.
| Director, Human Resources, Administration and Servicewide Edu.
| Director, Taxpayer Education and Community, SBSE.
| Director, Field Operations, NY-LMSB.
| Submission Processing Field Director—Andover.
| Accounts Management Field Director, Fresno.
| Director, Enterprise operations—Oits.
| Director, Development Services.
| Project Director.
| Director, Performance, Quality and Innovation—LMSB.
| Director, Strategic Planning.
| Director, Budget Policy Planning and Programs.
| Director of Field Operations (Southeast Area) CID.
| Director, Management Services.
| Industry Director—Financial Services—LMSB
| Director, Enterprise Operations Services.
| Associate Cfo for Corporate Strategy.
| Director, Strategic Planning and Budget Division.
| Division Information Officer (Wage and Investment).
| Director, Strategy, Research and Performance Management.
Internal Revenue Service Chief Counsel | Regional Counsel SE Region.
| District Counsel, New England.
| District Counsel, Ohio.
| District Counsel, New Jersey.
| District Counsel, S Florida.
| Assistant Chief Counsel (International) (Litigation).
| Dep Asst Chf Coun (Income Tax and Accounting).
| Assistant Chief Counsel (Collection, Bankruptcy and Summonses).
| Regional Counsel Midstates.
| Division Counsel (Wage and Investment).
| Dep DIV Counsel/Dep Asst Chief Counsel (Criminal Tax).
| Deputy Associate Chief Counsel (General Legal Services).
| Assistant Chief Counsel (Disclosure and Privacy Law).
| Dep Asst Chief Coun (Financial Inst and Prod).
| Area Counsel (SBSE) (Area 7).
| Area Counsel (SBSE)—Los Angeles.
| Deputy Associate Chief Counsel (GLS) (Labor and Personnel Law).
| Area Counsel (SBSE)—Philadelphia.
| Deputy Assoc Chief Counsel (International).
| Area Counsel (SBSE)—Chicago.
| Area Counsel (SBSE)—New York.
| Deputy Division Counsel # 1 (SBSE).
| Division Counsel (Large and Mid-Size Business).
| Division Counsel (Small Business/Self Employed).
| Deputy Associate Chief Counsel (Corporate).
| Asst Chf Coun (Fin Institutions and Products).
| Area Counsel (Large and Mid-Size Business) (Area 1) (Financial Services and Health Care.
| Deputy Associate Chief Counsel #2 (Passthroughs and Special Industries).
| Associate Chief Counsel (Procedure and Administration).
| Associate Chief Counsel (Passthroughs and Special Industries).
| Associate Chief Counsel (Corporate).
| Deputy Division Counsel #2 (Small Business/Self Employed).
| Deputy Associate Chief Counsel (Finance and Management).
| Deputy Associate Chief Counsel #1 (ITA).
| Area Counsel (LMSB) (Area 2) (Heavy Manufacturing, Construction and Transportation.
| Special Counsel to the National Taxpayer Advocate.
| Assistant Chief Counsel (International) (Technical).
| Associate Chief Counsel (General Legal Services).
| Assoc Chief Counsel (Enforcement Litigation).
| Area Counsel (LMSB) (Area 5) (Communications Technology, and Media).
| Assistant Chief Counsel (Administrative Provisions and Judicial Practice).
| Area Counsel (SBSE)—Jacksonville.
| Assistant Chief Counsel (Employee Benefits).
| Deputy Associate Chief Counsel (Procedure and Administration).
| Deputy Associate Chief Counsel (Strategic International Programs).
| Deputy Division Counsel (Large and Mid-Size Business).
| Deputy Chief Counsel (Technical).
| Area Counsel (SBSE)—Dallas.
| Deputy Associate Chief Counsel #2 (Income Tax and Accounting).
| Deputy Division Counsel and Deputy Associate Chief Counsel (Tax Exempt and Government Entities).
| Area Counsel, LMSB (Area 3) (Food, Mass Retailers, And Pharmaceuticals).
| Associate Chief Counsel (International).
| Assoc Chf Counsel (Finance and Management).
| Deputy Associate Chief Counsel (Financial Institutions and Products).
| Associate Chief Counsel/Operating Division Counsel (TEGE).
| Dep Assoc Chief Coun (Domestic) (Field Serv).
| Deputy Chief Counsel (Operations).
| Assistant Chief Counsel (EO/ET/GE).
| Associate Chief Counsel (Income Tax and Accounting).
| Area Counsel (LMSB) (Area 4) (Natural Resources).
| Area Counsel (SBSE)—Denver.
| Deputy Associate Chief Counsel #1 (Passthroughs and Special Industries).
| Division Counsel/Associate Chief Counsel (Criminal Tax).
United States Agency for International Development:
Office of the Administrator | Counselor to the Agency.
Office of the General Counsel | Deputy General Counsel.
| Asst General Counsel for Ethics and Adm.
Office of the Inspector General | Assistant Inspector General for Management.
| Deputy Assistant Inspector General for Audit.
| Counsel to the Inspector General.
| Deputy Inspector General.
Office of Security | Director, Office of Security.
Office of Equal Opportunity Programs | Dir Ofc of Equal Opportunity Programs.
Bureau for Global Programs, Field Support and Research | Assoc Asst Admr Center for Economic Growth.
| Senior Deputy Assistant Administrator
| Deputy Assistant Administrator, Ctr for Pop, Health, Nutr.
| Associate Assistant Administrator.
Bureau for Europe and Eurasia | Deputy Asst Administrator.
Bureau for Management | Chf Fin Ofcr, Office of Financial Management.
| Dir Office of Information Resource Management.
| Deputy Director Ofc of Procurement.
| Deputy Director, Office of Human Resources
| Dir, Ofc of Admin Services.
| Deputy Director, Ofc of Procurement.
| Deputy Asst Admr Bureau for Management.
| Deputy Director, Office of Financial Management.
United States International Trade Commission:
Office of Industries | Dir Ofc of Industries.
Office of Investigations | Dir, Ofc of Investigations.
Department of Veterans Affairs:
Office of the Secretary and Deputy | Director, Office of EDCA.
Office of the Inspector General | Assistant Inspector General for Auditing.
| Asst Inspector General for Investigations.
| Dep Inspector General.
| Asst Inspector Gen for Dept Rev and Magnt Sup.
| Dep Asst Inspector General for Investigations.
| Counselor to the Inspector General.
| Asst Inspector General for Heathcare Inspect.
| Dep Asst Inspector General for Auditing.
| Deputy Assistant Inspector General for Healthcare Inspections.
| Deputy Assistant Inspector General for Management and Administration.
| Director of Medical Consultation and Review.
| Associate Director of Medical Consultation and Review.
Board of Veterans Appeals | Vice Chairman.
Office of the General Counsel | Regional Counsel.
| Regional Counsel.
| Regional Counsel.
| Regional Counsel.
| Regional Counsel.
| Regional Counsel.
Office Assistant Secretary for Management | Principal Deputy Assistant Secretary for Management.
| COREFLS Project Director.
Office of Finance | Deputy Assistant Secretary for Finance.
| Assoc Deputy Assistant Secretary for Financial Operations.
| Director, Financial Services Center.
Office of Acquisition and Materiel Management | Deputy Assistant Secretary for Acquisition and Materiel Mgmt.
| Assoc Dep Assistant Secy for Acquisitions.
| Assoc Deputy Assistant Secretary for Prog Mgmt and Oper.
| Executive Director/Chief Operating Officer.
Office of Asset Enterprise Management | Deputy Director, Asset Enterprise Management.
Office Assistant Secretary for Policy and Planning | Chief Acturary.
Office of Human Resources Management | Assoc Deputy Assistant Secretary for Human Res Management.
| Assoc Deputy Assistant Secretary for Human Res Management.
Office of Security and Law Enforcement | Deputy Assistant Secretary for Security and Law Enforcement.
Office Asst Secretary for Information and Technology | Dir, VA Automation Ctr, Austin, TX.
| Assoc Deputy Assistant Secretary for Telecommunications.
| Assoc Deputy Assistant Secretary for Pol and Prog Assistance.
| Associate Deputy Assistant Secretary for Cyber Security
National Cemetery Administration | Director, Office of Finance and Planning.
| Director, Office of Construction Management.
Veterans Benefits Administration | Deputy Chief Financial Officer.
| Deputy Director Compensation and Pension Service.
| Chief Financial Officer.
Veterans Health Administration | ACFO for Revenue.
| Chief Financial Officer.
| Associate Chief Financial Officer for Compliance.
| Deputy Chief Financial Officer.
| Associate Chief Facilities Management Officer for Strategic Manaagement.
| Associate Chief Facilities Management Officer for Service Delivery.
| Associate Chief Facilities Management Officer for Resource Management.
| Chief Operating Officer.
| Financial Manager.
| Logistics Management Officer.
| ACIO Implementation and Training Services.
| ACFO for Corefinancial and Logistics System and Direction Support Systems.
Veterans Integrated Service Network Directors | Dir Canteen Service.

[FR Doc. 03-5537 Filed 3-4-03; 4:34 pm]

BILLING CODE 6325-42-M